GENERAL SERVICES ADMINISTRATION

41 CFR Parts 300-2, 300-3, 300-70 and Ch. 302

[FTR Amendment 98]

RIN 3090-AG93

Federal Travel Regulation; Relocation Allowances

AGENCY: Office of Governmentwide Policy, GSA.

ACTION: Final rule.

SUMMARY: This final rule amends the Federal Travel Regulation (FTR) for relocation allowances. This amendment is written in plain language using a question and answer format in continuation of the General Services Administration's (GSA's) effort to make the FTR easier to understand and to use. These changes provide greater flexibility for agencies to authorize and approve relocation expenses.

EFFECTIVE DATE: This final rule is effective February 19, 2002.

FOR FURTHER INFORMATON CONTACT: Jim Harte, Travel Management Policy, telephone (202) 501-1538.

SUPPLEMENTARY INFORMATION:

A. Background

This amendment is written in “plain language” as a continuation of the General Services Administration's (GSA) effort to make the FTR easier to understand and use.

What Is the “Plain Language” Style of Regulation Writing?

The “plain language” style of regulation writing is a new, simpler to read and understand, question and answer regulatory format. Questions are in the first person, and answers are in the second person. GSA uses a “we” question when referring to an agency, and an “I” question when referring to the employee. However, the rules stated in either instance apply to both the agency and the employee.

What Are the Significant Changes?

1. Part 300-3, Glossary of Terms, is amended by adding new terms and revises the definition of household goods (HHG) by removing the exclusion of small boats and adding ultra light vehicles.

2. Section 300-70.2 is amended to require agencies to report the administrative cost associated with their processing of travel authorizations and travel vouchers. This requirement is necessary to substantiate administrative cost savings associated with the JFMIP recommendations to simplify and streamline the entire travel process from start to finish.

3. Part 302-1, Applicability, General Rules and Eligibility Conditions, is designated and renumbered Part 302-1, General Rules.

4. Part 302-2, Allowances for Subsistence and Transportation, is designated Part 302-2, Employee Eligibility Requirements.

5. Section 302-2.6 increases the mileage distance for a short-distance relocation requirement from 10 miles to 50 miles.

6. Section 302-2.11 increases the maximum length of time for which agencies are authorized to extend the eligibility period for employees to incur reimbursable relocation expenses from one year to two years.

7. Part 302-3, Allowances for Miscellaneous Expenses, becomes part 302-16.

8. Section 302-4.201 revises the computation of en route per diem for relocation travel by eliminating the one-fourth of the prescribed per diem rate for each one-fourth of the prescribed minimum driving distance and replacing it with the same per diem rate prescribed for temporary duty travel-75% of the applicable M&IE allowance for the first day of travel and last day of travel.

9. Sections 302-16.12(a) and (b) are revised to increase the miscellaneous expense flat rate allowances from $350 to $500 for an employee without immediate family and from $700 to $1000 for an employee with immediate family.

10. Part 302-4, Allowance for Househunting Trip Expenses, is redesignated as part 302-5 and remains unchanged except for references and by adding a new question 302-5.18 which clarifies that any balance, after expenses incurred, under fixed amount reimbursement belongs to the employee.

11. Part 302-5, Allowances for Temporary Quarters Subsistence Expenses, is redesignated as part 302-6 and remains unchanged except for references and by adding a new question 302-6.203 which clarifies that any balance, after expenses incurred under fixed amount reimbursement belongs to the employee.

12. Section 302-6.12 corrects cross references.

13. Section 302-6.4(b) increases the mileage distance from 40 to 50 miles, via a usually traveled surface route, for the authorization of temporary quarters subsistence expense allowance.

14. Section 302-6.104 is revised to allows agency flexibility to authorize TQSE in less than 30-day increments.

15. Part 302-6, Allowances for Expenses Incurred in Connection with Residence Transaction, is redesignated as part 302-11.

16. Part 302-7, Transportation of Mobile Home, is redesignated as part 302-10.

17. Part 302-8, Transportation and Temporary Storage of Household Goods and Professional Books, Papers and Equipment, is redesignated as part 302-7.

18. New § 302-7.303 is added to authorize the shipment of professional books, papers and equipment (PBP&E) from an OCONUS location upon returning to CONUS for separation from the OCONUS assignment, provided that the PBP&E was transported to the OCONUS location at the expense of the Government.

19. Part 302-9, Allowances for Nontemporary Storage of Household Goods, is redesignated as part 302-8 and the term “Nontemporary Storage” is revised to read “Extended Storage”.

20. Part 302-10, Allowances for Transportation and Emergency Storage of a Privately Owned Vehicle, is redesignated as part 302-9 and remains unchanged except for references.

21. Part 302-11, Relocation Income Tax (RIT) Allowance, is redesignated as part 302-17 and remains as it currently appears in the CFR, except that only the latest published RIT allowance tables appear in Appendices A, B, C, and D.

22. Subparts A and B of part 302-12 are reversed and renumbered accordingly. The part designation and text remain the same.

23. Part 302-13 is reserved.

24. Part 302-14, Home Marketing Incentive Payments, remains as it currently appears in the CFR.

25. Part 302-15, Allowances for Property Management Services, remains as it currently appears in the CFR.

26. The term “nontemporary storage” in sections 302-17.3(c): 302-17.4(c); and 302-17.7(b) is revised to read “extended storage”.

27. Part 302-11 (redesignated as part 302-17, Relocation Income Tax (RIT) Allowance) has not been rewritten and remains as it currently appears in the CFR. The part is currently under review by the Internal Revenue Service.

The following redesignation table is provided for the convenience of the reader:

Old part | New part
302-1 | 302-1 & 302-2
302-1, Subparts A, B & C | 302-3
302-2 | 302-4
302-3 | 302-16
302-4 | 302-5
302-5 | 302-6
302-6 | 302-11
302-7 | 302-10
302-8 | 302-7
302-9 | 302-8
302-10 | 302-9
302-11 | 302-17
302-12 | 302-12
302-14 | 302-14
302-15 | 302-15

B. Regulatory Flexibility Act

This final rule is not required to be published in the Federal Register for notice and comment. Therefore, the Regulatory Flexibility Act does not apply.

C. Executive Order 12866

GSA has determined that this rule is not a significant regulatory action for the purposes of Executive Order 12866 of September 30, 1993.

D. Paperwork Reduction Act

The Paperwork Reduction Act does not apply because this final rule does not impose recordkeeping or information collection requirements, or the collection of information from offerors, contractors, or members of the public which require the approval of the Office of Management and Budget under 44 U.S.C. 501 et seq.

E. Small Business Regulatory Enforcement Fairness Act

This rule also is exempt from Congressional review prescribed under 5 U.S.C. 801 since it relates solely to agency management and personnel.

List of Subjects in 41 CFR Chapters 300 and 302

Government employees, Entitlements and transfers, Relocation allowances, Travel and transportation expenses.

For the reasons set forth in the preamble, 41 CFR Ch. 300 is amended and Ch. 302 is revised as follows:

CHAPTER 300—[AMENDED]

PART 300-2—HOW TO USE THE FTR

1. The authority citation for 41 CFR part 300-2 continues to read as follows:

Authority: 5 U.S.C. 5707; 5 U.S.C. 5738; 5 U.S.C. 5741-5742; 20 U.S.C. 905(a); 31 U.S.C. 1353; 40 U.S.C. 486(c); 49 U.S.C. 40118; E.O. 11609, 3 CFR, 1971-1975 Comp., p. 586.

2. Section 300-2.22 is amended by revising the table to read as follows:

§ 300-2.22 Who is subject to the FTR?

* * * * *

For | The employee provisions are contained in | And the agency provisions are contained in
Chapter 301 | Subchapters A, B, and C | Subchapter D.
Chapter 302 | Subparts A, B, C, D, E, F, and G | Subparts A, B, C, D, E, F and G.
Chapter 303 | N/A | Subparts A, B, C, D, E and F.

Part 300-3—GLOSSARY OF TERMS

3. The authority citation for 41 CFR part 300-3 continues to read as follows:

Authority: 5 U.S.C. 5707; 5 U.S.C. 5738, 5 U.S.C. 5741-5742; 20 U.S.C. 905(a); 31 U.S.C. 1353; 40 U.S.C. 486(c); 49 U.S.C. 40118; E.O. 11609, 3 CFR, 1971-1975 Comp., p. 586.

4. Section 300-3.1 is amended by adding in alphabetical order the following definitions:

§ 300-3.1 What do the following terms mean?

* * * * *

Agency—For purposes of chapter 302 agency means:

(1) An executive agency as defined in Title 5 U.S.C. 105 (an executive department an independent, establishment, the General Accounting Office, or a wholly owned Government corporation as defined in section 101 of the Government Corporation Control Act, as amended (31 U.S.C. 9101), but excluding a Government controlled corporation);

(2) A military department;

(3) A court of the United States;

(4) The Administrative Office of the United States Courts;

(5) The Federal Judicial Center;

(6) The Library of Congress;

(7) The United States Botanic Garden;

(8) The Government Printing Office; and

(9) The District of Columbia.

* * * * *

Commuted Rate—A price rate used to calculate a set amount to be paid to an employee for the transportation and temporary storage of his/her household goods. It includes cost of line-haul transportation, packing/unpacking, crating/uncrating, drayage incident to transportation and other accessorial charges and costs of temporary storage within applicable weight limit for storage including handling in/out charges and necessary drayage.

* * * * *

Extended Storage—Storage of household goods while an employee is assigned to an official station or post of duty to which he/she is not authorized to take or unable to use the household goods or is authorized in the public interest. Also referred to as nontemporary storage.

* * * * *

Household Goods (HHG)—Property, unless specifically excluded, associated with the home and all personal effects belonging to an employee and immediate family members on the effective date of the employee's change of official station orders (the day the employee reports for duty at the new official station) that legally may be accepted and transported by a commercial HHG carrier.

(1) HHG also includes:

(i) Professional Books, papers and equipment (PBP&E);

(ii) Spare parts of a POV (see definition of POV) and a pickup truck tailgate when removed);

(iii) Integral or attached vehicle parts that must be removed due to high vulnerability to pilferage or damage, (e.g., seats, tops, wench, spare tire, portable auxiliary gasoline can(s) and miscellaneous associated hardware);

(iv) Consumable goods for employees assigned to locations where the Department of State has determined that such goods are necessary;

(v) Vehicles other than POVs (such as motorcycles, mopeds, jet skies, snowmobiles, golf carts, boats that can be transported in the moving van (e.g., canoe, kayak, rowboat, O/I motorboat (14 ft or less)).

(vi) Ultralight Vehicles (defined in 14 CFR part 103 as being single occupant, for recreation or sport purposes, weighing less than 155 pounds if unpowered or less than 254 pounds if powered, having a fuel capacity NTE 5 gallons, airspeed NTE 55 knots, and power-off stall speed NTE 24 knots.

(2) HHG does not include:

(i) Personal baggage when carried free on tickets;

(ii) Automobiles, trucks, vans and similar motor vehicles, mobile homes, camper trailers, and farming vehicles;

(iii) Live animals including birds, fish, reptiles;

(iv) Cordwood and building materials;

(v) HHG for resale, disposal or commercial use rather than for use by employee and immediate family members;

(vi) Privately owned live ammunition; and

(vii) Propane gas tanks.

(3) Federal, State and local laws or carrier regulations may prohibit commercial shipment of certain articles not included in paragraph (2) of this definition. These articles frequently include:

(i) Property liable to impregnate or otherwise damage equipment or other property (e.g., hazardous articles including explosives, flammable and corrosive material, poisons);

(ii) Articles that cannot be taken from the premises without damage to the article or premises;

(iii) Perishable articles (including frozen foods) articles requiring refrigeration, or perishable plants unless;

(a) Shipment is to be transported not more than 150 miles and/or delivery accomplished within 24 hours from the time of loading,

(b) No storage is required, and

(c) No preliminary or en route services (e.g., watering or other preservative method) is required of the carrier.

* * * * *

Mobile Home—Any type of house trailer or mobile dwelling constructed for use as a residence and designed to be moved overland, either by self-propulsion or towing. Also, a boat (houseboat, yacht, sailboat, etc.) when used as the employee's primary residence.

* * * * *

Professional Books, Papers and Equipment (PBP&E)—Includes, but is not limited to, the following items in the employee's possession when needed by the employee in the performance of his/her official duties:

(1) Reference material;

(2) Instruments, tools, and equipment peculiar to technicians, mechanics and members of the professions;

(3) Specialized clothing (e.g., diving suits, flying suits, helmets, band uniforms, religious vestments and other special apparel); and

(4) Communications equipment used by the employee in association with the MARS (see DoD 4650.2, Military Affiliate Radio System (MARS) which is available electronically from the world wide web at http://web7.whs.osd.mil).

* * * * *

Temporary Storage—Storage of HHG for a limited period of time at origin, destination or en route in connection with transportation to, from, or between official station or post of duty or authorized alternate points. Also referred to as storage in transit (SIT).

PART 300-70—AGENCY REPORTING REQUIREMENTS

5. The authority citation for 41 CFR part 300-70 continues to read as follows:

Authority: 5 U.S.C. 5707; 5 U.S.C. 5738, 5 U.S.C. 5741-5742; 20 U.S.C. 905(a); 31 U.S.C. 1353; 40 U.S.C. 486(c); 49 U.S.C. 40118; E.O. 11609, 3 CFR, 1971-1975 Comp., p. 586.

5A. Section 300-70.2 is amended by removing the word “and” after paragraph (d), redesignating paragraph (e) as (f) and adding a new paragraph (e) to read as follows:

§ 300-70.2 What information must we report?

* * * * *

(e) The estimated cost of administrating your agency's processing of travel authorizations and travel vouchers; and

* * * * *

6. Chapter 302 is revised as follows:

CHAPTER 302—RELOCATION ALLOWANCES

Subchapter A—Introduction

Part
302-1 General rules
302-2 Employee eligibility requirements
Subchapter B—Relocation Allowances
302-3 Relocation allowance by specific type
Subchapter C—Permanent Change of Station (PCS) Allowances for Subsistence and Transportation Expenses
302-4 Allowances for subsistence and transportation
302-5 Allowance for househunting trip expenses
302-6 Allowance for temporary quarters subsistence expenses
Subchapter D—Transportation and Storage of Property
302-7 Transportation and temporary storage of household goods and professional books, papers, and equipment
302-8 Allowances for extended storage of household goods (HHG)
302-9 Allowances for transportation and emergency storage of a privately owned vehicle
302-10 Allowances for transportation of mobile homes and boats used as a primary residence
Subchapter E—Residence Transaction Allowances
302-11 Allowances for expenses incurred in connection with residence transactions
302-12 Use of a relocation services company
302-14 Home marketing incentive payments
302-15 Allowance for property management services
Subchapter F—Miscellaneous Allowances
302-16 Allowance for miscellaneous expenses
302-17 Relocation income taxation

Subchapter A—Introduction

PART 302-1—GENERAL RULES

Subpart A—Applicability

Sec.

302-1.1 Who is eligible for relocation expense allowances under this chapter?

302-1.2 Who is not eligible for relocation expense allowances under this chapter?

Subpart B—[Reserved]

Authority: 5 U.S.C. 5738; 20 U.S.C. 905(a).

Subpart A—Applicability

Note to subpart A: Use of pronouns “I”, “you”, and their variants throughout this subpart refers to the employee.

§ 302-1.1 Who is eligible for relocation expense allowances under this chapter?

You are generally eligible for relocation expense allowances under this chapter if you are:

(a) A new appointee appointed to your first official duty station (as discussed in this chapter);

(b) An employee transferring in the interest of the Government from one agency or duty station to another for permanent duty, and your new duty station is at least 50 miles distant from your old duty station (see § 302-2.6 of this chapter);

(c) An employee of the United States Postal Service transferred for permanent duty, under 39 U.S.C. 1006, from the Postal Service to an agency as defined in 5 U.S.C. 5721;

(d) An employee performing travel in accordance with your overseas tour renewal agreement (see §§ 302-3.209 through 302-3.224 of this Chapter);

(e) An employee returning from an overseas assignment for separation from the Government;

(f) A student trainee assigned to any position upon completion of college work;

(g) An employee eligible for a “last move home” benefit upon separation from the Government (and your immediate family in the event of your death prior to separation or after separation but prior to relocating);

(h) A Department of Defense overseas dependents school system teacher;

(i) A career appointee to the Senior Executive Service (SES) as defined in 5 U.S.C. 3132(a)(4), and a prior SES appointee who is returning to your official residence for separation and who will be retaining SES retirement benefits; or

(j) An employee that is being assigned to a temporary duty station in connection with long-term assignment.

§ 302-1.2 Who is not eligible for relocation expense allowances under this chapter?

You are not eligible to receive relocation expense allowances under this chapter if you are:

(a) A Foreign Service Officer or a Federal employee transferred under the rules of the Foreign Service Act of 1980, as amended;

(b) An officer or an employee transferred under the Central Intelligence Act of 1949, as amended;

(c) A person whose pay and allowances are prescribed under title 37 U.S.C., “Pay and Allowances of the Uniformed Services”

(d) An employee of the Veterans' Administration to whom 38 U.S.C. 235 applies; or

(e) A person not covered in § 302-1.1.

Subpart B—[Reserved]

PART 302-2—EMPLOYEES ELIGIBILITY REQUIREMENTS

Subpart A—General Rules
Sec.
302-2.1 When may I begin my transfer or reassignment?
302-2.2 May I relocate to my new official duty station before I receive a written travel authorization (TA)?
302-2.3 What determines my entitlements and allowances for relocation?
301-2.4 What is my effective transfer or appointment date?
302-2.5 May I relocate from a location other than the location specified in my relocation travel authorization?
302-2.6 May I be reimbursed for relocation expenses if I relocate to a new official station that is less than 50 miles from my old official duty station?
Time Limits
302-2.7 When may I begin my travel and transportation after receiving authorization to do so?
302.2.8 When must I complete all aspects of my relocation?
302.2.9 If I am furloughed to perform active military duty, will I have to complete all aspects of the relocation within the time limitation?
302-2.10 Does the 2-year time period in § 302-2.8 include time that I cannot travel and/or transport my household effects due to shipping restrictions to or from my post of duty OCONUS?
302-2.11 May the 2-year time limitation for completing all aspects of a relocation be extended?
Service Agreements
302-2.12 What is a service agreement?
302-2.13 Am I required to sign a service agreement when transferring within or outside the continental United States or performing renewal agreement travel and what is the minimum period of service?
302-2.14 Will I be penalized for violation of my service agreement?
302-2.15 Must I provide my agency with my actual place of residence as soon as I accept a transfer/appointment OCONUS?
302-2.16 Must I sign a service agreement for a “last move home” relocation?
302-2.17 What happens if I fail to sign a service agreement?
302-2.18 Can my service agreement be voided by a subsequent service agreement?
302-2.19 If I have more than one service agreement, must I adhere to each agreement separately?
Advancement of Funds
302-2.20 May I receive an advance of funds for my travel and transportation expenses?
302-2.21 What requirements must I meet to receive a travel advance?
302-2.22 May I receive a travel advance for separation relocation?
Subpart B—Agency Responsibilities
302-2.100 What internal policies must we establish before authorizing a relocation allowance?
302-2.101 When may we authorize reimbursement for relocation expenses?
302-2.102 Who must authorize and approve relocation expenses?
302-2.103 How must we administer the authorization for relocation of an employee?
302-2.104 What information must we provide on the TA?
302-2.105 When an employee transfers between Federal agencies, who is responsible for paying the employee's relocation expenses?
302-2.106 May we waive statutory or regulatory limitations relating to relocation allowances for employees relocating to/from remote or isolated locations?
Time Limits
302-2.110 Are there time factors that we must consider for allowing an employee to complete all aspects of relocation?

Authority: 5 U.S.C. 5721-5734; 20 U.S.C. 905(a).

Subpart A—General Rules

Note to subpart A: Use of pronouns “I”, “you”, and their variants throughout this subpart refers to the employee.

§ 302-2.1 When may I begin my transfer or reassignment?

You may begin your transfer or reassignment only after your agency has approved your travel authorization (TA) in writing (paper or electronic).

§ 302-2.2 May I relocate to my new official duty station before I receive a written travel authorization (TA)?

No, you must have the written TA (paper or electronic) before you relocate to your new official duty station.

§ 302-2.3 What determines my entitlements and allowances for relocation?

Your entitlements and allowances for relocation are determined by the regulatory provisions that are in effect at the time you report for duty at your new official station. However, this does not change the requirement that all aspects of a relocation must be completed time specified in § 302-2.4.

§ 302-2.4 What is my effective transfer or appointment date?

Your effective transfer or appointment date is the date on which you report for duty at your new or first official station, respectively.

§ 302-2.5 May I relocate from a location other than the location specified in my relocation travel authorization?

Yes, you may relocate from a place other than from where you are authorized. However, you will be required to pay all additional costs incurred for expenses above your authorized travel and transportation cost.

§ 302-2.6 May I be reimbursed for relocation expenses if I relocate to a new official station that is less than 50 miles from my old official duty station?

Generally no; you may not be reimbursed for relocation expenses if you relocate to a new official station that is less than 50 miles from your old official station, unless the head of the agency or designee authorizes an exception. On a case-by-case basis and having considered the following criteria, the head of your agency or designee may authorize the reimbursement of relocation expenses of less than 50 miles when he/she determines that it is in the interest of the Government: and

(a) The one way commuting pattern between the old and new official station increases by at least 10 miles but no more than 50 miles; or

(b) There is an increase in the commuting time to the new official station; or

(c) A financial hardship is imposed due to increased commuting costs.

Time Limits

§ 302-2.7 When may I begin my travel and transportation after receiving authorization to do so?

You and your immediate family member(s) may begin travel immediately upon receipt of your authorized TA.

§ 302-2.8 When must I complete all aspects my relocation?

You and your immediate family member(s) must complete all aspects of your relocation within two years from the effective date of your transfer or appointment, except as provided in § 302-2.9 or § 302-2.10.

§ 302-2.9 If I am furloughed to perform active military duty, will I have to complete all aspects of the relocation within the time limitation?

No, if you are furloughed to perform active military duty, the 2-year period to complete all aspects of relocation is exclusive of time spent on furlough for active military service.

§ 302-2.10 Does the 2-year time period in § 302-2.8 include time that I cannot travel and/or transport my household effects due to shipping restrictions to or from my post of duty OCONUS?

No, the 2-year time period in § 302-2.8 does not include time that you cannot travel and/or transport your household effects due to shipping restriction to or from your post of duty OCONUS.

§ 302-2.11 May the 2-year time limitation for completing all aspects of a relocation be extended?

Yes, the 2-year time limitation for completing all aspects of a relocation may be extended by your Agency for up to 2 additional years, but only if you have received an extension under § 302-11.22.

Service Agreements

§ 302-2.12 What is a service agreement?

A service agreement is a written agreement between you and your agency, signed by you and an agency representative, stating that you will remain in the service of the Government for a period of time as specified in § 302-2.13, after you have relocated.

§ 302-2.13 Am I required to sign a service agreement when transferring within or outside the continental United States or performing renewal agreement travel and what is the minimum period of service?

Yes, you are required to sign a service agreement when transferring within or outside the continental United States or performing renewal agreement travel. The minimum periods of service are:

(a) Within the continental United States for a period of service of not less than 12 months following the effective date of your transfer;

(b) Outside the continental United States for an agreed upon period of service of not more than 36 months or less than 12 months following the effective date of transfer;

(c) Department of Defense Overseas Dependent School System teachers for a period of not less than one school year as determined under chapter 25 of title 20, United States Code; and

(d) For renewal agreement travel a period of not less than 12 months from the date of return to the same or different overseas official station.

§ 302-2.14 Will I be penalized for violation of my service agreement?

Yes, if you violate a service agreement (other than for reasons beyond your control and which must be accepted by your agency), you will have incurred a debt due to the Government and you must reimburse all costs that your agency has paid towards your relocation expenses including withholding tax allowance (WTA) and relocation income tax (RIT) allowance.

§ 302-2.15 Must I provide my agency with my actual place of residence as soon as I accept a transfer/appointment OCONUS?

Yes, if you accept a transfer/appointment to an OCONUS location, you must immediately provide your agency with the information needed to determine your actual place of residence and to document it into your service agreement.

§ 302-2.16 Must I sign a service agreement for a “last move home” relocation?

No, you do not need to sign a service agreement for a “last move home” relocation.

§ 302-2.17 What happens if I fail to sign a service agreement?

If you fail to sign a service agreement, your agency will not pay for your relocation expenses.

§ 302-2.18 Can my service agreement be voided by a subsequent service agreement?

No, service agreements which are already in effect cannot be voided by subsequent service agreements.

§ 302-2.19 If I have more than one service agreement, must I adhere to each agreement separately?

Yes, service agreements can not be grouped together and must be adhered to separately. Each agreement is in effect for the period specified in the agreement.

Advancement of Funds

§ 302-2.20 May I receive an advance of funds for my travel and transportation expenses?

Yes, you may receive an advance of funds for your travel and transportation expenses, as prescribed by your agency, except for overseas tour renewal agreement travel.

§ 302-2.21 What requirements must I meet to receive a travel advance?

Your relocation travel authorization must authorize you to receive a travel advance.

§ 302-2.22 May I receive a travel advance for separation relocation?

Yes, you may receive a travel advance if approved by your agency.

Subpart B—Agency Responsibilities

Note to subpart B: Use of pronouns “we”, “you”, and their variants throughout this subpart refers to the agency.

§ 302-2.100 What internal policies must we establish before authorizing a relocation allowance?

Before authorizing a relocation allowance, you must set internal policies that determine:

(a) How you will implement the governing policies throughout this part;

(b) How you will determine when a relocation is in the best interest of the Government;

(c) When you will allow a travel advance for relocation expenses;

(d) Who will authorize and approve relocation travel;

(e) Under what additional circumstances will you require an employee to sign a service agreement; and

(f) Who is required to sign a service agreement.

§ 302-2.101 When may we authorize reimbursement for relocation expenses?

You may authorize reimbursement for relocation expenses:

(a) When you have determined that an employee's permanent change of station is in the best interest of the Government;

(b) Only after an employee has signed a service agreement to remain in service for the period specified in § 302-2.13; and

(c) When you have determined that the employee's relocation is incident to his/her change of official station.

§ 302-2.102 Who must authorize and approve relocation expenses?

The agency head or his/her designee must authorize and approve relocation expenses.

§ 302-2.103 How must we administer the authorization for relocation of an employee?

To administer the authorization for relocation of an employee, you must:

(a) Issue an employee a TA for relocation before he/she transfers to his/her new official station;

(b) Inform the employee of his/her transfer within a timeframe that will provide him/her sufficient time for preparation;

(c) Establish timeframes on when employees must submit a TA request; and

(d) Provide new employees with the applicable limitations of their travel benefits.

§ 302-2.104 What information must we provide on the TA?

On the TA, you must state the:

(a) Specific allowances that the employee is authorized; and

(b) Procedures that the employee is authorized to follow.

§ 302-2.105 When an employee transfers between Federal agencies, who is responsible for paying the employee's relocation expenses?

When an employee transfers between Federal agencies, all allowable expenses must be paid from the funds of the agency that the employee is transferring to. However, in the case of a reduction in force or transfer of function, an agreement may be made between the agencies concerned as to what relocation allowances will be paid by either agency or split between them. This should include the payment of expenses for the extended storage of the employee's household goods when assigned to an isolated permanent duty station within CONUS or a transfer to, from, or between foreign countries.

§ 302-2.106 May we waive statutory or regulatory limitations relating to relocation allowances for employees relocating to/from remote or isolated locations?

Yes, the agency head or his/her designee may waive any statutory or regulatory limitations for employees relocating (to/from a remote or isolated location) when determining that failure to waive the limitation would cause an undue hardship on the employee.

Time Limits

§ 302-2.110 Are there time factors that we must consider for allowing an employee to complete all aspects of relocation?

Yes, you should encourage employees to begin travel as soon as possible after authorization of travel is approved and inform employees that they must complete all aspects of relocation within a 2-year period from his/her effective date of transfer or appointment, unless the employee's 2-year period is extended to include:

(a) Time spent on military furlough;

(b) Delays caused by overseas shipping or other restrictions; or

(c) An extension for completion of residence transaction (see § 302-11.22 of this chapter).

Subchapter B—Relocation Allowances

PART 302-3—RELOCATION ALLOWANCE BY SPECIFIC TYPE

Subpart A—New Appointee
302-3.1 Who is a new appointee?
302-3.2 As a new appointee or student trainee what relocation expenses may my agency pay or reimburse me for incident to a permanent change of station to my first official station?
302-3.3 As a new appointee, are there any expenses that my agency will not pay?
302-3.4 If my agency authorizes me allowances for relocation, must it pay all of the expenses listed in § 302-3.2?
302-3.5 If I travel to my first official station before I have been appointed, will I be reimbursed for my relocation expenses?
Subpart B—Transferred Employees
302-3.100 What is a transferred employee?
302-3.101 As a transferred employee what relocation allowances must my agency pay or reimburse me for incident to a permanent change of station?
Subpart C—Types of Transfers
Relocation of Two or More Employed Immediate Family Members
302-3.200 When a member of my immediate family who is also an employee and I are transferring to the same official station, may we both receive allowances for relocation?
302-3.201 If my immediate family member and I both transfer to the same official station in the interest of the Government, may we both claim the same relocation expenses?
302-3.202 If my immediate family member and I both transfer to the same official station, may we both claim the same relocation allowances for the same non-employee family member?
302-3.203 If I am transferring in the interest of the Government and my employed immediate family member(s) transfer is not in the interest of the Government, will he/she receive relocation allowances?
302-3.204 When an employed immediate family member and I are transferring in the interest of the Government, what information must we submit to our agency?
Reduction in Force Relocation
302-3.205 If my transfer is involuntary (due to i.e., reduction in force, cessation, or transfer of work), is it considered to be in the interest of the Government?
302-3.206 If I am re-employed after a separation by reduction in force or transfer of functions, may my agency pay me a relocation allowance?
Overseas Assignment and Return
302-3.207 Am I eligible to receive relocation allowances for overseas assignment and return travel?
302-3.208 What relocation expenses will my agency pay for my overseas assignment and return?
Overseas Tour Renewal Agreement
302-3.209 What is overseas tour renewal travel?
302-3.210 What is an overseas tour of duty?
302-3.211 What is an allowance for overseas tour renewal travel?
302-3.212 How do I know if I am eligible to receive an allowance for overseas tour renewal travel?
302-3.213 What allowances will I receive for tour renewal travel?
302-3.214 May I receive reimbursement for tour renewal travel when my travel is between two places within the United States?
302-3.215 Will I be reimbursed for tour renewal travel from a post of duty in Hawaii and return to a post of duty in Alaska or for such travel from a post of duty in Alaska and return to a post of duty in Hawaii?
302-3.216 When must I begin my first tour renewal travel from Alaska or Hawaii?
302-3.217 Will my family or I receive per diem for en route travel from my post of duty to my actual place of residence in the U.S.?
302-3.218 Are there any special circumstances when my agency may authorize me travel and transportation expenses for my tour renewal travel in Alaska or Hawaii?
302-3.219 Is there a limit on how many times I may receive reimbursement for tour renewal travel?
302-3.220 May my family and I travel to another U.S. location (other than from my actual place of residence) under my tour renewal agreement?
302-3.221 If I travel to another place in the U.S. (other than my actual place of residence) am I required to spend time at my actual place of residence to receive reimbursement?
302-3.222 Will I be reimbursed if I travel to another overseas location (instead of the U.S.)?
302-3.223 What happens if I violate my new service agreement under a tour renewal assignment?
302-3.224 If I violate my new service agreement, will the Government reimburse me for return travel and transportation to my actual place of residence?
Prior Return of Immediate Family Members
302-3.225 If my immediate family member(s) return to the U.S. before me, will I be reimbursed for transporting part of my household goods with my family and the rest of my household goods when I return?
302-3.226 Will the Government reimburse me if I am not eligible to return with my immediate family member(s) to the U.S. and choose to send them at my own expense?
302-3.227 If I become divorced from my spouse while OCONUS will I receive reimbursement to return my former spouse and dependents to the U.S.?
302-3.228 Is my dependent who turned 21 while overseas entitled to return travel to my place of actual residence at the expense of the Government?
Subpart D—Relocation Separation
Overseas to U.S. Return for Separation
302-3.300 Must my agency pay for return relocation expenses for my immediate family and me once I have completed my duty OCONUS?
302-3.301 May I transport my household goods to a location other than my actual place of residence when I separate from the Government?
302-3.302 May my agency pay for my immediate family member(s) and my household goods to be returned to the U.S. before I complete my service agreement?
302-3.303 May I claim reimbursement for the return of my immediate family member(s) or household goods more than once under one service agreement?
SES Separation for Retirement
302-3.304 Who is entitled to SES separation relocation allowances?
302-3.305 Who is not eligible for SES separation relocation expense allowances?
302-3.306 If I meet the conditions in § 302-3.307, what expenses am I allowed under separation for retirement travel?
302-3.307 Under what conditions may I receive separation relocation travel for my family and me?
302-3.308 Do I have to provide my agency with any special documents before receiving reimbursement for moving expenses?
302-3.309 Where should my travel and transportation begin?
302-3.310 Where will I be authorized to separate?
302-3.311 May I receive reimbursement for travel and transportation from an alternate location other than the duty station?
302-3.312 Upon separation, if I elect to reside in a different geographical area which is less than 50 miles from my official duty station, will I receive reimbursement?
302-3.313 May I have my household goods transported from more than one location?
302-3.314 Is there a time limit when I must begin my travel and transportation upon separation?
302-3.315 May I be granted an extension on beginning my separation travel?
Subpart E—Employee's Temporary Change of Station
302-3.400 What is a “temporary change of station (TCS)”?
302-3.401 What is the purpose of a TCS?
302-3.402 When am I eligible for a TCS?
302-3.403 Who is not eligible for a TCS?
302-3.404 Under what circumstances will my agency authorize a TCS?
302-3.405 If my agency authorizes a TCS, do I have the option of electing payment of per diem expenses under part 301-11 of this title?
302-3.406 How long must my assignment be for me to qualify for a TCS?
302-3.407 What is the effect on my TCS reimbursement if my assignment lasts less than 6 months?
302-3.408 What is the effect on my TCS reimbursement if my assignment lasts more than 30 months?
302-3.409 Is there any required minimum distance between an official station and a TCS location that must be met for me to qualify for a TCS?
302-3.410 Must I sign a service agreement to qualify for a TCS?
302-3.411 What is my official station during my TCS?
Expenses Paid Upon Assignment
302-3.412 What expenses must my agency pay?
302-3.413 Are there other expenses that my agency may pay?
Expenses Paid During Assignment
302-3.414 If my agency authorizes a TCS, will it pay for extended storage of my household goods?
302-3.415 How long may my agency pay for extended storage of household goods?
302-3.416 Is there any limitation on the combined weight of household goods I may transport and store at Government expense?
302-3.417 Will I have to pay any income tax if my agency pays for extended storage of my household goods?
302-3.418 Will my agency pay for property management services when I am authorized a TCS?
302-3.419 For what property will my agency pay property management services?
302-3.420 How long will my agency pay for property management services?
302-3.421 What are the income tax consequences when my agency pays for property management services?
Expenses Paid Upon Completion of Assignment or Upon Separation From Government Service
302-3.422 What expenses will my agency pay when I complete my TCS?
302-3.423 If I separate from Government service upon completion of my TCS, what relocation expenses will my agency pay upon my separation?
302-3.424 If I separate from Government service prior to completion of my TCS, what relocation expenses will my agency pay upon my separation?
302-3.425 If I have been authorized successive temporary changes of station and reassigned from one temporary official station to another, what expenses will my agency pay upon completion of my last assignment or my separation from Government service?
Permanent Assignment to Temporary Official Station
302-3.426 How is payment of my TCS expenses affected if I am permanently assigned to my temporary official station?
302-3.427 What relocation allowances may my agency pay when I am permanently assigned to my temporary official station?
302-3.428 If I am permanently assigned to my temporary official station, is there any limitation on the weight of household goods I may transport at Government expense to my official station?
302-3.429 Are there any relocation allowances my agency may not pay if I am permanently assigned to my temporary official station?
Subpart F—Agency Responsibilities
302-3.500 What governing policies and procedures must we establish for paying a relocation allowance under this part 302-3?
302-3.501 Must we establish any specific procedures for paying a relocation allowance to new appointees?
302-3.502 What factors should we consider in determining whether to authorize a TCS for a long-term assignment?
Service Agreements
302-3.503 Must we require employees to sign a service agreement?
302-3.504 What information should we include in a service agreement?
302-3.505 How long must we require an employee to agree to the terms of a service agreement?
302-3.506 May we pay relocation expenses if the employee violates his/her service agreement?
New Appointees
302-3.507 Once we authorize relocation expenses for new appointees or student trainees what expenses must we pay?
302-3.508 What relocation expenses are not authorized for new appointees or student trainees?
Overseas Assignment and Return
302-3.509 What policies must we follow when appointing an employee to an overseas assignment?
302-3.510 When must we pay return travel for immediate family members?
302-3.511 What must we consider when determining return travel for immediate family member(s) for compassionate reasons prior to completion of the service agreement?
302-3.512 How many times are we required to pay for an employee's return travel?
Overseas Tour Renewal Travel
302-3.513 May we allow a travel advance for tour renewal agreement travel?
302-3.514 Under what conditions may we pay for tour renewal agreement travel?
302-3.515 What special rules must we apply for reimbursement of tour renewal travel for employees stationed, assigned, appointed or transferred to/from Alaska or Hawaii?
SES Separation for Retirement
302-3.516 What must we do before issuing payment for SES separation-relocation travel?
302-3.517 May we issue travel advances for separation relocation?

Authority: 5 U.S.C. 5721-5734; 20 U.S.C. 905(a).

Subpart A—New Appointee

Note to subpart A: Use of pronouns “I”, “you”, and their variants throughout this subpart refers to the employee, unless otherwise noted.

§ 302-3.1 Who is a new appointee?

A new appointee is:

(a) An individual who is employed with the Federal Government for the very first time (including an individual who has performed transition activities under section 3 of the Presidential Transition Act of 1963 (3 U.S.C. 102 note), and is appointed in the same fiscal year as the Presidential inauguration);

(b) An employee who is returning to the Government after a break in service (except an employee separated as a result of reduction in force or transfer of functions and is re-employed within one year after such action); or

(c) A student trainee assigned to the Government upon completion of his/her college work.

§ 302-3.2 As a new appointee or student trainee what relocation expenses may my agency pay or reimburse me for incident to a permanent change of station to my first official station?

As a new appointee or student trainee being assigned to a first official station your agency may or may not pay or reimburse you the relocation expenses indicated for the type of transfer in Tables A and B of this section. However, once the decision is made to pay or reimburse your relocation expenses, all mandatory relocation allowances are reimbursed, unless otherwise stated in the applicable parts of this chapter.

Table A.—Assigned to First Official Station in the Continental United States (CONUS)
Column 1—Relocation allowances that agency must pay or reimburse | Column 2—Relocation allowances that agency has discretionary authority to pay or reimburse
1. Transportation of employee & immediate family member(s) (part 302-4 of this chapter) | 1. Shipment of privately owned vehicle (POV) (part 302-9, subpart B of this chapter).
2. Per diem for employee only (part 302-4 of this chapter) |
3. Transportation & temporary storage of household goods (part 302-7 of this chapter) |
4. Extended storage of household goods (part 302-8 of this chapter)¹ |
5. Transportation of a mobile home or boat used as a primary residence in lieu of the transportation of household goods (part 302-10 of this chapter) |
6. Relocation income tax allowance (RITA) (part 302-17 of this chapter) |
¹ Note to Column 1, Item 4: Only when assigned to a designated isolated official station in CONUS.

Table B.—Assigned to First Official Station Outside the Continental United States (OCONUS)
Column 1—Relocation allowances that agency must pay or reimburse | Column 2—Relocation allowances that agency has discretionary authority to pay or reimburse
1. Transportation of employee & immediate family member(s) (part 302-4 of this chapter) | 1. Shipment of privately owned vehicle (POV) (part 302-9 of this chapter).
2. Per diem employee only (part 302-4) | 2. Temporary quarters subsistence expense (TQSE) is not authorized in a foreign area, however, you may be entitled to the following under the Department of State Standard Regulations (DSSR) (Government Civilians—Foreign Areas) which is available from the Superintendent of Documents, Washington, DC 20402.
| (a) Foreign Transfer Allowance (FTA) (Subsistence Expense) for quarters occupied temporarily before departure from the 50 states or the District of Columbia for a official station in a foreign area incident to a permanent change of station and travel to first official station overseas.
| (b) Temporary quarters subsistence expenses (TQSE) when a transfer is authorized to a foreign area.
| (c) The miscellaneous expense portion of the FTA is authorized incident to first official station travel to a foreign area.
3. Transportation & temporary storage of household goods (part 302-7 of this chapter) | 3. Use of relocation service companies only when transfer is to Alaska or Hawaii (part 302-12 of this chapter).
4. Extended storage of household goods (part 302-8 of this chapter) | 4. Home marketing incentives only when transfer is to a non-foreign OCONUS area (part 302-15 of this chapter).
5. Relocation income tax allowance (RITA) (part 302-17 of this chapter) |

§ 302-3.3 As a new appointee, are there any expenses that my agency will not pay?

Yes, as a new employee, your agency will not pay for expenses that are not listed in § 302-3.2 (e.g., per diem for family, cost of househunting trip, miscellaneous expense allowance, etc.).

§ 302-3.4 If my agency authorizes me allowances for relocation, must it pay all of the expenses listed in § 302-3.2?

Yes, if your agency authorizes you allowances for relocation, it must pay all of the expenses listed in § 302-3.2.

§ 302-3.5 If I travel to my first official station before I have been appointed, will I be reimbursed for my relocation expenses?

Generally, you may not be reimbursed for relocation expenses incurred before you have been appointed to a Federal position and signed an agreement to remain in Government service for 12 months after appointment. However there is an exception for appointees who have performed Presidential transition activities. Such appointees may be reimbursed allowable travel and transportation expenses incurred at any time following the most recent Presidential election once they have signed a service agreement. However, appointment must occur in the same fiscal year as the Presidential transition activities.

Subpart B_Transferred Employees

§ 302-3.100 What is a transferred employee?

A transferred employee is an employee who transfers from one official station to another. This may also include employees separated as a result of reduction in force or transfer of functions who are re-employed within one year after such separation.

§ 302-3.101 As a transferred employee what relocation allowances must my agency pay or reimburse me for incident to a permanent change of station?

As a transferred employee there are mandatory and discretionary relocation expenses. Once an agency decision is made to pay or reimburse relocation expenses indicated for the type of transfer in tables (A) through (I) of this section, all the mandatory allowance must be paid or reimbursed, unless otherwise stated in the applicable parts. The discretionary relocation allowances indicated in tables (A) through (I) of this section may or may not be paid by the agency.

Table A.—Transfer Between Official Stations in the Continental United States (CONUS)
Column 1—Relocation allowances that agency must pay or reimburse | Column 2—Relocation allowances that agency has discretionary authority to pay or reimburse
1. Transportation & per diem for employee & immediate family member(s) (part 302-4 of this chapter) | 1. Househunting per diem & transportation, employee & spouse only (part 302-5 of this chapter).
2. Miscellaneous moving expense (part 302-16 of this chapter) | 2. Temporary quarters subsistence expense (TQSE) (part 302-6 of this chapter).
3. Sell or buy residence transactions or lease termination expenses (part 302-11 of this chapter) | 3. Shipment of privately owned vehicle (POV) (part 302-9, subpart B of this chapter).
4. Transportation & temporary storage of household goods (part 302-7 of this chapter) | 4. Use of relocation service companies (part 302-12 of this chapter).
5. Extended storage of household goods (part 302-8 of this chapter) ¹ | 5. Property management services (part 302-15 of this chapter).
6. Transportation of a mobile home or boat used as a primary residence in lieu of the transportation of household goods (part 302-10 of this chapter) | 6. Home marketing incentives (part 302-14 of this chapter).
7. Relocation income tax allowance (RITA) (part 302-17 of this chapter) |
¹ Note to Column 1, Item 5: Only when assigned to a designated isolated official station in CONUS.

Table B.—Transfer From CONUS to an Official Station Outside the Continental United States (OCONUS)
Column 1—Relocation allowances that agency must pay or reimburse | Column 2—Relocation allowances that agency has discretionary authority to pay or reimburse
1. Transportation & per diem for employee & immediate family member(s) (part 302-4 of this chapter) | 1. Temporary quarters subsistence expense (TQSE) is not authorized in a foreign area, however, you may be entitled to the following under the Department of State Standardized Regulations (DSSR) (Government Civilians-Foreign Areas):
| (a) A Foreign Transfer Allowance (FTA) for quarters occupied temporarily before departure from the 50 states or the District of Columbia for a official station in a foreign area incident to a permanent change of station and travel to first official station overseas.
| (b) Temporary quarters subsistence allowance (TQSA).
2. Miscellaneous expense allowance (part 302-16 of this chapter) | 2. Property management services (part 302-15 of this chapter).
3. Transportation & temporary storage of household goods (part 302-7 this chapter) | 3. Shipment of a privately owned vehicle (part 302-9 of this chapter).
4. Extended storage of household goods (part 302-8 of this chapter) | 4. Use of relocation service companies when transfer is to Alaska or Hawaii (part 302-12 of this chapter).
5. Relocation income tax allowance (RITA) (part 302-17 of this chapter) ¹ | 5. Home marketing incentives when transfer is to Alaska or Hawaii (part 301-15 of this chapter).
¹ Note to Column 1, item 5. Allowed when old and new official stations are located in the United States. Also allowed when instead of being returned to the former non-foreign area official station, an employee is transferred in the interest of the Government to a different non-foreign area official station than from the official station from which transferred when assigned to the foreign official station.

Table C.—Transfer From OCONUS Official Station to an Official Station in CONUS
Column 1—Relocation allowances that agency must pay or reimburse | Column 2—Relocation allowances that agency has discretionary authority to pay or reimburse
1. Transportation & per diem for employee & immediate family member(s) (part 302-4 of this chapter) | 1. Shipment of a privately owned vehicle (part 302-9 of this chapter).
2. Temporary quarters subsistence expense (TQSE) (part 302-6 of this chapter) ¹
3. Miscellaneous expense allowance (part 302-16 of this chapter)
4. Sell & buy residence transaction expenses or lease termination expenses (part 302-11 of this chapter) ²
5. Transportation & temporary storage of household goods (part 302-7 of this chapter)
6. Extended storage of household goods only when assigned to a designated isolated official station in CONUS (part 302-8 of this chapter)
7. Relocation income tax allowance (RITA) (part 302-17 of this chapter)
¹ Note to Column 1, item 2: A TQSA under the DSSR may be authorized preceding final departure subsequent to the necessary vacating of residence quarters.
² Note to Column 1, item 4: Allowed when old and new official stations are located in the United States. Also allowed when instead of being returned to the former non-foreign area official station, an employee is transferred in the interest of the Government to a different non-foreign area official station than from the official station from which transferred when assigned to the foreign official station.

Table D.—Transfer Between OCONUS Official Stations
Column 1—Relocation allowances that agency must pay or reimburse | Column 2—Relocation allowances that agency has discretionary authority to pay or reimburse
1. Transportation & per diem for employee & immediate family member(s) (part 302-4 of this chapter) | 1. Shipment of a privately owned vehicle (POV) (part 302-9 of this chapter).
2. Temporary quarters subsistence expense (TQSE) (part 302-6 of this chapter)¹ | 2. Property management services (part 302-15 of this chapter).
3. Transportation & temporary storage of household goods (part 302-7 of this chapter)
4. Miscellaneous expense allowance (part 302-16 of this chapter)
5. Extended storage of household goods (part 302-8 of this chapter)
6. Relocation income tax allowance (RITA) (part 302-17 of this chapter)
¹ Note to Column 1, item 2: TQSA may be authorized under the DSSR.

Table E.—Tour Renewal Agreement Travel
Column 1—Relocation allowances that agency must pay or reimburse | Column 2—Relocation allowances that agency has discretionary authority to pay or reimburse
1. Transportation for employee & immediate family member(s) (part 302-4 of this chapter)
2. Per diem for employee only (part 302-4 of this chapter)

Table F.—Return From OCONUS Official Station to Place of Actual Residence for Separation
Column 1—Relocation allowances that agency must pay or reimburse | Column 2—Relocation allowances that agency has discretionary authority to pay or reimburse
1. Transportation for employee & immediate family member(s) (part 302-4 of this chapter) | 1. Shipment of a privately owned vehicle (POV) (part 302-9 of this chapter).
2. Per diem for employee only (part 302-4 of this chapter)
3. Transportation & temporary storage of household goods (part 302-7 of this chapter)

Table G.— Last Move Home for SES Career Appointees Upon Separation
Column 1—Relocation allowances that agency must pay or reimburse | Column 2—Relocation allowances that agency has discretionary authority to pay or reimburse
1. Transportation for employee & immediate family member(s) part 302-4 of this chapter) | 1. Shipment of privately owned vehicle (POV) (part 302-9, subpart B of this chapter).
2. Per diem for employee only (part 302-4 of this chapter)
3. Transportation & temporary storage of household goods (part 302-7 of this chapter)
4. Transportation of a mobile home or boat used as a primary residence in lieu of the transportation of household goods (part 302-10 of this chapter)

Table H.—Temporary Change of Station (TCS)
Column 1—Relocation allowances that agency must pay or reimburse | Column 2—Relocation allowances that agency has discretionary authority to pay or reimburse
1. Transportation & per diem for employee & immediate family member(s) (part 302-4 of this chapter) | 1. Househunting trip expenses (part 302-5 of this chapter).
2. Miscellaneous expense allowance (part 302-16 of this chapter) | 2. Temporary quarters subsistence expense (TQSE) (part 302-6 of this chapter).
3. Transportation & temporary storage of household goods (part 302-7 of this chapter)
4. Transportation of a mobile home or boat used as a primary residence in lieu of the transportation of household goods (part 302-10 of this chapter)
5. Transportation of a privately owned vehicle (POV)(part 302-9, subpart B of this chapter)
6. Relocation income tax allowance (RITA) (part 302-17 of this chapter)
7. Property management services (part 302-15 of this chapter)

Table I.—Assignment Under the Government Employees Training Act (5 U.S.C. 4109) ¹
1. Transportation of employee & immediate family member(s) (part 302-4 of this chapter).
2. Per Diem for employee (part 302-4 of this chapter).
3. Movement of household goods & temporary storage (part 302-7 of this chapter).
¹ Note to Table I: The allowances listed in Table I may be authorized in lieu of per diem or actual expense allowances. This is not considered a permanent change of station.

Subpart C—Types of Transfers

Relocation of Two or More Employed Immediate Family Members

§ 302-3.200 When a member of my immediate family who is also an employee and I are transferring to the same official station, may we both receive allowances for relocation?

Yes, if you and an immediate family member(s) are both employees and are transferring to the same official station in the interest of the Government, the allowances under this chapter apply either to;

(a) Each employee separately and the other is not eligible as an immediate family member(s); or

(b) Only one of the employees considered as head of the household and the other is eligible as an immediate family member(s) on the first employee's TA.

§ 302-3.201 If my immediate family member and I both transfer to the same official station in the interest of the Government, may we both claim the same relocation expenses?

No, when separate allowances are authorized under this § 302-3.201, the employing agency or agencies shall not make duplicate reimbursement for the same claimed expenses.

§ 302-3.202 If my immediate family member and I both transfer to the same official station, may we both claim the same relocation allowances for the same non-employee family member?

No, when both you and your immediate family member transfer in the interest of the Government, you must provide your agency with the name(s) of non-employee family member(s) who will receive allowances under each of your TA. Only one of you may claim allowances for a non-employee member(s) of your immediate family (non-employee members may only be on one TA).

§ 302-3.203 If I am transferring in the interest of the Government and my employed immediate family member(s) transfer is not in the interest of the Government, will he/she receive relocation allowances?

Yes, your employed immediate family member(s) whose transfer is not in the interest of the Government will receive relocation allowances, but solely as a member of your immediate family.

§ 302-3.204 When an employed immediate family member and I are transferring in the interest of the Government, what information must we submit to our agency?

When you and an employed immediate family member are transferring in the interest of the Government, you both must provide:

(a) A signed document stating which method of authorization you select (separate or one single authorization); and

(b) Your agency with a written and signed copy of the names of which non-employee member(s) will receive allowances under your TA; if you select to receive separate TAs.

Reduction in Force Relocation

§ 302-3.205 If my transfer is involuntary (due to i.e., reduction in force, cessation, or transfer of work), is it considered to be in the interest of the Government?

Yes, an involuntary transfer (i.e., due to reduction in force, cessation, or transfer of work) is considered to be in the interest of the Government.

§ 302-3.206 If I am re-employed after a separation by reduction in force or transfer of functions, may my agency pay me a relocation allowance?

Yes, if you are re-employed after a separation by reduction in force or transfer of function, your agency may pay you a relocation allowance under the conditions of this chapter if:

(a) You are employed within one year of your involuntary separation date;

(b) Your new appointment is not temporary; and

(c) Your new appointment is at a different duty station from where your separation occurred and meets the mileage criteria in § 302-2.6 of this chapter for short distance relocation.

Overseas Assignment and Return

§ 302-3.207 Am I eligible to receive relocation allowances for overseas assignment and return travel?

You may be eligible to receive relocation allowances for overseas assignment and return travel if you are:

(a) An employee transferring to, from, or between official stations OCONUS; or

(b) A new appointee to a position OCONUS and at the time of your appointment your residence is in an area other than your post of duty.

§ 302-3.208 What relocation expenses will my agency pay for my overseas assignment and return?

To determine what relocation expenses your agency will pay for your overseas assignment and return, see:

(a) Section 302-3.2 if you are a new appointee; or

(b) Section 302-3.101 if you are a transferred employee.

Overseas Tour Renewal Agreement

§ 302-3.209 What is overseas tour renewal travel?

Overseas tour renewal travel refers to travel of you and your immediate family returning to your home in the continental U.S., Alaska, or Hawaii between overseas tours of duty. See § 302-2.222 for travel to an actual place of residence in other than the United States.

§ 302-3.210 What is an overseas tour of duty?

An overseas tour of duty is an assignment to a post of duty outside the continental United States, Alaska or Hawaii.

§ 302-3.211 What is an allowance for overseas tour renewal travel?

An allowance for overseas tour renewal travel is a reimbursement for you and your immediate family of roundtrip travel and transportation expenses between your overseas post of duty and your actual place of residence in the U.S.

§ 302-3.212 How do I know if I am eligible to receive an allowance for overseas tour renewal travel?

You are eligible to receive an allowance for overseas tour renewal travel if:

(a) You are on an overseas assignment, and you have completed your tour of duty and satisfactorily completed your service agreement time period; and

(b) You are on an overseas assignment and you have signed a new service agreement to remain at your overseas post or to transfer to another overseas post of duty; or

(c) You meet the requirements and are eligible for tour renewal travel from Alaska or Hawaii under § 302-3.214.

§ 302-3.213 What allowances will I receive for tour renewal travel?

For tour renewal travel, you will receive payment for those authorized expenses as stated in item five of Tables A and B of § 302-3.101.

§ 302-3.214 May I receive reimbursement for tour renewal travel when my travel is between two places within the United States?

You may only receive reimbursement for tour renewal travel when your tours are between two places within the U.S. if you are an employee who is traveling from Alaska or Hawaii, and:

(a) You will continue to serve consecutive tours of duty within the same state from which you're traveling, and on September 8, 1982 you were:

(1) Serving your tour in one of these areas and have continued to do so; or

(2) En route to a post of duty in Alaska or Hawaii under a written service agreement to serve a tour of duty; or

(3) In the process of performing a tour renewal travel and has since then entered into another tour of duty in Alaska or Hawaii;

(b) Tour renewal agreement travel for recruiting or retention purposes is limited to two round trips beginning within 5 years after the date the employee first begins any period of consecutive tours of duty in Alaska or Hawaii. Employees shall be advised in writing of this limitation; or

(c) You are traveling due to your agency's mission to recruit or retain you as an employee to fulfill a position that requires a special skilled employee or to fill a position in a remote area.

§ 302-3.215 Will I be reimbursed for tour renewal travel from a post of duty in Hawaii and return to a post of duty in Alaska or for such travel from a post of duty in Alaska and return to a post of duty in Hawaii?

No, you will not be reimbursed for tour renewal travel unless your return travel is to a post of duty in the same State that you traveled from.

§ 302-3.216 When must I begin my first tour renewal travel from Alaska or Hawaii?

You must begin your first tour renewal travel within 5 years of your first consecutive tours in either Alaska or Hawaii.

§ 302-3.217 Will my family or I receive per diem for en route travel from my post of duty to my actual place of residence in the U.S.?

No, your family will not receive per diem for en route travel from your post of duty to your actual place of residence in the U.S. and return to the same or a different post of duty.

§ 302-3.218 Are there any special circumstances when my agency may authorize me travel and transportation expenses for my tour renewal travel in Alaska or Hawaii?

Other than as specified in §§ 302-3.209 through 302-3.226, your agency head will only authorize travel and transportation expenses for your tour renewal travel in Alaska or Hawaii if it determines that:

(a) Agency staffing needs are required to recruit or retain employees at a post of duty in Alaska or Hawaii; or

(b) Your agency is in need to recruit employees with special skills and knowledge and/or to fill positions in remote areas.

§ 302-3.219 Is there a limit on how many times I may receive reimbursement for tour renewal travel?

(a) If you are stationed in a foreign area or in an area other than Alaska or Hawaii, your agency may reimburse you for one overseas tour renewal trip for each time you complete your service agreement, which is related to your post of duty.

(b) For recruiting and retention purposes of consecutive tours served within Alaska and Hawaii, your agency may reimburse you a maximum of two round trips which must begin within 5 years after the date of your first tour.

§ 302-3.220 May my family and I travel to another U.S. location (other than from my actual place of residence) under my tour renewal agreement?

Yes, you and your family may travel to another U.S. location (other than from your actual place of residence) under your tour renewal agreement. However, your agency will only reimburse you for the amount of authorized expenses from your post of duty to your actual place of residence and return (as appropriate) on a usually traveled route.

Note to § 302-3.220: If your actual place of residence is located in the U.S., you and your family must spend a substantial amount of time in the U.S. in order to receive reimbursement.

§ 302-3.221 If I travel to another place in the U.S. (other than my actual place of residence) am I required to spend time at my actual place of residence to receive reimbursement?

No, you are not required to spend time at your actual place of residence to receive reimbursement if you travel to another place in the U.S. (other than your actual place of residence).

§ 302-3.222 Will I be reimbursed if I travel to another overseas location (instead of the U.S.)?

If you travel to another overseas location (instead of the U.S.), you will be reimbursed only if your actual residence is within that country in which you are taking your leave, and then you will only be reimbursed your authorized travel and transportation expenses. You will have to pay any expense(s) above your authorized amount.

§ 302-3.223 What happens if I violate my new service agreement under a tour renewal assignment?

If you fail to complete your period of service under your new service agreement for reasons that are not acceptable to your agency, you must pay the Government:

(a) All transportation and per diem expenses that you received during your service agreement period for tour renewal travel of you and your immediate family;

(b) Transportation expenses for family members who traveled directly from your former post of duty to your current post of duty; and

(c) All transportation expenses for shipment of household goods from your former post to your current post of duty.

§ 302-3.224 If I violate my new service agreement, will the Government reimburse me for return travel and transportation to my actual place of residence?

If you violate your new service agreement, the Government will reimburse you for return travel and transportation to your actual place of residence only if you did not receive all of your allowances under a previous service agreement in which you successfully completed your required period of service. The Government will then authorize you reimbursement cost for return travel and transportation expenses from your former post of duty to your actual place of residence. If there is any additional cost you must pay the difference.

Prior Return of Immediate Family Members

§ 302-3.225 If my immediate family member(s) return to the U.S. before me, will I be reimbursed for transporting part of my household goods with my family and the rest of my household goods when I return?

Yes, if your family member(s) return to the U.S. before you, you will be reimbursed for transporting part of your household goods with your family and the rest of the household goods when you return as long as the combined weight of the two shipments does not exceed your total authorized weight limit.

§ 302-3.226 Will the Government reimburse me if I am not eligible to return with my immediate family member(s) to the U.S. and choose to send them at my own expense?

Yes, if you pay for the prior return of your eligible immediate family member(s), you will be reimbursed when you become eligible for return travel and transportation, you must provide your agency with all receipts and documentation to support your cost. Your agency will then reimburse your expenses, not to exceed your authorized allowance.

§ 302-3.227 If I become divorced from my spouse while OCONUS will I receive reimbursement to return my former spouse and dependents to the U.S.?

Yes, if you become divorced from your spouse while OCONUS, you will receive reimbursement to return your former spouse and dependents to their place of actual residence within or outside CONUS.

§ 302-3.228 Is my dependent who turned 21 while overseas entitled to return travel to my place of actual residence at the expense of the Government?

Your dependent who turned 21 while overseas is entitled to return travel to your place of actual residence at the expense of the Government only if your dependent traveled overseas as your dependent under your TA, but not beyond the end of your current agreed tour of duty.

Subpart D—Relocation Separation Overseas to U.S. Return for Separation

§ 302-3.300 Must my agency pay for return relocation expenses for my immediate family and me once I have completed my duty OCONUS?

Yes, once you have completed your duty OCONUS as specified in your service agreement, your agency must pay one-way transportation expenses for you, for your family member(s), and for your household goods.

§ 302-3.301 May I transport my household goods to a location other than my actual place of residence when I separate from the Government?

Yes, if you have successfully completed your service agreement, you may transport your household goods to a location other than your actual place of residence when you separate from the Government. However, the cost cannot exceed what it would cost to your actual place of residence. Any additional cost will be borne by you.

§ 302-3.302 May my agency pay for my immediate family member(s) and my household goods to be returned to the U.S. before I complete my service agreement?

Yes, your agency may pay for your immediate family member(s) and your household goods to be returned to the U.S. before you complete your service agreement. However, your reason for not completing your service agreement must be determined by your agency as compassionate in nature or for circumstances beyond your control.

§ 302-3.303 May I claim reimbursement for the return of my immediate family member(s) or household goods more than once under one service agreement?

No, you cannot claim reimbursement for the return of your immediate family member(s) or household goods more than once under one service agreement.

SES Separation for Retirement

§ 302-3.304 Who is entitled to SES separation relocation allowances?

You are entitled to SES separation relocation allowances if you meet the conditions in § 302-3.307 and you are:

(a) A career appointee to the SES as defined in 5 U.S.C. 3132(a)(4); or

(b) A non-SES appointee who elects to retain SES retirement benefits and:

(1) Has a basic rate of pay at Level V of the Executive Schedule or higher; or

(2) Was previously a career appointee in the SES; or

(3) Elected under 5 U.S.C. 3392(c) to retain SES retirement benefits; or

(c) A Medical Center Director who:

(1) Served as a director of a Department of Veterans Affairs medical center under 38 U.S.C. 4103(a)(8) as in effect on November 17, 1988; or

(2) Separated from Government service on or after October 2, 1992; or

(3) Is not covered in paragraphs (a) or (b) of this section; or

(d) An immediate family member of an SES employee who died:

(1) In Government service on or after January 1, 1994; or

(2) After separating from Government service but before travel and/or transportation authorized under this subpart were completed.

§ 302-3.305 Who is not eligible for SES separation relocation expense allowances?

You are not eligible for SES separation relocation expense allowances if:

(a) You are a career appointee to an SES position, and your appointment is a limited term, limited emergency, or a noncareer appointment. (See 5 U.S.C. 3132(a)(5) through (7)); or

(b) You are an appointee to the Government but do not meet the criteria status within § 302-3.304.

§ 302-3.306 If I meet the conditions in § 302-3.307, what expenses am I allowed under separation for retirement travel?

If you meet the conditions in § 302-3.307, see item 7 of Tables A and C in § 302.3.101.

§ 302-3.307 Under what conditions may I receive separation relocation travel for my family and me?

You may receive separation relocation travel for you and your family if:

(a) You are a career appointee as defined in 5 U.S.C. 3132(a)(4), and you were transferred or reassigned geographically in the interest of and at the expense of the Government from one official station to another for permanent duty from:

(1) An SES career appointment to another SES career appointment; or

(2) An SES career appointment to an appointment outside the SES at a rate of pay equal to or higher than Level V of the Executive Schedule, and the employee elects to retain SES retirement benefits under 5 U.S.C. 3392; or

(3) A non-SES career appointment at the time of your transfer or assignment, which includes an appointment in a civil service position outside the SES, to an SES career appointment;

(b) At the time of the transfer or reassignment:

(1) You were eligible to receive an annuity for optional retirement under section 8336(a), (b), (c), (e), (f), or (j) or subchapter III of chapter 83 (Civil Service Retirement System (CSRS)) or under section 8412 of subchapter II of chapter 84 (Federal Employees Retirement System (FERS)) of title, 5 U.S.C.; or

(2) You were within 5 years of eligibility to receive an annuity for optional retirement under one of the authorities in paragraph (b)(1) of this section; or

(3) You were eligible to receive an annuity based on discontinued service retirement or early voluntary retirement under an OPM authorization, under section 8336(d) of subchapter III of chapter 83, or under 8414(b) of subchapter II of chapter 84 of title 5, U.S.C.;

(c) You separate from Federal service on or after September 22, 1988;

(d) You are eligible to receive an annuity upon separation (or, in the case of death, you met the requirements for being considered eligible to receive an annuity, as of the date of death) under the provisions of subchapter III of chapter 83 (CSRS) or chapter 84 (FERS) of title 5, U.S.C., including an annuity based on optional retirement, discontinued service retirement, early voluntary retirement under an OPM authorization, or disability retirement; and

(e) You have not previously received separation relocation benefits from the Government for retirement.

§ 302-3.308 Do I have to provide my agency with any special documents before receiving reimbursement for moving expenses?

Yes, before receiving reimbursement for moving expenses, you must submit a request to your agency for authorization and approval of your moving expenses with your tentative moving dates and the origin and destination location of your planned move, within the timeframe and format specified by your agency.

§ 302-3.309 Where should my travel and transportation begin?

Your travel and shipment of your HHG should begin from your last official station.

§ 302-3.310 Where will I be authorized to separate?

You will be authorized to separate at the place where you have chosen to reside within the United States.

§ 302-3.311 May I receive reimbursement for travel and transportation from an alternate location other than the duty station?

You will only be reimbursed for expenses up to the cost of travel and transportation expenses from your authorized official station to the place in the U.S. you have elected to reside. Any additional cost you will have to pay.

§ 302-3.312 Upon separation, if I elect to reside in a different geographical area which is less than 50 miles from my official duty station, will I receive reimbursement?

No, if upon separation you elect to reside in a different geographical area which is less than 50 miles from your official station, you will not receive reimbursement.

§ 302-3.313 May I have my household goods transported from more than one location?

Yes, you may have your household goods transported from more than one location. However, you will only receive reimbursement based on the cost of shipment from your official station, in one lot by the most economical route to the location where you elect to return. You will have to pay for any cost above what is authorized.

§ 302-3.314 Is there a time limit when I must begin my travel and transportation upon separation?

Yes, all travel and transportation of household goods must begin no later than six months after:

(a) Your date of separation; or

(b) The date of death of the employee who died before separation.

§ 302-3.315 May I be granted an extension on beginning my separation travel?

Your agency may grant you or your family member (in case of your death) an extension on beginning your separation travel, not to exceed 2 years from your effective date of separation or death if you died before separating.

Subpart E—Employee's Temporary Change Of Station

§ 302-3.400 What is a “temporary change of station (TCS)”?

A TCS means the relocation to a new official station for a temporary period while performing a long-term assignment, and subsequent return to the previous official station upon completion of that assignment.

§ 302-3.401 What is the purpose of a TCS?

A TCS provides agencies an alternative to a long-term temporary duty travel assignment which will increase your satisfaction and enhance morale, reduce your income tax liability, and save the Government money.

§ 302-3.402 When am I eligible for a TCS?

You are eligible for a TCS when you are directed to perform a TCS at a long-term duty location, and you otherwise would be eligible for payment of temporary duty travel allowances authorized under chapter 301 of this title. For exceptions, see § 302-3.403.

§ 302-3.403 Who is not eligible for a TCS?

The following individuals are not eligible for a TCS:

(a) A new appointee;

(b) An employee assigned to or from a State or local Government under the Intergovernmental Personnel Act (5 U.S.C. 3372 et seq.);

(c) An individual employed intermittently in the Government service as a consultant or expert and paid on a daily when-actually-employed (WAE) basis;

(d) An individual serving without pay or at $1 a year; or

(e) An employee assigned under the Government Employees Training Act (5 U.S.C. 4109).

§ 302-3.404 Under what circumstances will my agency authorize a TCS?

Your agency will authorize a TCS when:

(a) It is necessary to accomplish the mission of the agency effectively and economically, and

(b) You are directed to perform a long-term assignment at another official station; or

(c) Your agency otherwise could authorize temporary duty travel and pay travel allowances, including payment of subsistence expenses, under chapter 301 of this title for the long-term assignment; or

(d) Your agency determines it would be more advantageous, cost and other factors considered, to authorize a long-term assignment; and

(e) You meet any additional conditions your agency has established.

§ 302-3.405 If my agency authorizes a TCS, do I have the option of electing payment of per diem expenses under part 301-11 of this title?

No, you do not have the option of electing payment of per diem expenses under part 301-11 of this title if your agency authorized a TCS.

§ 302-3.406 How long must my assignment be for me to qualify for a TCS?

To qualify for a TCS, your assignment must be not less than 6 months, nor more than 30 months.

§ 302-3.407 What is the effect on my TCS reimbursement if my assignment lasts less than 6 months?

Your agency may authorize a TCS only when a TCS is expected to last 6 months or more. If your assignment is cut short for reasons other than separation from Government service, you will be paid TCS expenses.

§ 302-3.408 What is the effect on my TCS reimbursement if my assignment lasts more than 30 months?

If your assignment exceeds 30 months, your agency:

(a) Must permanently assign you to your temporary official station or return you to your previous official station;

(b) May not pay for extended storage or property management services incurred after the last day of the thirtieth month; and

(c) Must pay the expenses of returning you and your immediate family and household goods to your previous official station unless you are permanently assigned to your temporary official station.

§ 302-3.409 Is there any required minimum distance between an official station and a TCS location that must be met for me to qualify for a TCS?

No, there is no required minimum distance between an official station and a TCS location that must be met for you to qualify for a TCS. However, your agency may establish the area within which it will not authorize a TCS.

§ 302-3.410 Must I sign a service agreement to qualify for a TCS?

No, you do not need to sign a service agreement to qualify for a TCS.

§ 302-3.411 What is my official station during my TCS?

Your official station during your TCS is the location of your TCS.

Expenses Paid Upon Assignment

§ 302-3.412 What expenses must my agency pay?

Your agency must pay:

(a) Travel, including per diem, for you and your immediate family under part 302-4 of this chapter;

(b) Transportation and temporary storage of your household goods under part 302-7 of this chapter;

(c) Extended storage when it is necessary as approved by your agency under part 302-8 of this chapter;

(d) Transportation of a mobile home instead of transportation of household goods under part 302-10 of this chapter;

(e) A miscellaneous expenses allowance under part 302-16 of this chapter;

(f) Transportation of a privately owned vehicle(s) under part 302-9 of this chapter; and

(g) A relocation income tax allowance under part 302-17 of this chapter for additional income taxes you incur on payments your agency makes under the authority of this section for your relocation expenses.

§ 302-3.413 Are there other expenses that my agency may pay?

Yes, your agency may pay:

(a) Househunting trip expenses under part 302-5 of this chapter;

(b) Temporary quarters subsistence expenses under part 302-6 of this chapter; and

(c) Reimbursement for Property Management Services under part 302-15 of this chapter.

Expenses Paid During Assignment

§ 302-3.414 If my agency authorizes a TCS, will it pay for extended storage of my household goods?

Yes, if your agency authorizes a TCS, it will pay for extended storage when it is necessary. Extended storage expenses include:

(a) Packing/unpacking;

(b) Crating/uncrating;

(c) Transporting to and from place of storage;

(d) Charges while in storage; and

(e) Other necessary charges directly related to storage.

§ 302-3.415 How long may my agency pay for extended storage of household goods?

Your agency may pay for extended storage of household goods for the duration of your TCS.

§ 302-3.416 Is there any limitation on the combined weight of household goods I may transport and store at Government expense?

Yes, the maximum combined weight is 18,000 pounds net weight. If you transport and/or store household goods in excess of the maximum weight allowance, you will be responsible for any excess cost.

§ 302-3.417 Will I have to pay any income tax if my agency pays for extended storage of my household goods?

You will be subject to income taxes on the amount of extended storage expenses your agency pays. However, your agency will pay you a relocation income tax allowance under part 302-17 of this chapter for substantially all of the additional Federal, State and local income taxes you incur on the expenses your agency pays.

§ 302-3.418 Will my agency pay for property management services when I am authorized a TCS?

Yes, your agency will reimburse you directly for expenses you incur or make payments on your behalf to a relocation services company, if you so choose. The term “property management services” refers to a program provided by a private company for a fee, which assists you in managing your residence at your previous official station as a rental property. Services provided by the company may include, but are not limited to, obtaining a tenant, negotiating a lease, inspecting the property regularly, managing repairs and maintenance, enforcing lease terms, collecting rent, paying the mortgage and other carrying expenses from rental proceeds and/or fund of the employee, and accounting for the transactions and providing periodic reports to the employee.

§ 302-3.419 For what property will my agency pay property management services?

Your agency will only pay for the property from which you commuted to/from work on a daily basis at your previous official station.

§ 302-3.420 How long will my agency pay for property management services?

Your agency will pay for property management services for the duration of your TCS.

§ 302-3.421 What are the income tax consequences when my agency pays for property management services?

When your agency pays for property management services:

(a) You will be taxed on the amount of property management expenses your agency pays, whether it reimburses you directly for your expenses or pays a relocation services company to manage your residence; and

(b) Your agency will pay you a relocation income tax allowance under part 302-17 of this chapter for substantially all of the additional Federal, State and local income taxes you incur on the expenses your agency pays.

Note to § 302-3.421: You may wish to consult with a tax advisor to determine whether you will incur any additional tax liability, unrelated to your agency's payment of your property management expenses, as a result of maintaining your residence as a rental property.

Expenses Paid Upon Completion of Assignment or Upon Separation From Government Service

§ 302-3.422 What expenses will my agency pay when I complete my TCS?

Your agency will pay for the following expenses in connection with your return to your previous official station:

(a) Travel, including per diem, for you and your immediate family under part 302-4 of this chapter;

(b) Transportation and temporary storage of your household good under part 302-7 of this chapter;

(c) Transportation of a mobile home instead of transportation of our household goods under part 302-10 of this chapter;

(d) Temporary quarters subsistence expenses under part 302-6 of this chapter;

(e) A miscellaneous expenses allowance under part 302-16 of this chapter;

(f) Transportation of a privately owned vehicle(s) under part of this chapter; and

(g) A relocation income tax allowance under part 302-17 of this chapter for additional income taxes you incur on payments your agency makes under the authority of this part for your relocation expenses.

§ 302-3.423 If I separate from Government service upon completion of my TCS, what relocation expenses will my agency pay upon my separation?

If you separate from Government service upon completion of your TCS, your agency will upon your separation, pay the same relocation expenses it would have paid had you not separated from Government service upon completion of your TCS.

§ 302-3.424 If I separate from Government service prior to completion of my TCS, what relocation expenses will my agency pay upon my separation?

If you separate from Government service prior to completion of your TCS for reasons beyond your control that are acceptable to your agency, your agency will pay the same relocation expenses it would pay under § 302-3.423. If this is not the case, the expenses your agency pays may not exceed the reimbursement that you would have received under this chapter or chapter 301 of this title whichever your agency determines to be in the best interest of the Government.

§ 302-3.425 If I have been authorized successive temporary changes of station and reassigned from one temporary official station to another, what expenses will my agency pay upon completion of my last assignment or my separation from Government service?

Your agency will pay the expenses authorized in § 302-3.422 for your relocation from your current temporary official station to your last permanent official station.

Permanent Assignment to Temporary Official Station

§ 302-3.426 How is payment of my TCS expenses affected if I am permanently assigned to my temporary official station?

Payment of TCS expenses stops once your temporary official station becomes your permanent official station. Your agency may not pay any TCS expenses incurred beginning the day your temporary official station becomes your permanent official station.

§ 302-3.427 What relocation allowances may my agency pay when I am permanently assigned to my temporary official station?

When you are permanently assigned to your temporary official station, your agency may pay:

(a) Travel, including per diem, in accordance with part 302-4 of this chapter, for one round trip between your temporary official station and your previous official station, for you and members of your immediate family who relocated to the temporary official station with you. Your agency may also pay the same expenses for a one-way trip from the previous official station to the new permanent official station for any immediate family members who did not accompany you to the temporary official station;

(b) Residence transaction expenses under part 302-11 of this chapter;

(c) Property management expenses under part 302-15 of this chapter;

(d) Relocation services under part 302-12 of this chapter;

(e) Temporary quarters subsistence expenses in accordance with part 302-6 of this chapter;

(f) Transportation of household goods not previously transported to the temporary official station under part 302-7 of this chapter; and

(g) Transportation of a privately owned vehicle(s) not previously transported to the temporary official station under § 302-9.6 of this chapter.

§ 302-3.428 If I am permanently assigned to my temporary official station, is there any limitation on the weight of household goods I may transport at Government expense to my official station?

Yes. If you are permanently assigned to your temporary official station, you are limited to 18,000 pounds net weight for household goods you may transport at Government expense to your official station. This maximum weight will be reduced by the weight of any household goods transported at Government expense to your temporary official station under your TCS authorization. Subject to the 18,000 pound limit, your agency will pay to transport any household goods in extended storage to your official station. Additionally, if you change your residence as a result of your permanent assignment to your temporary official station, your agency may pay for transporting your household goods, subject to the 18,000-pound limit, between the residence you occupied during your temporary assignment and your new residence.

§ 302-3.429 Are there any relocation allowances my agency may not pay if I am permanently assigned to my temporary official station?

If you are permanently assigned to your temporary official station, your agency may not pay:

(a) Expenses of a househunting trip for you and your spouse to your temporary official station under part 302-5 of this chapter; or

(b) Residence transaction expenses for selling a residence or breaking a lease at the temporary official station under part 302-11 of this chapter.

Subpart F—Agency Responsibilities

Note to subpart F: Use of pronouns “we”, “you”, and their variants throughout this subpart refers to the agency.

§ 302-3.500 What governing policies and procedures must we establish for paying a relocation allowance under this part 302-3?

You must establish how you will implement policies that are required for this part, which include;

(a) When you will pay relocation expenses if an employee violates his/her service agreement;

(b) When you will authorize separate relocation allowances to an employee and an employee's immediate family member that are both transferring to the same official station;

(c) When you will grant an employee and/or the employee's immediate family member(s) an extension on beginning separation travel;

(d) When you will allow an employee to arrange his/her own relocation upon separation;

(e) When you will authorize a temporary change of station (TCS);

(f) When you will define an area not to reimburse for a TCS;

(g) When you will pay extended storage of household goods for TCS; and

(h) What relocation allowances you will and will not pay when an employee is permanently assigned to a temporary official station.

§ 302-3.501 Must we establish any specific procedures for paying a relocation allowance to new appointees?

Yes, you must establish specific guidelines for paying a relocation allowance to new appointees. These guidelines must establish the:

(a) Criteria in accordance with 5 CFR part 572 on how you will determine if a new appointee is eligible for the relocation allowances authorized therein; and

(b) Procedures which will provide new appointees with information surrounding his/her benefits.

§ 302-3.502 What factors should we consider in determining whether to authorize a TCS for a long-term assignment?

You should consider the following factors in determining whether to authorize a TCS:

(a) Cost considerations. You should consider the cost of each alternative. A long-term temporary duty travel assignment requires the payment of either per diem or actual subsistence expenses for the entire period of the assignment. This could be very costly to the agency over an extended period. A TCS will require fairly substantial relocation allowance payments at the beginning and end of the assignment, and less substantial payments for extended storage and property management services, when authorized, during the period of the assignment. Agencies should estimate the total cost of each alternative and authorize the one that is most advantageous for the agency, cost and other factors considered;

(b) Tax considerations. An employee who performs a temporary duty travel assignment exceeding one year at a single location is subject to income taxation of his/her travel expense reimbursements. The Income Tax Reimbursement Allowance (ITRA) allows for the reimbursement of Federal, State and local income taxes incurred as a result of an extended temporary duty assignment (see §§ 301-11.501 through 301-11.640 of this title). An employee who is authorized and performs a TCS also will be subject to income taxation of some, but not all, of his/her TCS expenses. You will pay an offsetting Relocation Income Tax (RIT) allowance on an employee's TCS expense reimbursements; and

(c) Employee concerns. The long-term assignment of an employee away from his/her official station and immediate family may negatively affect the employee's morale and job performance. Such negative effects may be alleviated by authorizing a TCS so the employee can transport his/her immediate family and/or household goods at Government expense to the location where he/she will perform the long-term assignment. You should consider the effects of a long-term temporary duty travel assignment on an employee when deciding whether to authorize a TCS.

Service Agreements

§ 302-3.503 Must we require employees to sign a service agreement?

Yes, you must require employees to sign a service agreement if the employee is receiving reimbursement for relocation travel expenses, except as provided in § 302-3.410 for a temporary change of station.

§ 302-3.504 What information should we include in a service agreement?

The service agreement should include, but not be limited to the following:

(a) The employee's name;

(b) The employee's effective date of transfer or appointment;

(c) The employee's actual place of residence at the time of appointment;

(d) The name of all dependents that are authorized to travel under the TA;

(e) Detailed information regarding the employee's obligation to repay funds spent on his/her relocation as a debt due the Government if the service agreement is violated;

(f) The employee's agreed period of time (see § 302-3.505) to remain in service; and

(g) The employee's signature accepting the terms of the agreement.

§ 302-3.505 How long must we require an employee to agree to the terms of a service agreement?

You must require an employee to agree to the terms of a service agreement:

(a) Within the continental United States for a period of service of not less than 12 months following the effective date of your transfer;

(b) Outside the continental United States for an agreed upon period of service of not more than 36 months or less than 12 months following the effective date of transfer;

(c) Department of Defense Overseas Dependent School System teachers for a period of not less than one school year as determined under chapter 25 of Title 20, United States Code; and

(d) Renewal agreement travel for a period of not less than 12 months from the date of return to the same or different overseas duty station.

§ 302-3.506 May we pay relocation expenses if the employee violates his/her service agreement?

If an employee does not fulfill the terms of the service agreement, the employee is indebted to the Government for all relocation expenses that have been reimbursed to the employee or that have been paid directly by the Government. However, if the reasons for not fulfilling the terms of the service agreement are beyond the employee's control and acceptable to the agency, you may release the employee from the service agreement and waive any indebtedness.

New Appointees

§ 302-3.507 Once we authorize relocation expenses for new appointees or student trainees what expenses must we pay?

Once you authorize relocation expenses for new appointees or student trainees, you must pay expenses in accordance with § 302-3.2.

§ 302-3.508 What relocation expenses are not authorized for new appointees or student trainees?

You must not pay any expenses to new appointees or student trainees for a relocation that are not listed under § 302-3.2.

Overseas Assignment And Return

§ 302-3.509 What policies must we follow when appointing an employee to an overseas assignment?

When appointing an employee to an overseas assignment, you must:

(a) Establish the employee's actual place of residence at the time of appointment and state it in his/her service agreement;

(b) Use guidance in 8 U.S.C. 1101(33) which states that “The term residence means the place of general abode; the place of general abode of a person means his principal, actual dwelling place in fact, without regard to intent”, for establishing places of residence; and

(c) Require the employee to sign the service agreement prior to his/her relocation.

§ 302-3.510 When must we pay return travel for immediate family members?

You must pay transportation expenses for one-way return travel of immediate family members when the employee has successfully completed his/her service agreement period OCONUS.

§ 302-3.511 What must we consider when determining return travel for immediate family member(s) for compassionate reasons prior to completion of the service agreement?

You must determine that the public interest requires the return of the immediate family for compelling personal reasons of a humanitarian or compassionate nature, which may involve:

(a) His/her physical or mental health;

(b) The death of a member of the immediate family;

(c) Obligations imposed by authority or circumstances over which the individual has no control;

(d) The divorce or annulment of the employee's marriage; or

(e) A dependent that traveled to post of duty on the employee's authorized TA and has now reached his/her 21st birthdate.

§ 302-3.512 How many times are we required to pay for an employee's return travel?

You must pay for return travel and transportation of an employee only once at the end of each agreed period of service.

Overseas Tour Renewal Travel

§ 302-3.513 May we allow a travel advance for tour renewal agreement travel?

No, you cannot allow a travel advance for tour renewal agreement travel.

§ 302-3.514 Under what conditions must we pay for tour renewal agreement travel?

You must pay tour renewal agreement travel when:

(a) The employee has completed the agreed upon period of service outside CONUS;

(b) The employee has agreed to serve another OCONUS tour of duty at the same or different duty station; and

(c) You have determined that the employee meets the special rules under § 302-3.515 for Alaska or Hawaii.

§ 302-3.515 What special rules must we apply for reimbursement of tour renewal travel for employees stationed, assigned, appointed or transferred to/from Alaska or Hawaii?

The following rules apply:

(a) If on September 8, 1982 the employee was serving or committed to serve a tour of duty in Alaska or Hawaii then the employee shall continue to receive reimbursement for tour renewal agreement travel;

(b) After September 8, 1982 you must determine that tour renewal agreement travel expenses are necessary for the purposes of recruiting and retaining employees and you must inform employees in writing that tour renewal agreement travel for the purposes of recruiting and retention is limited to two round trips beginning within 5 years after the date the employee first begins any period of consecutive tours of duty.

SES Separation for Retirement

§ 302-3.516 What must we do before issuing payment for SES separation-relocation travel?

Before issuing payment for separation-relocation travel, you must establish timeframes for employees to submit request for authorization and approval of relocation expenses.

§ 302-3.517 May we issue travel advances for separation relocation?

No, travel advances for separation relocation may not be authorized.

SUBCHAPTER C—PERMANENT CHANGE OF STATION (PCS) ALLOWANCES FOR SUBSISTENCE AND TRANSPORTATION EXPENSES

PART 302-4—ALLOWANCES FOR SUBSISTENCE AND TRANSPORTATION

Subpart A—Eligibility
Sec.
302-4.1 What is a permanent change of station (PCS)?
302-4.2 Am I eligible for subsistence and transportation allowances for PCS travel under this part?
Subpart B—Travel Expenses
302-4.100 What PCS travel expenses will my immediate family members receive?
302-4.101 Must my immediate family member(s) and I begin PCS travel at the old official station and end at the new official station?
Subpart C_Per Diem
302-4.200 What per diem rate will I receive for en route relocation travel within CONUS?
302-094.201 How are my authorized en route travel days and per diem determined for relocation travel?
302-4.202 Are there any circumstances in which a per diem allowance for my immediate family members is not allowed?
Transferred Employees Only
302-4.203 How much per diem will my spouse receive if he/she accompanies me while I am performing PCS travel?
302-4.204 If my spouse does not accompany me but travels unaccompanied at a different time, what per diem rate will he/she receive?
302-4.205 If my spouse and I travel on the same days along the same general route by using more than one POV, is my spouse considered unaccompanied?
302-4.206 How much per diem will my immediate family receive?
Subpart D—Mileage Rates for Use Of POV
302-4.300 What is the POV mileage rate for PCS travel?
302-4.301 Do the rates in § 302-4.300 apply if I am performing overseas tour renewal agreement travel?
302-4.302 Are there circumstances that would allow me to receive a higher mileage rate OCONUS?
Subpart E—Daily Driving Distance Requirements
302-4.400 Will I be required to drive a minimum distance per day?
302-4.401 Are there exceptions to this daily minimum?
302-4.402 Will I be required to document the circumstances causing the delay?
302-4.403 Does this exception require authorization by my approving official?
Subpart F—Use of More Than One POV
302-4.500 If I am authorized to use more than one POV, what are the allowances?
302-4.501 If I use an additional POV that was not authorized for PCS travel, will I be reimbursed for the additional POV?
Subpart G—Advance Of Funds
302-4.600 May I request an advance of funds for per diem and mileage allowances for PCS travel?
Subpart H—Agency Responsibilities
302-4.700 What governing policies must we establish for payment of allowances for subsistence and transportation expenses?
302-4.701 What PCS travel expenses must we pay?
302-4.702 What PCS travel expenses must we pay for the employee's immediate family members?
302-4.703 How do we compute the per diem for an established minimum driving distance per day?
302-4.704 Must we require a minimum driving distance per day?
302-4.705 What are the allowances if the employee uses more POVs than authorized?

Authority: 5 U.S.C. 5738; 20 U.S.C. 905 (a); E.O. 11609, 36 FR 13747, 3 CFR, 1971-1973 Comp., p. 586.

Subpart A—Eligibility

Note to subpart A: Use of pronouns “I”, “you”, and their variants throughout this subpart refers to the employee, unless otherwise noted.

§ 302-4.1 What is a permanent change of station (PCS)?

A permanent change of station (PCS) is an assignment of a new appointee to an official station or the transfer of an employee from one official station to another on a permanent basis.

§ 302-4.2 Am I eligible for subsistence and transportation allowances for PCS travel under this part?

Yes, you are eligible for subsistence and transportation allowances for PCS travel if your agency specifically authorizes relocation expenses under this part and are:

(a) Transferred employees (within or outside CONUS);

(b) New appointees (within or outside CONUS); and

(c) An employees assigned to posts of duty outside CONUS in connection with either overseas tour renewal agreement travel or return travel to places of residence for separation.

Note to § 302-4.2: Also see table at §§ 302-3.2 and 302-3.101.

Subpart B—Travel Expenses

§ 302-4.100 What PCS travel expenses will my immediate family members receive?

Except as specifically provided in § 302-4.202, the rules (for TDY travel) in chapter 301 of this title will be used for payment of the travel expenses of your immediate family members.

§ 302-4.101 Must my immediate family member(s) and I begin PCS travel at the old official station and end at the new official station?

No, if an alternate location is used, reimbursement is limited to the allowable cost by the usually traveled route between your old and new official stations.

Subpart C—Per Diem

§ 302-4.200 What per diem rate will I receive for en route relocation travel within CONUS?

Your per diem for en route relocation travel between your old and new official station will be at the standard CONUS rate (see Appendix A of part 302.17 of this chapter). You will be reimbursed in accordance with §§ 301-11.100 through 301-11.102 of this title.

§ 302-4.201 How are my authorized en route travel days and per diem determined for relocation travel?

Your authorized en route travel days and per diem are determined as follows: The number of authorized travel days is the actual number of days used to complete the trip, but not to exceed an amount based on a minimum driving distance per day determined to be reasonable by your agency. The minimum driving distance shall be not less than an average of 300 miles per calendar day. An exception to the daily minimum driving distance may be made when delay is beyond control of the employee, such as when it results from acts of God or restrictions by Government officials; when the employee is physically handicapped; or for other reasons acceptable to the agency.

§ 302-4.202 Are there any circumstances in which a per diem allowance for my immediate family members is not allowed?

Yes, per diem for your immediate family members cannot be authorized if you are:

(a) A new appointee;

(b) Assigned to posts of duty outside CONUS returning to place of actual residence for separation; or

(c) Being relocated under the Government Employees Training Act (5 U.S.C. 4109).

Transferred Employees Only

§ 302-4.203 How much per diem will my spouse receive if he/she accompanies me while I am performing PCS travel?

The maximum amount your spouse may receive if he/she accompanies you while you are performing PCS travel is three-fourths of your daily per diem rate.

§ 302-4.204 If my spouse does not accompany me but travels unaccompanied at a different time, what per diem rate will he/she receive?

If your spouse does not accompany you but travels unaccompanied at a different time, he/she will receive the same per diem rate to which you are entitled.

§ 302-4.205 If my spouse and I travel on the same days along the same general route by using more than one POV, is my spouse considered unaccompanied?

No; for per diem purposes, you and your spouse are considered to be traveling together if you travel on the same days along the same general route by using more than one POV.

§ 302-4.206 How much per diem will my immediate family receive?

Immediate family members age 12 or older receive three-fourths of your per diem rate, and children under 12 receive one-half of your per diem rate.

Subpart D_Mileage Rates for Use of POV

§ 302-4.300 What is the POV mileage rate for PCS travel?

When PCS travel by POV is approved, rates for payment of mileage allowances are taken from the following table:

Occupants of POV | Mileage rate
Employee only; or one member of immediate family | $0.15
Employee and one member; or two members of immediate family | 0.17
Employee and two members; or three members of immediate family | 0.19
Employee and three or more members; or four or more members of immediate family | 0.20

§ 302-4.301 Do the rates in § 302-4.300 apply if I am performing overseas tour renewal agreement travel?

No, POV mileage must not be authorized for overseas tour renewal agreement travel.

§ 302-4.302 Are there circumstances that would allow me to receive a higher mileage rate OCONUS?

Yes, your agency may authorize a higher mileage rate at a rate not to exceed the maximum rate prescribed in § 301-10.303 of this title when:

(a) You are expected to use the POV on official business at the new official station;

(b) The common carrier rates for the facilities provided between the old and new official stations, the related constructive taxicab fares to and from terminals, and the per diem allowances prescribed under this part justify a higher mileage rate as advantageous to the Government as determined by your agency; or

(c) The costs of driving the POV to, from, or between official stations located outside CONUS justify a higher mileage rate as advantageous to the Government.

Subpart E—Daily Driving Distance Requirements

§ 302-4.400 Will I be required to drive a minimum distance per day?

Yes, your agency may establish a reasonable minimum driving distance that may be more than, but not less than an average of 300 miles per calendar day.

§ 302-4.401 Are there exceptions to this daily minimum?

Yes, your agency may authorize exceptions to the daily minimum driving distance when there is a delay beyond your control such as acts of God, restrictions by Governmental authorities, or other acceptable reasons; e.g., a physical handicap or special needs. Your agency must have a designated approving official authorize the exception.

§ 302-4.402 Will I be required to document the circumstances causing the delay?

Yes, you must provide a statement on your travel claim explaining the circumstances that caused the delay.

§ 302-4.403 Does this exception require authorization by my approving official?

Yes, authorization by your approving official is required for any exception to the daily minimum driving distance.

Subpart F—Use of More Than One POV

302-4.500 If I am authorized to use more than one POV, what are the allowances?

When you are authorized to use more than one POV, the allowances under §§ 302-4.300 and 302-4.302 apply for each POV.

§ 302-4.501 If I use an additional POV that was not authorized for PCS travel, will I be reimbursed for the additional POV?

No, your agency must authorize you reimbursement of the use of more than one POV before you are entitled to reimbursement.

Subpart G—Advance of Funds

§ 302-4.600 May I request an advance of funds for per diem and mileage allowances for PCS travel?

You may request advance of funds for per diem and mileage allowances for PCS travel, except for overseas tour renewal agreement travel.

Subpart H—Agency Responsibilities

Note to subpart H: Use of pronouns “we”, “you”, and their variants throughout this subpart refers to the agency, unless otherwise noted.

§ 302-4.700 What governing policies must we establish for payment of allowances for subsistence and transportation expenses?

For payment of allowances for subsistence and transportation expenses, you must establish policy and procedures governing:

(a) How you will implement the regulations throughout this part;

(b) A reasonable minimum driving distance per day that may be more than, but not less than an average of 300 miles per calendar day when use of a POV is used for PCS travel and when you will authorize an exception;

(c) Designation of an agency approving official who will authorize an exception to the daily minimum driving distance; and

(d) When you will authorize the use of more than one POV for PCS travel.

§ 302-4.701 What PCS travel expenses must we pay?

Except as specifically provided in this chapter, PCS travel expenses you must pay are:

(a) Per diem;

(b) Transportation costs; and

(c) Other travel expenses in accordance with 5 U.S.C. 5701-5709 and chapter 301 of this title.

§ 302-4.702 What PCS travel expenses must we pay for the employee's immediate family members?

Except as specifically provided in this chapter, the reimbursement limits in chapter 301 of this title govern payment of travel expenses you must pay for the employee's immediate family members.

§ 302-4.703 How do we compute the per diem for an established minimum driving distance per day?

Per diem for an established minimum driving distance per day is computed based on the lodgings-plus per diem system as described in §§ 301-11.100 through 301-11.103 of this title.

§ 302-4.704 Must we require a minimum driving distance per day?

Yes, you must establish a minimum driving distance not less than an average of 300 miles per day. However, an exception to the daily minimum driving distance may be made when the delay is:

(a) Beyond control of the employee, e.g., results from acts of God or restrictions by Government officials;

(b) Due to a physical handicap; or

(c) For other reasons acceptable to you.

§ 302-4.705 What are the allowances if the employee uses more POVs than authorized?

If the employee uses more POVs than authorized, reimbursement will be made as if all persons traveled in the number of POVs that you authorized.

PART 302-5—ALLOWANCE FOR HOUSEHUNTING TRIP EXPENSES

Subpart A—Employee's Allowance for Househunting Trip Expenses

Sec.

302-5.1 What is a “househunting trip”?

302-5.2 What is the purpose of the househunting trip expenses allowance?

302-5.3 Am I eligible for a househunting trip expenses allowance?

302-5.4 Who is not eligible for a househunting trip expenses allowance?

302-5.5 Must my agency authorize payment of a househunting trip expenses allowance?

302-5.6 Under what circumstances will I receive a househunting trip expenses allowance?

302-5.7 Who may travel on a househunting trip at Government expense?

302-5.8 How many househunting trips may my agency authorize in connection with a particular transfer?

302-5.9 May my spouse and I perform separate househunting trips at Government expense?

302-5.10 How soon may I and/or my spouse begin a househunting trip?

302-5.11 Is there a time limit on the duration of a househunting trip?

302-5.12 When must my househunting trip be completed?

302-5.13 What methods may my agency use to reimburse me for househunting trip expenses?

302-5.14 What transportation expenses will my agency pay?

302-5.15 Must I document my househunting trip expenses to receive reimbursement?

302-5.16 May I receive an advance of funds for househunting trip expenses?

302-5.17 Am I in a duty status when I perform a househunting trip?

302-5.18 May I retain any balance left over from my househunting reimbursement if my fixed amount is more than adequate to cover my househunting trip?

Subpart B—Agency Responsibilities

302-5.100 How should we administer the househunting trip expenses allowance?

302-5.101 What governing policies must we establish for the househunting trip expenses allowance?

302-5.102 Under what circumstances may we authorize a househunting trip?

302-5.103 What factors must we consider in determining whether to offer an employee the fixed amount househunting trip subsistence expense reimbursement option?

Authority: 5 U.S.C. 5738; 20 U.S.C. 905(a); E.O. 11609, 36 FR 13474, 3 CFR, 1971-1973 Comp., p. 586.

Subpart A—Employee's Allowance For Househunting Trip Expenses

Note to subpart A: Use of the pronouns “I” and “you” throughout this subpart refers to the employee.

§ 302-5.1 What is a “househunting trip”?

The term “househunting trip” refers to a trip made by the employee and/or spouse to your new official station locality to find permanent living quarters to rent or purchase. The term “living quarters” in this part includes apartments, condominiums, and cooperatives in addition to townhouses and single family homes.

§ 302-5.2 What is the purpose of the househunting trip expenses allowance?

The allowance for househunting trip expenses is intended to facilitate and expedite the employee's move from your old official station to your new official station and to lower the Government's overall cost for the employee's relocation by reducing the amount of time an employee must occupy temporary quarters. The allowance for househunting trip expenses provides the employee and/or spouse a period of time to concentrate on finding a suitable permanent residence at the new official station and thereby expedites the employee's relocation.

§ 302-5.3 Am I eligible for a househunting trip expenses allowance?

You are eligible for a househunting trip expenses allowance if you are an employee who is authorized to transfer, and in addition:

(a) Both your old and new official stations are located within the United States;

(b) You are not assigned to Government or other prearranged housing at your new official station; and

(c) Your old and new official stations are 75 or more miles apart (as measured by map distance) via a usually traveled surface route.

§ 302-5.4 Who is not eligible for a househunting trip expenses allowance?

New appointees and employees assigned under the Government Employees Training Act (5 U.S.C. 4109) are not eligible for a househunting trip expenses allowance.

§ 302-5.5 Must my agency authorize payment of a househunting trip expenses allowance?

No, your agency determines when it is in the Government's interest to authorize you a househunting trip and the procedures you must follow if it is authorized.

§ 302-5.6 Under what circumstances will I receive a househunting trip expenses allowance?

You will receive a househunting trip expenses allowance if:

(a) Your agency authorized you to perform a househunting trip in advance of the travel (the agency authorization must specify the mode of transportation and the period of time allowed for the trip);

(b) You have signed a service agreement;

(c) Your agency has established, and informed you of, the date you are to report to your new official station; and

(d) You meet any additional conditions your agency has established.

§ 302-5.7 Who may travel on a househunting trip at Government expense?

Only you and/or your spouse may travel on a househunting trip at Government expense.

§ 302-5.8 How many househunting trips may my agency authorize in connection with a particular transfer?

Your agency may authorize only one round trip for you and/or your spouse in connection with a particular transfer.

§ 302-5.9 May my spouse and I perform separate househunting trips at Government expense?

Yes, however, your reimbursement will be limited to the cost that would have been incurred if you and your spouse had traveled together on one round trip.

§ 302-5.10 How soon may I and/or my spouse begin a househunting trip?

You may begin your househunting trip as soon as your agency has notified you of your transfer and issued a travel authorization for a househunting trip. To take maximum advantage of your trip, however, it is very important that you become familiar as quickly as you can with your new official station area (e.g., housing market conditions, school locations, etc.). If you are selling your residence at your old official station, you should not begin your househunting trip until you have a current appraisal of the value of the residence so that you can more accurately determine the appropriate price range of residences to consider during your househunting trip.

§ 302-5.11 Is there a time limit on the duration of a househunting trip?

A househunting trip should be for a reasonable period, not to exceed 10 calendar days, as authorized by your agency under § 302-5.101(d).

§ 302-5.12 When must my househunting trip be completed?

You and/or your spouse must complete your househunting trip as indicated in the following table:

For | Your househunting trip must be completed by
You | The day before you report to your new Official station.
Your spouse | The earlier of:
| (a) The day before your family relocates to your new official station; or
| (b) The day before the maximum time for beginning allowable travel expires (see § 302-2.100 of this chapter).

§ 302-5.13 What methods may my agency use to reimburse me for househunting trip expenses?

Your agency will reimburse your househunting trip expenses as indicated in the following table:

For | You are reimbursed
You and/or your spouse's transportation expenses | Your actual transportation costs.
You and/or your spouse's subsistence expenses. | One of the following:
| (a) A per diem allowance for you and/or your spouse as prescribed under part 302-4, subpart C of this chapter; or
| (b) If you accept your agency's offer of the fixed amount option, and:
| (1) Both you and your spouse perform a househunting trip either together or separately, a single amount determined by multiplying the applicable locality rate (listed in appendix A to chapter 301 of this subtitle) by 6.25 or
| (2) Only one of you performs a househunting trip, an amount determined by multiplying the applicable locality rate (listed in appendix A to chapter 301 of this subtitle) by 5.

§ 302-5.14 What transportation expenses will my agency pay?

Your agency will authorize you to travel by the transportation mode(s) (e.g., airline, train, or privately owned automobile) it determines to be advantageous to the Government. Your agency will pay for your transportation expenses by the authorized mode(s). If you travel by any other mode(s), your agency will pay your transportation expenses not to exceed the cost of transportation by the authorized mode(s).

§ 302-5.15 Must I document my househunting trip expenses to receive reimbursement?

To receive reimbursement for househunting trip transportation expenses you must itemize your transportation expenses and provide receipts as required by § 301-11.3(c) of this title. For fixed amount househunting trip subsistence reimbursement, you do not need to document your subsistence expenses. For per diem househunting trip subsistence expense reimbursement, you must itemize your lodging expenses and you must provide receipts as required by §§ 301-7.9(b) and 301-11.3(c) of this title.

§ 302-5.16 May I receive an advance of funds for househunting trip expenses?

Your agency may authorize an advance of funds, in accordance with § 302-2.20 of this chapter, for your househunting trip expenses. Your agency may not advance you funds in excess of the sum of your anticipated transportation costs and either the maximum per diem allowable under part 302-4 of this chapter for the location and duration of your househunting trip or your fixed amount househunting trip subsistence expenses payment, whichever applies.

§ 302-5.17 Am I in a duty status when I perform a househunting trip?

Yes, you are in a duty status when you perform a househunting trip.

§ 302-5.18 May I retain any balance left over from my househunting reimbursement if my fixed amount is more than adequate to cover my househunting trip?

Yes, if your fixed househunting amount is more than adequate to cover your househunting expenses any balance belongs to you.

Subpart B—Agency Responsibilities

Note to subpart B: Use of pronouns “we”, “you”, and their variants throughout this subpart refers to the agency.

§ 302-5.100 How should we administer the househunting trip expenses allowance?

You should administer the househunting trip expenses allowance to minimize or avoid its use when other satisfactory and more economical arrangement are available.

§ 302-5.101 What governing policies must we establish for the househunting trip expenses allowance?

You must establish policies and procedures governing:

(a) When you will authorize a househunting trip for an employee;

(b) Who will determine if a househunting trip is appropriate in each situation;

(c) If and when you will authorize the fixed amount option for househunting trip subsistence expenses reimbursement;

(d) Who will determine the appropriate duration of a househunting trip for an employee who selects a per diem allowance under part 302-4 of this chapter to reimburse househunting trip subsistence expenses; and

(e) Who will determine the mode(s) of transportation to be used.

§ 302-5.102 Under what circumstances may we authorize a househunting trip?

You may authorize a househunting trip on an individual-case basis when the employee has accepted the transfer and his/her circumstances indicate that a househunting trip actually is needed. You may not authorize a househunting trip when the purpose of the trip is to assist the employee in deciding whether he or she will accept the transfer.

§ 302-5.103 What factors must we consider in determining whether to offer an employee the fixed amount househunting trip subsistence expense reimbursement option?

You must consider the following factors:

(a) Ease of administration. Payment of a per diem allowance under part 302-4 of this chapter requires you to review claims for the validity, accuracy, and reasonableness of each expense amount, except for meals and incidental expenses. Fixed amount househunting trip subsistence expenses reimbursement is easier to administer because you do not have to review expense amounts.

(b) Cost considerations. You must weigh the cost of each reimbursement option on a case-by-case basis.

(c) Treatment of employees. The employee is allowed to choose between a per diem allowance under part 302-4 of this chapter and fixed amount househunting trip subsistence expenses reimbursement when you offer the fixed amount reimbursement method. You therefore should weigh employee morale and productivity considerations against actual cost considerations in determining which method to offer.

PART 302-6—ALLOWANCE FOR TEMPORARY QUARTERS SUBSISTENCE EXPENSES

Subpart A—General Rules
Sec.
302-6.1 What are “temporary quarters?”
302-6.2 What are “temporary quarters subsistence expenses (TQSE)”?
302-6.3 What is the purpose of the TQSE allowance?
302-6.4 Am I eligible for a TQSE allowance?
302-6.5 Who is not eligible for a TQSE allowance?
302-6.6 Must my agency authorize payment of a TQSE allowance?
302-6.7 Under what circumstances will I receive a TQSE allowance?
302-6.8 Who may occupy temporary quarters at Government expense?
302-6.9 Where may I/we occupy temporary quarters at Government expense?
302-6.10 May my immediate family and I occupy temporary quarters at different locations?
302-6.11 What methods may my agency use to reimburse me for TQSE?
302-6.12 Must I document my TQSE to receive reimbursement?
302-6.13 How soon may I/we begin occupying temporary quarters at Government expense?
302-6.14 How is my TQSE allowance affected if my temporary quarters become my permanent residence quarters?
302-6.15 May I receive an advance of funds for TQSE?
302-6.16 May I receive a TQSE allowance if I am receiving another subsistence expenses allowance?
302-6.17 Am I eligible for a TQSE allowance if I transfer to a foreign area?
302-6.18 May I be reimbursed for local transportation expenses incurred while I am occupying temporary quarters?
Subpart B—Actual TQSE Method of Reimbursement
302-6.100 What am I paid under the actual TQSE reimbursement method?
302-6.101 May my agency reduce my TQSE allowance below the “maximum allowable amount”?
302-6.102 What is the “applicable per diem rate” under the actual TQSE reimbursement method?
302-6.103 What is the latest period for which actual TQSE reimbursement may begin?
302-6.104 How long may I be authorized to claim actual TQSE reimbursement?
302-6.105 What is a “compelling reason” warranting extension of my authorized period for claiming an actual TQSE reimbursement?
302-6.106 May I interrupt occupancy of temporary quarters?
302-6.107 What effect do partial days of temporary quarters occupancy have on my authorized period for claiming actual TQSE reimbursement?
302-6.108 When does my authorized period for claiming actual TQSE reimbursement end?
302-6.109 May the period for which I am authorized to claim actual TQSE reimbursement for myself be different from that of my immediate family?
302-6.110 What effect do partial days have on my actual TQSE reimbursement?
302-6.111 May I and/or my immediate family occupy temporary quarters longer than the period for which I am authorized to claim actual TQSE reimbursement?
Subpart C—Fixed Amount Reimbursement
302-6.200 What am I paid under the fixed amount reimbursement method?
302-6.201 How do I determine the amount of my payment under the fixed amount reimbursement method?
302-6.202 Will I receive additional TQSE reimbursement if my fixed amount is not adequate to cover my TQSE?
302-6.203 May I retain any balance left over from my TQSE reimbursement if my fixed amount is more than adequate to cover my TQSE?
Subpart D—Agency Responsibilities
302-6.300 How should we administer the TQSE allowance?
302-6.301 What governing policies must we establish for the TQSE allowance?
302-6.302 Under what circumstances may we authorize the TQSE allowance?
302-6.303 What factors should we consider in determining whether the TQSE allowance is actually necessary?
302-6.304 What factors should we consider in determining whether to offer an employee the fixed amount TQSE reimbursement option?
302-6.305 What factors should we consider in determining whether quarters are temporary?

Authority: 5 U.S.C. 5738; 20 U.S.C. 905(a); E.O. 11609, 36 FR 13474, 3 CFR, 1971-1973 Comp., p. 586.

Subpart A—General Rules

Note to subpart A: Use of pronouns “I”, “you”, and their variants throughout this subpart refers to the employee, unless otherwise noted.

§ 302-6.1 What are “temporary quarters?'

The term “temporary quarters” refers to lodging obtained for the purpose of temporary occupancy from a private or commercial source.

§ 302-6.2 What are “temporary quarters subsistence expenses (TQSE)”?

“Temporary quarters subsistence expenses” or “TQSE” are subsistence expenses incurred by an employee and/or his/her immediate family while occupying temporary quarters. TQSE does not include local transportation expenses incurred during occupancy of temporary quarters (see § 302-6.18 for details).

§ 302-6.3 What is the purpose of the TQSE allowance?

The TQSE allowance is intended to reimburse an employee reasonably and equitably for subsistence expenses incurred when it is necessary to occupy temporary quarters.

§ 302-6.4 Am I eligible for a TQSE allowance?

You are eligible for a TQSE allowance if you are an employee who is authorized to transfer; and

(a) Your new official station is located within the United States; and

(b) Your old and new official stations are 50 miles or more apart (as measured by map distance) via a usually traveled surface route.

§ 302-6.5 Who is not eligible for a TQSE allowance?

New appointees, employees assigned under the Government Employees Training Act (5 U.S.C. 4109), and employees returning from an overseas assignment for the purpose of separation are not eligible for a TQSE allowance.

§ 302-6.6 Must my agency authorize payment of a TQSE allowance?

No, your agency determines whether it is in the Government's interest to pay TQSE.

§ 302-6.7 Under what circumstances will I receive a TQSE allowance?

You will receive a TQSE allowance if:

(a) Your agency authorizes it before you occupy the temporary quarters (the agency authorization must specify the period of time allowed for you to occupy temporary quarters);

(b) You have signed a service agreement; and

(c) You meet any additional conditions your agency has established.

§ 302-6.8 Who may occupy temporary quarters at Government expense?

Only you and/or your immediate family may occupy temporary quarters at Government expense.

§ 302-6.9 Where may I/we occupy temporary quarters at Government expense?

You and/or your immediate family may occupy temporary quarters at Government expense within reasonable proximity of your old and/or new official stations. Neither you nor your immediate family may be reimbursed for occupying temporary quarters at any other location, unless justified by special circumstances that are reasonably related to your transfer.

§ 302-6.10 May my immediate family and I occupy temporary quarters at different locations?

Yes. For example, if you must vacate your home at the old official station and report to the new official station and your family remains behind until the end of the school year, you may need to occupy temporary quarters at the new official station while your family occupies temporary quarters at the old official station.

§ 302-6.11 What methods may my agency use to reimburse me for TQSE?

Your agency will reimburse you for TQSE under the actual expense method unless it permits the “fixed amount” reimbursement method as an alternative. If your agency makes both methods available to you, you may select the one you prefer.

§ 302-6.12 Must I document my TQSE to receive reimbursement?

For fixed amount TQSE reimbursement, you do not document your TQSE. For actual TQSE reimbursement, you must document your TQSE by itemizing each expense and providing receipts as required by §§ 301-11.25, 301-11.306 and 301-52.4(b) of this title.

§ 302-6.13 How soon may I/we begin occupying temporary quarters at Government expense?

As soon as your agency has authorized you to receive a TQSE allowance and you have signed a service agreement.

§ 302-6.14 How is my TQSE allowance affected if my temporary quarters become my permanent residence quarters?

If your temporary quarters become your permanent residence quarters, you may receive a TQSE allowance only if you show in a manner satisfactory to your agency that you initially intended to occupy the quarters temporarily.

§ 302-6.15 May I receive an advance of funds for TQSE?

Yes, if authorized in accordance with § 302-2.20 of this chapter, your agency may advance the amount of funds necessary to cover your estimated TQSE expenses for up to 30 days. Your agency subsequently may advance additional funds for periods up to 30 days.

§ 302-6.16 May I receive a TQSE allowance if I am receiving another subsistence expenses allowance?

No, with one exception. You may receive a cost-of-living allowance payable under 5 U.S.C. 5941 in addition to a TQSE allowance.

§ 302-6.17 Am I eligible for a TQSE allowance if I transfer to a foreign area?

No, you may not receive a TQSE allowance under this part when you transfer to an area outside the United States. However, you may qualify for a comparable allowance under the Standardized Regulations (Government Civilians, Foreign Areas) prescribed by the Department of State.

§ 302-6.18 May I be reimbursed for local transportation expenses incurred while I am occupying temporary quarters?

Generally no; local transportation expenses are not TQSE, and there is no authority to pay such expenses under TQSE. You may, however, be reimbursed under part 301-4 of this subtitle for necessary transportation expenses if you perform local official business travel while you are occupying temporary quarters.

Subpart B—Actual TQSE Method of Reimbursement

§ 302-6.100 What am I paid under the actual TQSE reimbursement method?

Your agency will pay your actual TQSE incurred, provided the expenses are reasonable and do not exceed the maximum allowable amount. The “maximum allowable amount” is the “maximum daily amount” multiplied by the number of days you actually incur TQSE not to exceed the number of days authorized, taking into account that the rates change after 30 days in temporary quarters. The “maximum daily amount” is determined by adding the rates in the following table for you and each member of your immediate family authorized to occupy temporary quarters:

| The “maximum daily amount” of TQSE under the actual expense method that: You and/or your unaccompanied spouse ¹ may receive is | The “maximum daily amount” of TQSE under the actual expense method that: Your accompanied spouse or a member of your immediate family who is age 12 or older may receive is | The “maximum daily amount” of TQSE under the actual expense method that: A member of your immediate family who is under age 12 may receive is
For:
The first 30 days of temporary quarters | The applicable per diem rate | .75 times the applicable per diem rate | .5 times the applicable per diem rate.
Any additional days of temporary quarters | .75 times the applicable per diem rate | .5 times the applicable per diem rate | .4 times the applicable per diem rate.
¹ (That is, when the spouse necessarily occupies temporary quarters in lieu of the employee or in a location separate from the employee.)

§ 302-6.101 May my agency reduce my TQSE allowance below the “maximum allowable amount”?

Yes, if the estimated daily amount of your TQSE is determined in advance to be lower than the maximum daily amount, your agency may reduce the maximum allowable amount to your expected expenses.

§ 302-6.102 What is the “applicable per diem rate” under the actual TQSE reimbursement method?

The “applicable per diem rate” under the actual TQSE reimbursement method is as follows:

For temporary quarters located in | The applicable per diem rate is
The continental United States (CONUS) | The standard CONUS rate.
Outside the Continental United States (OCONUS) | The locality rate established by the Secretary of Defense or the Secretary of State under § 301-11.6 of this title.

§ 302-6.103 What is the latest period for which actual TQSE reimbursement may begin?

The period must begin before the maximum time for beginning allowable travel and transportation under § 302-2.8.

§ 302-6.104 How long may I be authorized to claim actual TQSE reimbursement?

Your agency may authorize you to claim actual TQSE in increments of 30-days or less, not to exceed 60 consecutive days. However, if your agency determines that there is a compelling reason for you to continue occupying temporary quarters after 60 consecutive days, it may authorize an extension of up to 60 additional consecutive days. Under no circumstances may you be authorized reimbursement for actual TQSE for more than a total of 120 consecutive days.

§ 302-6.105 What is a “compelling reason” warranting extension of my authorized period for claiming an actual TQSE reimbursement?

A “compelling reason” is an event that is beyond your control and is acceptable to your agency. Examples include, but are not limited to when:

(a) Delivery of your household goods to your new residence is delayed due to strikes, customs clearance, hazardous weather, fires, floods or other acts of God, or similar events.

(b) You cannot occupy your new permanent residence because of unanticipated problems (e.g., delay in settlement on the new residence, or short-term delay in construction of the residence).

(c) You are unable to locate a permanent residence which is adequate for your family's needs because of housing conditions at your new official station.

(d) Sudden illness, injury, your death or the death of your immediate family member; or

(e) Similar reasons.

§ 302-6.106 May I interrupt occupancy of temporary quarters?

Yes, your authorized period for claiming actual TQSE reimbursement is measured on consecutive days, and once begun, normally continues to run whether or not you occupy temporary quarters. You may, however, interrupt your authorized period for claiming actual TQSE reimbursement in the following instances:

(a) For the time allowed for en route travel between the old and new official stations;

(b) For circumstances attributable to official necessity such as an intervening temporary duty assignment or military duty; or

(c) For a non-official necessary interruption such as hospitalization, approved sick leave, or other reason beyond your control and acceptable to your agency.

§ 302-6.107 What effect do partial days of temporary quarters occupancy have on my authorized period for claiming actual TQSE reimbursement?

Occupancy of temporary quarters for less than a whole day constitutes one full day of your authorized period. (However, see § 302-6.110 regarding en route travel.)

§ 302-6.108 When does my authorized period for claiming actual TQSE reimbursement end?

The period ends at midnight on the earlier of:

(a) The day preceding the day you and/or any member of your immediate family occupies permanent residence quarters.

(b) The day your authorized period for claiming actual TQSE reimbursement expires.

§ 302-6.109 May the period for which I am authorized to claim actual TQSE reimbursement for myself be different from that of my immediate family?

No, the eligibility period for which you are authorized to claim actual TQSE reimbursement for yourself and for each member of your immediate family must run concurrently.

§ 302-6.110 What effect do partial days have on my actual TQSE reimbursement?

You may not receive reimbursement under both the actual TQSE allowance and another subsistence expenses allowance within the same day, with one exception. If you claim TQSE reimbursement on the same day that en route travel per diem ends, your en route travel per diem will be computed under applicable partial day rules and you also may be reimbursed for actual TQSE you incur after 6 p.m. of that day.

§ 302-6.111 May I and/or my immediate family occupy temporary quarters longer than the period for which I am authorized to claim actual TQSE reimbursement?

Yes, but you will not be reimbursed for any of the expenses you incur during the unauthorized period.

Subpart C-Fixed Amount Reimbursement

§ 302-6.200 What am I paid under the fixed amount reimbursement method?

If your agency offers and you select the fixed amount TQSE reimbursement method, you are paid a fixed amount for up to 30 days. No extensions are allowed under the fixed amount method.

§ 302-6.201 How do I determine the amount of my payment under the fixed amount reimbursement method?

Multiply the number of days your agency authorizes TQSE by .75 times the maximum per diem rate (i.e., lodging plus meals and incidental expenses) prescribed in chapter 301 of this subtitle for the locality of the new official station. Then for each member of your immediate family, multiply the same number of days by .25 times the same per diem rate. Your payment will be the sum of this calculation.

§ 302-6.202 Will I receive additional TQSE reimbursement if my fixed amount is not adequate to cover my TQSE?

No, you will not receive additional TQSE reimbursement if the fixed amount is not adequate to cover your TQSE.

§ 302-6.203 May I retain any balance left over from my TQSE reimbursement if my fixed amount is more than adequate?

Yes, if your fixed TQSE amount is more than adequate to cover your TQSE expenses any balance belongs to you.

Subpart D—Agency Responsibilities

Note to subpart D: Use of pronouns “we”, “you”, and their variants throughout this subpart refers to the agency.

§ 302-6.300 How should we administer the TQSE allowance?

Temporary quarters should be used only if, and only for as long as, necessary until the employee and/or his/her immediate family can move into permanent residence quarters. You must administer the TQSE allowance to minimize or avoid other relocation expenses.

§ 302-6.301 What governing policies must we establish for the TQSE allowance?

You must establish policies and procedures governing:

(a) When you will authorize temporary quarters for employees;

(b) Who will determine if temporary quarters is appropriate in each situation;

(c) If and when you will authorize the fixed amount option for TQSE reimbursement;

(d) Who will determine the appropriate period of time for which TQSE reimbursement will be authorized, including approval of extensions and interruptions of temporary quarters occupancy; and

(e) Who will determine whether quarters were indeed temporary, if there is any doubt.

§ 302-6.302 Under what circumstances may we authorize the TQSE allowance?

You may authorize a TQSE allowance on an individual-case basis when use of temporary quarters is justified in connection with an employee's transfer to a new official station. You may not authorize a TQSE allowance for vacation purposes or other reasons unrelated to the transfer.

§ 302-6.303 What factors should we consider in determining whether the TQSE allowance is actually necessary?

The factors you should consider include:

(a) The length of time the employee should reasonably be expected to occupy his/her residence at the old official station prior to reporting for duty at the new official station. An employee and his/her immediate family should continue to occupy the residence at the old official station for as long as practicable to avoid the necessity for temporary quarters.

(b) The existence of less expensive alternatives. If a less expensive alternative to the TQSE allowance exists that will enable the employee to find permanent quarters at the new official station, you should consider such an alternative. For example, authorize a househunting trip instead of temporary quarters if it would cost less overall.

(c) The existence of other opportunities to arrange for permanent quarters. Consider whether the employee had other adequate opportunity to arrange for permanent quarters. For example, you should not authorize temporary quarters if the employee had adequate opportunity during an extended temporary duty assignment to arrange for permanent quarters.

§ 302-6.304 What factors should we consider in determining whether to offer an employee the fixed amount TQSE reimbursement option?

The factors you should consider include:

(a) Ease of administration. Actual TQSE reimbursement requires an agency to review claims for the validity, accuracy, and reasonableness of each expense amount. Fixed amount TQSE reimbursement does not require review of expense amounts and is therefore easier to administer.

(b) Cost considerations. You must weigh the cost of each alternative. Actual TQSE reimbursement may extend up to 120 consecutive days, while fixed amount TQSE reimbursement is limited to 30 days. Actual TQSE reimbursement may be less expensive, since its ceiling is based on the standard CONUS rate, while fixed amount TQSE reimbursement is based on the locality per diem rate. However, fixed amount TQSE reimbursement may be less expensive because the maximum daily rate under actual TQSE reimbursement is a higher percentage of the applicable per diem rate than fixed amount TQSE reimbursement.

(c) Treatment of employee. The employee is allowed to choose between actual TQSE reimbursement and fixed amount TQSE reimbursement when you offer the fixed amount TQSE reimbursement method. You therefore should weigh employee morale and productivity considerations against actual cost considerations in determining which method to offer.

§ 302-6.305 What factors should we consider in determining whether quarters are temporary?

In determining whether quarters are “temporary”, you should consider factors such as the duration of the lease, movement of household effects into the quarters, the type of quarters, the employee's expressions of intent, attempts to secure a permanent dwelling, and the length of time the employee occupies the quarters.

SUBCHAPTER D—TRANSPORTATION AND STORAGE OF PROPERTY

PART 302-7—TRANSPORTATION AND TEMPORARY STORAGE OF HOUSEHOLD GOODS AND PROFESSIONAL BOOKS, PAPERS, AND EQUIPMENT (PBP&E)

Subpart A—General Rules
Sec.
302-7.1 Who is eligible for the transportation and temporary storage of household goods (HHG) at Government expense?
302-7.2 What is the maximum weight of HHG that may be transported or stored at Government expense?
302-7.3 May HHG be transported or stored in more than one lot?
302-7.4 Does the weight of any professional books, papers and equipment (PBP&E) count against the 18,000 pound HHG weight limitation?
302-7.5 May the 18,000 pound HHG weight limitation be increased if PBP&E are transported as an administrative expense to the agency?
302-7.6 What are the authorized origin and destination points for the transportation of HHG and PBP&E?
302-7.7 May the origin and destination points be other than that prescribed in § 302-7.6?
302-7.8 Is there a time limit for the temporary storage of an authorized HHG shipment?
302-7.9 What are some reasons that would justify the additional storage beyond the initial 90-day limit?
302-7.10 Is property acquired en route eligible for transportation at Government expense?
302-7.11 What is the Government's liability for loss or damage to HHG?
302-7.12 What are the various methods of shipping HHG and how is the weight determined for each type of shipment?
302-7.13 What methods of transporting and paying for the movement of HHG, PBP&E and temporary storage are authorized?
302-7.14 Are there any disadvantages to using the commuted rate method for transporting HHG, PBP&E and temporary storage?
302-7.15 Must I use the method selected by my agency for transporting my HHG, PBP&E and temporary storage?
302-7.16 Is the maximum weight allowance for HHG and temporary storage limited when quarters are furnished or partly furnished by the Government OCONUS or upon return to CONUS?
302-7.17 May PBP&E be transported at Government expense upon returning to CONUS for separation from Government service, after completion of an OCONUS assignment?
302-7.18 Who is liable for any loss or damage to HHG incident to a authorized relocation?
302-7.19 Should I include items that are irreplaceable or of extremely high monetary or sentimental value in my HHG shipment?
Subpart B—Commuted Rate
302-7.100 How are the charges of transporting HHG, and temporary storage calculated?
302-7.101 Where can the commuted rate schedules for the transportation of HHG, and temporary storage found?
302-7.102 How is the mileage distance determined under the commuted rate method?
302-7.103 How are the charges calculated when a carrier charges a minimum weight, but the actual weight of HHG, PBP&E and temporary storage is less than the minimum weight charged?
302-7.104 What documentation must be provided for reimbursement?
302-7.105 May an advance of funds be authorized for transporting HHG and temporary storage?
302-7.106 What documentation is required to receive an advance under the commuted rate method?
302-7.107 May my HHG be temporarily stored at Government expense?
302-7.108 What temporary storage expenses will be reimbursed?
302-7.109 Are receipts required?
302-7.110 Is there a reimbursement limit?
Subpart C—Actual Expense Method
302-7.200 How are charges paid and who makes the arrangements for transporting HHG, PBP&E and temporary storage under the actual expense method?
302-7.201 Is temporary storage in excess of authorized limits and excess valuation of goods and services payable at Government expense?
Subpart D—Agency Responsibilities
302-7.300 What policies and procedures must we establish for this part?
302-7.301 What method of transporting HHG should we authorize?
302-7.302 What method of transporting should we authorize for PBP&E?
302-7.303 What guidelines must we follow when authorizing transportation of PBP&E as an administrative expense?
302-7.304 When HHG are shipped under the actual expense method, and PBP&E as an administrative expense, in the same lot, are separate weight certificates required?

Authority: 5 U.S.C. 5738; 20 U.S.C. 905(a); E.O. 11609, 36 FR 13747, 3 CFR, 1971-1973 Comp., p. 586.

Subpart A—General Rules

Note to subpart A: Use of pronouns “I”, “you”, and their variants throughout this subpart refers to the employee, unless otherwise noted.

§ 302-7.1 Who is eligible for the transportation and temporary storage of household goods (HHG) at Government expense?

The following are eligible for the transportation and temporary storage of household goods (HHG) at Government expense when a relocation has been determined to be in the interest of the Government:

(a) An employee transferred between official duty stations, within or outside the continental United States (CONUS);

(b) A new appointee to his/her first official duty station within or outside the CONUS;

(c) An employee being returned to CONUS for separation from an outside CONUS assignment, after completion of an agreed upon period of services;

(d) An SES employee authorized last move home benefits under § 302-3.304 of this chapter;

(e) An employee authorized a temporary change of station (TCS).

§ 302-7.2 What is the maximum weight of HHG that may be transported or stored at Government expense?

The maximum weight allowance of HHG that may be shipped or stored at Government expense is 18,000 pounds net weight.

§ 302-7.3 May HHG be transported or stored in more than one lot?

Household goods may be transported and stored in multiple lots, however, your maximum HHG weight allowance is based upon shipping and storing all HHG as one lot.

§ 302-7.4 Does the weight of any professional books, papers and equipment (PBP&E) count against the 18,000 pound HHG weight limitation?

Yes, the weight on any PBP&E is generally part of and not in addition to the 18,000 pound HHG weight limitation. However, if the weight of any PBP&E causes the lot to exceed 18,000 pounds, the PBP&E may be transported to the new duty station as an administrative expense of the agency. Authorization for such shipment is granted solely at the discretion of the agency and subject to its policies governing such shipment.

§ 302-7.5 May the 18,000 pound HHG weight limitation be increased if PBP&E are transported as an administrative expense to the agency?

No, the 18,000 pound HHG weight limitation is mandated by statute and cannot be exceeded. Shipments of PBP&E as an administrative expense to the agency are not subject to the HHG maximum weight allowance.

§ 302-7.6 What are the authorized origin and destination points for the transportation of HHG and PBP&E.

The authorized origin and destination points for the transportation of HHG and PBP&E varies by category of employee and are as follows:

Transportation of HHG and PBP&E
Category of employee | Authorized origin/destination
(a) Employee transferred between official stations | Between the old and new official station.
(b) New appointee | From place of actual residence to New official station.
(c) Employee returning from outside CONUS assignment for separation from Government service | Last official station to place of actual residence.
(d) SES last move home benefits | From last official station to place of Selection.
Temporary change of official station (TCS) | From current official station to TCS location and return.

§ 302-7.7 May the origin and destination points be other than that prescribed in § 302-7.6?

Yes, shipments may originate or terminate at any location; however, your reimbursement is limited to the cost of transporting the property in one lot from the authorized origin to the authorized destination.

§ 302-7.8 Is there a time limit for the temporary storage of an authorized HHG shipment?

The initial period of temporary storage at Government expense shall not exceed 90 days in connection with any authorized HHG shipment. The HHG may be placed in temporary storage at origin, in transit, at destination, or any combination thereof. However, upon your written request, an additional 90 days may be authorized by the designated agency official. In no case may the maximum time limit for temporary storage exceed 180 days.

§ 302-7.9 What are some reasons that would justify the additional storage beyond the initial 90-day limit?

Reasons for justifying temporary storage beyond the initial 90-day limit include, but are not limited to:

(a) An intervening temporary duty or long-term training assignment;

(b) Non-availability of suitable housing;

(c) Completion of residence under construction;

(d) Serious illness of employee or illness or death of a dependent;

(e) Strikes, acts of God, or other circumstances beyond the control of the employee; or

(f) Similar reasons.

§ 302-7.10 Is property acquired en route eligible for transportation at Government expense?

No, property acquired en route will not be eligible for transportation at Government expense.

§ 302-7.11 What is the Government's liability for loss or damage to HHG?

The Government's liability for loss or damage to HHG is determined by your agency under title 31 U.S.C. 3721-3723 and agency implementing rules and regulations issued pursuant to the law.

§ 302-7.12 What are the various methods of shipping HHG and how is the weight determined for each type of shipment?

HHG should be shipped by the most economical method available. The various methods of shipment and weight calculations include the following:

Method of shipment | How weight of shipment is determined
(a) Uncrated (shipped in HHG movers van or similar conveyance) | The net weight will be shown on the bill of lading or weight certificate attached and includes the weight of barrels, boxes, cartons, and similar material used in packing, but does not include pads, chains, dollies and other equipment to load and secure the shipment.
(b) Crated shipments | When crated the net weight will not include the weight of the crating material. The net weight will be computed as being 60 percent of the gross weight. However, if the net weight computed in this manner exceeds the applicable weight limitation and if it is determined that, for reasons beyond the employee's control, unusually heavy crating and packing materials were necessarily used, the net weight may be computed at less than 60 percent of the gross weight.
(c) Containerized shipments (Special containers designed, e.g., lift vans, CONEX transporters, HHG shipping boxes, for repeated use) | When the known tare weight does not include the weight of interior bracing and padding materials but only the weight of the container, the net weight will be 85 percent of the gross weight less the weight of the container. If the known tare weight includes such material, so that the net weight is the same as it would be for uncrated shipments in interstate commerce, the net weight will not be subject to reduction.
(d) Constructive weight | If adequate scales are not available at origin, en route or at destination, a constructive weight based on 7 pounds per cubic foot of properly loaded van space may be used. Such weight may be used for a part-load when its weight could not be obtained, without first unloading it or other part-loads being carried in the same vehicle or when the HHG are not weighed because the carrier's charges for local or metropolitan area moves are properly computed on the basis other than weight or volume of the shipment (as when payment is based on an hourly rate and distance involved). In such instances a statement from the carrier showing the properly loaded van space required for the shipment should be obtained with respect to proof of entitlement to a commuted rate payment when net weight cannot be shown.

§ 302-7.13 What methods of transporting and paying for the movement of HHG, PBP&E and temporary storage are authorized?

There are two authorized methods of transporting and paying for the movement of HHG, PBP&E and temporary storage. Your agency will determine which of the following methods will be authorized.

(a) Commuted Rate System. Under the commuted rate system you assume total responsibility for arranging and paying for, at least the following services: packing/unpacking, crating/uncrating, pickup/deliver, weighing, line-haul, drayage, and temporary storage of your HHG and PBP&E with a commercial HHG carrier or by renting self drive equipment for a do-it-yourself move. When any PBP&E is transported as an administrative expense of your agency, all arrangements (e.g., packing/unpacking, pickup/delivery, weighing, temporary storage, etc.) will be handled and paid for by your agency.

(b) Actual Expense Method. Under the actual expense method, your agency assumes the responsibility for arranging and paying for all aspects (e.g., packing/unpacking, pickup/delivery, weighing, line-haul, drayage, temporary storage, etc.), of transporting your HHG and PBP&E with a commercial HHG carrier.

§ 302-7.14 Are there any disadvantages to using the commuted rate method for transporting HHG, PBP&E and temporary storage?

Yes. The disadvantages to using the commuted rate method for transporting HHG, PBP&E and temporary storage are that the:

(a) Government cannot take advantage of any special rates that may be offered only to Government shipments;

(b) Commuted rate method does not apply to intrastate moves; and

(c) Commuted rate method may not fully reimburse your out-of-pocket expenses.

§ 302-7.15 Must I use the method selected by my agency for transporting my HHG, PBP&E and temporary storage?

No, you do not have to use the method selected (§ 302-7.301) by your agency, and you may pursue other methods, however, your reimbursement is limited to the actual cost incurred, not to exceed what the Government would have incurred under the commuted rate system within CONUS and the actual expense method OCONUS.

§ 302-7.16 Is the maximum weight allowance for HHG and temporary storage limited when quarters are furnished or partly furnished by the Government OCONUS or upon return to CONUS?

When quarters are furnished or partly furnished by the Government OCONUS, your agency may limit the weight of HHG and temporary storage that can be transported to that location. Only the authorized weight allowance that was shipped to the OCONUS location may be returned to CONUS upon completion of the tour of duty, unless the agency makes an exception under conditions specified in agency internal regulations.

§ 302-7.17 May PBP&E be transported at Government expense upon returning to CONUS for separation from Government service, after completion of an OCONUS assignment?

Any PBP&E that was transported as an administrative expense of the Government to the OCONUS assignment will be returned as an administrative expense of the Government to the place of actual residence or any other location, not to exceed the cost to the authorized destination.

§ 302.7.18 Who is liable for any loss or damage to HHG incident to an authorized relocation?

When transporting HHG under the commuted rate or actual expense method and a commercial HHG carrier is used, the carrier accepts limited liability for any loss or damage in accordance with HHG carrier tariffs. For transporting HHG by self drive equipment for a do-it-yourself-move and for any loss or damage not covered by the HHG carrier, see part 302-11 of this chapter.

§ 302-7.19 Should I include items that are irreplaceable or of extremely high monetary or sentimental value in my HHG shipment?

Generally no; items that are irreplaceable or of extremely high monetary or sentimental value should not be included in your HHG shipment. Additional insurance may be purchased, at your expense, to cover any loss or damage, however, such items are not necessarily provided special security. Accordingly, it is advisable that you or an immediate family member(s) transport such items personally.

Subpart B—Commuted Rate

§ 302-7.100 How are the charges of transporting HHG, and temporary storage calculated?

The charges for transporting HHG, and temporary storage are computed by multiplying the number of pounds shipped divided by 100 (within the 18,000 maximum limitation) by the applicable rate per one-hundred pounds for the distance transported. This includes, but is not limited to packing/unpacking, crating/uncrating, drayage, weighing, pickup/delivery, line-haul, accessorial charges, and temporary storage charges, including but not limited to handling in/out, etc. However, your reimbursement may not fully cover your total out-of-pocket expenses. In determining the distance shipped you may use the Household Goods Carriers Mileage Guide (issued by the Household Goods Carriers' Bureau, 1611 Duke Street, Alexandria, VA 22314-3482), tariffs filed with GSA travel management centers, or any other mileage guide authorized by your agency. If the exact mileage is not shown, the next higher mileage distance applies. If there is a minimum weight charge above the actual weight under applicable tariffs, reimbursement will be based on the minimum weight charge instead of the actual weight.

§ 302-7.101 Where can the commuted rate schedules for the transportation of HHG, and temporary storage be found?

The charges for the line-haul transportation, packing, crating, unpacking, drayage incident to transportation, and other accessorial charges for HHG, and temporary storage can be found in the Household Goods Carrier Bureau tariff (issued by the Household Goods Carriers' Bureau, 1611 Duke Street, Alexandria, VA 22314-3482) or by contacting the GSA travel management center or the appropriate office designated in your agency.

§ 302-7.102 How is the mileage distance determined under the commuted rate method?

To determine the distance from the authorized origin to the authorized destination, the Household Goods Carriers Standard Mileage Guide, or a standard road atlas issued by The Household Goods Carrier's Bureau, or any other mileage guide authorized by your agency.

Note to §§ 302-7.100 and 302-7.102. Any substantial deviation from the distances shown in the authorized mileage guides must be explained on the travel claim.

§ 302-7.103 How are the charges calculated when a carrier charges a minimum weight, but the actual weight of HHG, PBP&E and temporary storage is less than the minimum weight charged?

Charges for HHG, PBP&E and temporary storage are calculated based on the minimum weight charged by the carrier, but not to exceed 18,000 pounds.

§ 302-7.104 What documentation must be provided for reimbursement?

When claiming reimbursement under the commuted rate, you must provide:

(a) A receipted copy of the bill of lading (reproduced copies are acceptable) including any attached weight certificate copies if issued; or

(b) Other evidence showing points of origin and destination and the weight of your HHG, if no bill of lading was issued, or

(c) If a commercial HHG carrier is not used, you are responsible for establishing the weight of the HHG, and temporary storage by obtaining proper certified weight certificates. Certified weight certificates include the gross and tare weights. This is required because payment at commuted rates on the basis of constructive weight usually is not possible.

§ 302-7.105 May an advance of funds be authorized for transporting HHG and temporary storage?

An advance of funds may be authorized when the transportation of HHG and temporary storage is authorized under the commuted rate method.

§ 302-7.106 What documentation is required to receive an advance under the commuted rate method?

To receive an advance under the commuted rate method, you must provide a copy of an estimate of costs from a commercial HHG carrier or a written statement that includes:

(a) Origin and destination;

(b) A signed copy of a commercial bill of lading annotated with actual weight (or other evidence of actual weight) or a reasonable estimate acceptable to your agency; and

(c) Anticipated temporary storage period (not to exceed 90 days) at Government expense.

§ 302-7.107 May my HHG be temporarily stored at Government expense?

Yes, HHG may be stored at Government expense incident to the transporting of such goods either at the HHG carrier storage facility or a self storage facility. Storage may be at any combination of origin, en route locations or destination.

§ 302-7.108 What temporary storage expenses will be reimbursed?

The following will be reimbursed:

(a) Reimbursable temporary storage cost incident to storage at the HHG carriers facility are:

(1) Handling in;

(2) Daily storage;

(3) Handling out; and

(4) Drayage to residence.

(b) Reimbursable cost of storage at a self storage facility. This is the cost of the storage space that will reasonably accommodate the HHG transported.

§ 302-7.109 Are receipts required?

Yes, under the commuted rate system, a receipted copy of the warehouse or other bill for storage is required to support reimbursement.

§ 302-7.110 Is there a reimbursement limit?

Yes, reimbursement must not exceed the rates published in the Nationwide Household Goods Commercial Relocation Tariff (issued by the Household Goods Carriers' Bureau, 1611 Duke Street, Alexandria, VA 22314-3482), supplements thereto and reissues thereof.

Subpart C-Actual Expense Method

§ 302-7.200 How are charges paid and who makes the arrangements for transporting HHG, PBP&E and temporary storage under the actual expense method?

Your agency is responsible for making all the necessary arrangements for transporting HHG, PBP&E, and temporary storage, including but not limited to packing/unpacking, crating/uncrating, pickup/delivery, weighing, line-haul, etc., under the actual expense method. Your agency will issue a Bill of Lading or any other shipping document with all charges billed directly to the agency. Any cost or weight in excess of 18,000 pounds will be at your expense.

§ 302-7.201 Is temporary storage in excess of authorized limits and excess valuation of goods and services payable at Government expense?

No, charges for excess weight, valuation above the minimum amount, and services obtained at higher costs must be borne by the employee in the same manner as he/she is responsible for excess transportation costs.

Subpart D-Agency Responsibilities

Note to subpart D: Use of pronouns “we”, “you”, and their variants throughout this subpart refers to the agency.

§ 302-7.300 What policies and procedures must we establish for this part?

You must establish policies and procedures as required for this part, including who will:

(a) Administer your household goods program;

(b) Authorize PBP&E to be transported as an agency administrative expense;

(c) Authorize temporary storage in excess of the initial 90-day limit;

(d) Collect any excess cost or charges;

(e) Advise the employee on the Governments liability for any loss and damage claims under 31 U.S.C. 3721-3723; and

(f) Ensure that international HHG shipments by water are made on ships registered under the laws of the United States whenever such ships are available.

§ 302-7.301 What method of transporting HHG should we authorize?

You should authorize one of the following methods, of transporting an employee's HHG, PBP&E and temporary storage. The selected method should be stated on the relocation travel authorization.

(a) Commuted Rate System. For relocation or first duty station assignment within CONUS. This method will be used without regard to the actual expense method, unless that method is more economical to the Government and results in a savings of $100 or more. Under this system the employee assumes total responsibility for arranging and paying for, at least the following services: Packing/unpacking, crating/uncrating, pickup/deliver, weighing, line-haul, drayage, and temporary storage of your HHG and PBP&E with a commercial HHG carrier or by renting self drive equipment for a do-it-yourself move. When any PBP&E is transported as an administrative expense of the agency, all arrangements (e.g., packing/unpacking, pickup/delivery, weighing, temporary storage, etc.) will be handled and paid for by you the agency.

(b) Actual Expense Method. For all shipments OCONUS and where deemed economical to the Government within CONUS. Under the actual expense method, the Government assumes the responsibility for arranging and paying for all aspects (e.g., packing/unpacking, pickup/delivery, weighing, line-haul, drayage, temporary storage, etc.,) of transporting the employee's HHG, PBP&E.

§ 302-7.302 What method of transporting should we authorize for PBP&E?

You should authorize the actual expense method for transporting an employee's PBP&E only when the weight of the PBP&E causes the employee's shipment to exceed the maximum 18,000 pound HHG weight limitation. PBP&E should be weighed prior to shipment, if necessary, so the weight can easily be deducted from the 18,000 pound weight allowance. The PBP&E shipment should then be made separately from the HHG shipment and is an administrative expense to your agency.

§ 302-7.303 What guidelines must we follow when authorizing transportation of PBP&E as an administrative expense?

You have the sole discretion to authorize transportation of PBP&E provided that:

(a) An itemized inventory of PBP&E is provided for review by the authorizing official at the new official station;

(b) The authorizing official has certified that the PBP&E are necessary for performance of the employee's duties at the new duty station, and if these items were not transported, the same or similar items would have to be obtained at Government expense for the employee's use at the new official station; and

(c) You have acquired evidence that transporting the PBP&E would cause the employee's HHG to exceed 18,000 pound maximum weight allowances.

Note to § 302-7.303: PBP&E transported as an agency administrative expense to an OCONUS location may be returned to CONUS as an agency administrative expense for an employee separating from Government service.

§ 302-7.304 When HHG are shipped under the actual expense method, and PBP&E as an administrative expense, in the same lot, are separate weight certificates required?

Yes, the weight of the PBP&E and the administrative appropriation chargeable must be listed as separate items on the bill of lading or other shipping document.

PART 302-8—ALLOWANCES FOR EXTENDED STORAGE OF HOUSEHOLD GOODS (HHG)

Subpart A—General
Sec.
302-8.1 When may extended storage of HHG be authorized?
302-8.2 What is the purpose of extended storage?
302-8.3 How will I know when my agency has made a decision to authorize extended storage of my HHG?
302-8.4 May I receive an advance of funds for storage allowances covered by this part?
Subpart B—Extended Storage During Assignment to Isolated Locations in the Continental United States (CONUS)
302-8.100 What is the policy for extended storage of HHG during assignment to isolated locations in CONUS?
302-8.101 What are the criteria for determining whether an official station is an isolated official station for purposes of this part?
302-8.102 Am I eligible for extended storage of HHG and personal effects?
302-8.103 Where may my HHG be stored?
302-8.104 What are the allowable costs for storage?
302-8.105 May I transport a portion of my HHG to the official station and store the remainder at Government expense?
302-8.106 May I change from temporary to extended storage?
302-8.107 May I change from storage at personal expense to extended storage at Government expense?
302-8.108 What is the authorized time period for extended storage of my HHG?
Subpart C—Extended Storage During Assignment Outside the Continental United States (OCONUS)
302-8.200 Am I eligible for extended storage during assignment OCONUS?
302-8.201 Am I entitled to reimbursement for extended storage of HHG?
302-8.202 Do provisions for the place, choice, or type of storage, allowable costs, or partial storage during assignment OCONUS differ from those prescribed for storage during assignment to isolated locations in CONUS?
302-8.203 What is the authorized time period for extended storage of my HHG?
Subpart D—Storage During School Recess for Department of Defense Overseas Dependents School (DoDDS) Teachers
302-8.300 Under what authority am I provided storage during school recess?
302-8.301 What obligations do I have if I do not report for service at the beginning of the next school year?
Subpart E—Agency Responsibilities
302-8.400 What policies must we establish for the allowance for extended storage of HHG?
302-8.401 How should we administer the authorization and payment of extended storage of HHG?
302-8.402 May we allow the employee to determine options in the preference of his/her storage?

Authority: 5 U.S.C. 5738; 20 U.S.C. 905(a); E.O. 11609, 36 FR 13747, 3 CFR, 1971-1975 Comp., p. 586.

Subpart A—General

Note to subpart A: Use of pronouns “I”, “you”, and their variants throughout this subpart refers to the employee, unless otherwise noted.

§ 302-8.1 When may extended storage of HHG be authorized?

Your agency may authorize extended storage of HHG under the following circumstances:

(a) Extended storage of HHG may be authorized in lieu of shipment when:

(1) You are assigned to an isolated duty station within CONUS (see subpart B of this part);

(2) You are assigned to an overseas official station where your agency limits the amount of HHG you may transport to that location;

(3) You are assigned to an OCONUS official station and your agency determines extended storage is in the public interest or cost effective to do so; or

(4) It is necessary for a temporary change of station (TCS).

(b) Extended storage of HHG is not permitted for a career SES employee eligible for last move home benefits.

§ 302-8.2 What is the purpose of extended storage?

The purpose of extended storage is to assist in protecting personal items when you are:

(a) Authorized a temporary change of station (TCS) under § 302-3.400 of this chapter;

(b) Assigned to isolated locations in CONUS to which the employee cannot take or at which the employee is unable to use his/her HHG and personal effects because of the absence of residence quarters at that location,

(c) Assigned OCONUS when:

(1) The official station is one to which you cannot take or at which you are unable to use your HHG and your personal effects; or

(2) The head of your agency authorizes storage of your HHG is in the public interest or is more economical than transporting; or

(d) Storage is necessary during school recess for DoDDS teachers.

§ 302-8.3 How will I know when my agency has made a decision to authorize extended storage of my HHG?

Your agency will indicate on your travel authorization the specific allowances you are authorized as provided in this chapter.

§ 302-8.4 May I receive an advance of funds for storage allowances covered by this part?

No, an advance of funds is not allowed for storage allowances of HHG.

Subpart B—Extended Storage During Assignment to Isolated Locations in the Continental United States (CONUS)

§ 302-8.100 What is the policy for extended storage of HHG during assignment to isolated locations in CONUS?

Extended storage of HHG belonging to an employee transferred or a new appointee assigned to an official station at an isolated location in CONUS may be allowed only when it is clearly justified under the conditions in this part and is not primarily for the convenience, or at the request of, the employee or the new appointee.

§ 302-8.101 What are the criteria for determining whether an official station is an isolated official station for purposes of this part?

(a) As determined by your agency, an official station at an isolated location is a place of permanent duty assignment in CONUS at which you have no alternative except to live where you are unable to use your HHG because:

(1) The type of quarters you are required to occupy at the isolated official station will not accommodate your HHG; or

(2) Residence quarters which would accommodate your HHG are not available within reasonable daily commuting distance of the official station.

(b) The designation of an official station as isolated in accordance with paragraph (a) of this section shall not preclude a determination in individual instances that adequate housing is available for some employees stationed there based on housing which may be available within daily commuting distance and the size and other characteristics of each employee's immediate family. In such instances the station shall not be considered isolated with regard to you if your agency determines adequate family housing is available for you.

Note to § 302-8.101: Heads of agencies concerned are responsible for designating the isolated official station at which conditions exist for allowing extended storage of HHG at Government expense for some or all employees.

§ 302-8.102 Am I eligible for extended storage of HHG and personal effects?

Yes, you are eligible for extended storage of HHG and personal effects if:

(a) You are stationed at an isolated official station which your agency determines meets the criteria in § 302-8.101;

(b) You performed relocation travel or travel as a new appointee; and

(c) Your agency authorizes payment for extended storage of your HHG.

§ 302-8.103 Where may my HHG be stored?

Your HHG may be stored either in:

(a) Available Government-owned storage space; or

(b) Suitable commercial storage space obtained by the Government if:

(1) Government-owned space is not available, or

(2) Commercial storage space is more economical or suitable because of location, transportation costs, or for other reasons.

§ 302-8.104 What are the allowable costs for storage?

Allowable costs for storage include the cost of:

(a) Necessary packing;

(b) Crating;

(c) Unpacking;

(d) Uncrating;

(e) Transportation to and from place of storage;

(f) Charges while in storage; and

(g) Other necessary charges directly relating to the storage as approved by your agency.

§ 302-8.105 May I transport a portion of my HHG to the official station and store the remainder at Government expense?

Yes, you may transport a portion of your HHG to the official station and store the remainder at Government expense, if authorized by your agency. The combined weight, however, of the HHG stored and transported must not exceed the maximum 18,000 pounds net weight.

§ 302-8.106 May I change from temporary to extended storage?

Yes, you may change from temporary to extended storage, if authorized by your agency.

§ 302-8.107 May I change from storage at personal expense to extended storage at Government expense?

Yes, you may change from storage at personal expense to extended storage at Government expense, if authorized by your agency.

§ 302-8.108 What is the authorized time period for extended storage of my HHG?

The authorized time period for extended storage of your HHG is for the duration of the assignment not to exceed 3-years. However:

(a) Your agency will conduct periodic reviews to determine whether current housing conditions at your isolated official station warrant continuation of storage;

(b) Eligibility for extended storage at Government expense will terminate on your last day of active duty at the isolated official station. However your HHG may remain in temporary storage for an additional period of time not to exceed 90 days, if approved by your agency.

(c) When eligibility ceases, storage at Government expense may continue until the beginning of the second month after the month in which your tour at the official station OCONUS terminates, unless to avoid inequity your agency extends the period.

Subpart C—Extended Storage During Assignment Outside the Continental United States (OCONUS)

§ 302-8.200 Am I eligible for extended storage during assignment OCONUS?

Yes, you are eligible for extended storage during assignment OCONUS if your agency authorizes it, and if:

(a) The official station is one to which you are not authorized to take, or at which you are unable to use, your HHG; or

(b) Your agency authorizes it as being in the public interest; or

(c) Your agency determines the estimated cost of storage would be less than the cost of round-trip transportation (including temporary storage) of the HHG to your new official station.

§ 302-8.201 Am I entitled to reimbursement for extended storage of HHG?

No, your agency will determine when it is in the Government's interest to reimburse you for extended storage of HHG OCONUS.

§ 302-8.202 Do provisions for the place, choice, or type of storage, allowable costs, or partial storage during assignment OCONUS differ from those prescribed for storage during assignment to isolated locations in CONUS?

No; the same allowable extended storage expenses provided in §§ 302-8.103 through 302-8.108 apply to extended storage OCONUS.

§ 302-8.203 What is the authorized time period for extended storage of my HHG?

Time limitations for extended storage of your HHG will be determined by your agency as follows:

(a) For the duration of the OCONUS assignment plus 30 days prior to the time the tour begins and plus 60 days after the tour is completed;

(b) Extensions may be allowed for subsequent service or tours of duty at the same or other overseas stations if you continue to be eligible as set forth in § 302-8.200; and

(c) When eligibility ceases, storage at Government expense may continue until the beginning of the second month after the month in which your tour at the official station OCONUS terminates, unless to avoid inequity your agency extends the period.

Subpart D—Storage During School Recess for Department of Defense Overseas Dependents School (DoDDS) Teachers

§ 302-8.300 Under what authority am I provided storage during school recess?

(a) Description. The Department of Defense Overseas Teachers Pay and Personnel Practices Act (20 U.S.C. 905) provides authority for the storage of the HHG of DoDDS teachers during the recess period between 2 consecutive school years.

(b) Regulations. See the DoD Joint Travel Regulations (JTR), Volume 2, published by the Per Diem, Travel and Transportation Allowance Committee and available on the world wide web at http://www.dtic.mil/perdiem.

§ 302-8.301 What obligations do I have if I do not report for service at the beginning of the next school year?

If you do not report for service at the beginning of the next school year, you must repay the Government for the cost of the extended storage of your HHG during the recess. Except for reasons beyond your control and acceptable to DoD, you shall be obligated to reimburse DoD the amount paid for the commercial storage, including related services. If, however, the property was stored in a Government facility, you shall pay DoD an amount equal to the reasonable value of the storage furnished, including related services.

Subpart E—Agency Responsibilities

Note to subpart E: Use of pronouns “we”, “you”, and their variants throughout this subpart refers to the agency.

§ 302-8.400 What policies must we establish for the allowance for extended storage of HHG?

You must establish policies and procedures governing this part including:

(a) When you will authorize payment;

(b) Who will determine whether payment is appropriate;

(c) How and when reimbursements will be paid;

(d) Which locations meet the criteria of this part for isolated official station at which conditions exist for allowing extended storage at Government expense for some or all employees;

(e) Who will determine the duration and place of extended storage.

§ 302-8.401 How should we administer the authorization and payment of extended storage of HHG?

You should limit payment of extended storage of HHG to only those expenses that are necessary and in the interest of the Government.

§ 302-8.402 May we allow the employee to determine options in the preference of his/her storage?

Yes, the employee may determine options in the preference of his/her storage. You may authorize the employee to:

(a) Transport a portion of his/her HHG to the official station and store the remainder at Government expense;

(b) Change from temporary to extended storage; and

(c) Change from storage at personal expense to extended storage at Government expense.

PART 302-9—ALLOWANCES FOR TRANSPORTATION AND EMERGENCY STORAGE OF A PRIVATELY OWNED VEHICLE

Subpart A—General Rules
Sec.
302-9.1 What is a “privately owned vehicle (POV)”?
302-9.2 What is an “official station” for purposes of this part?
302-9.3 What is a “post of duty” for purposes of this part?
302-9.4 What are the purposes of the allowance for transportation of a POV?
302-9.5 What is the purpose of the allowance for emergency storage of a POV?
302-9.6 What POV transportation and emergency storage may my agency authorize at Government expense?
302-9.7 Must my agency authorize transportation or emergency storage of my POV?
302-9.8 What type of POV may I be authorized to transport, and if necessary, store under emergency circumstances?
302-9.9 For what transportation expenses will my agency pay?
302-9.10 For what POV emergency storage expenses will my agency pay?
302-9.11 May I receive an advance of funds for transportation and emergency storage of my POV?
302-9.12 May my agency determine that driving my POV is more advantageous and limit my reimbursement to what it would cost to drive my POV?
Subpart B—Transportation
General
302-9.100 Who is eligible for transportation of a POV to a post of duty?
302-9-101 In what situations may my agency authorize transportation of a POV to my post of duty?
302-9.102 How many POV's may I transport to a post of duty?
302-9.103 Do I have to ship my POV to my actual post of duty?
302-9.104 What may I do if there is no port or terminal at the point of origin and/or destination?
POV Transportation at Time of Assignment
302-9.140 Under what specific conditions may my agency authorize transportation of a POV to my post of duty upon my assignment to that post of duty?
302-9.141 What is the “authorized point of origin” when I transport a POV to my post of duty?
302-9.142 What will I be reimbursed if I transport a POV from a point of origin that is different from the authorized point of origin?
302-9.143 When I am authorized to transport a POV, may I have the manufacturer or the manufacturer's agent transport a new POV from the factory or other shipping point directly to my post of duty?
POV Transportation Subsequent to the Time of Assignment
302-9.170 Under what specific conditions may my agency authorize transportation of a POV to my post of duty subsequent to the time of my assignment to that post duty?
302-9.171 If circumstances warrant an authorization to transport a POV to my post of duty after my assignment to the post of duty, must I sign a new service agreement?
302-9.172 Under what conditions may my agency authorize transportation of a replacement POV to my post of duty?
302-9.173 How many replacement POV's may my agency authorize me to transport to my post of duty at Government expense?
302-9.174 What is the “authorized point of origin” when I transport a POV, including a replacement POV, to my post of duty subsequent to the time of my assignment to that post of duty?
302-9.175 When I am authorized to transport a POV, including a replacement POV, to my post of duty subsequent to the time of my assignment to that post of duty, may I have the manufacturer or the manufacturer's agent transport a new POV from the factory or other shipping point directly to my post of duty?
Subpart C—Return Transportation of a POV From a Post of Duty
302-9.200 When am I eligible for return transportation of a POV from my post of duty?
302-9.201 In what situations will my agency pay to transport a POV from my post of duty?
302-9.202 When do I become entitled to return transportation of my POV from my post of duty to an authorized destination?
302-9.203 Is there any circumstance under which I may be authorized to transport my POV from a post of duty before completing my service agreement?
302-9.204 What is the “authorized point of origin” when I transport my POV from my post of duty?
302-9.205 What is the “authorized destination” of a POV transported under this subpart?
302-9.206 What should I do if there is no port or terminal at my authorized point of origin or authorized destination when I transport a POV from my post of duty?
302-9.207 What will I be reimbursed if I transport my POV from a point of origin or to a destination that is different from my authorized origin or destination?
302-9.208 If I retain my POV at my post of duty after conditions change to make use of the POV no longer in the best interest of the Government, may I transport it at Government expense from the post of duty at a later date?
302-9.209 Under what conditions may my agency authorize me to transport from my post of duty a replacement POV purchased at that post of duty?
Subpart D—Transportation of a POV Within the Continental United States (CONUS)
302-9.300 When am I eligible for transportation of my POV within CONUS at Government expense?
302-9.301 Under what conditions may my agency authorize transportation of my POV within CONUS?
302-9.302 How many POV's may I transport within CONUS?
302-9.303 If I am authorized to transport my POV within CONUS, where must the transportation originate?
302-9.304 If I am authorized to transport my POV within CONUS, what must the destination be?
Subpart E—Emergency Storage of a POV
302-9.400 When am I eligible for emergency storage of my POV?
302-9.401 Where may I store my POV if I receive notice to evacuate my immediate family and/or household goods from my post of duty?
Subpart F—Agency Responsibilities
302-9.500 What means of transportation may we authorize for POV's?
302-9.501 How should we administer the allowances for transportation and emergency storage of a POV?
302-9.502 What governing policies must we establish for the allowances for transportation and emergency storage of a POV?
302-9.503 Under what condition may we authorize transportation of a POV to a post of duty?
302-9.504 What factors must we consider in deciding whether to authorize transportation of a POV to a post of duty?
302-9.505 What must we consider in determining whether transportation of a POV within CONUS is cost effective?

Authority: 5 U.S.C. 5738; 20 U.S.C. 905(a); E.O. 11609, 36 FR 13747 3 CFR, 1971-1975 Comp., p. 586.

Subpart A—General Rules

Note to subpart A: Use of pronouns “I”, “you”, and their variants throughout this subpart refers to the employee, unless otherwise noted.

§ 302-9.1 What is a “privately owned vehicle (POV)”?

A “privately owned vehicle (POV)” is a motor vehicle not owned by the Government and used by the employee or his/her immediate family for the primary purpose of providing personal transportation.

§ 302-9.2 What is an “official station” for purposes of this part?

An “official station” is defined in part 300-3 of this title. For purposes of this part, an “official station” may be within or outside the continental United States (OCONUS).

§ 302-9.3 What is a “post of duty” for purposes of this part?

For purposes of this part, a “post of duty” is an official station outside CONUS.

§ 302-9.4 What are the purposes of the allowance for transportation of a POV?

To reduce the Government's overall relocation costs by allowing transportation of a POV to your official station within CONUS when it is advantageous and cost effective to the Government, and to improve our overall effectiveness if you are transferred or otherwise reassigned to a post of duty at which it is in the interest of the Government for you to have use of a POV for personal transportation.

§ 302-9.5 What is the purpose of the allowance for emergency storage of a POV?

The purpose of the allowance for emergency storage of a POV is to protect a POV transported at Government expense to your post of duty when the head of your agency determines that the post of duty is within a zone from which your immediate family and/or household goods should be evacuated.

§ 302-9.6 What POV transportation and emergency storage may my agency authorize at Government expense?

Your agency may authorize the following POV transportation and emergency storage at Government expense:

(a)Transportation of a POV to a post of duty as provided in subpart B of this part.

(b) Transportation of a POV from a post of duty as provided in subpart C of this part.

(c) Transportation of a POV within CONUS as provided in subpart D of this part.

(d) Emergency storage of a POV as provided in subpart E of this part.

§ 302-9.7 Must my agency authorize transportation or emergency storage of my POV?

No; however, if your agency does authorize transportation of a POV to your post of duty and you complete your service agreement, your agency must pay for the cost of returning the POV. Your agency determines the conditions under which it will pay for transportation and emergency storage and the procedures a transferred employee must follow.

§ 302-9.8 What type of POV may I be authorized to transport, and if necessary, store under emergency circumstances?

Only a passenger automobile, station wagon, light truck, or other similar vehicle that will be used primarily for personal transportation may be authorized to transport, and if necessary store under emergency circumstances. You may not transport or store a trailer, airplane, or any vehicle intended for commercial use.

§ 302-9.9 For what transportation expenses will my agency pay?

When your agency authorizes transportation of your POV, it will pay for all necessary and customary expenses directly related to the transportation of the POV, including crating and packing expenses, shipping charges, and port charges for readying the POV for shipment at the port of embarkation, and for use at the port of debarkation.

§ 302-9.10 For what POV emergency storage expenses will my agency pay?

Your agency will pay all necessary storage expenses, including but not limited to readying the POV for storage, local transportation to point of storage, storage, readying the POV for use after storage, and local transportation from the point of storage. Insurance on the POV is at your expense, unless it is included in the expenses allowed by this paragraph.

§ 302-9.11 May I receive an advance of funds for transportation and emergency storage of my POV?

Yes, you may receive advance funds in accordance with § 302-2.20 of this chapter and not to exceed the estimated amount of the expenses authorized under this part for transportation and emergency storage of your POV.

§ 302-9.12 May my agency determine that driving my POV is more advantageous and limit my reimbursement to what it would cost to drive my POV?

Yes, your agency decides whether it is more advantageous for you and/or a member of your immediate family to drive your POV for all or part of the distance or to have it transported. If your agency decides that driving the POV is more advantageous, your reimbursement will be limited to the allowances provided in part 302-4 of this chapter for the travel and transportation expenses you and/or your immediate family incur en route.

Subpart B—Transportation

General

§ 302-9.100 Who is eligible for transportation of a POV to a post of duty?

An employee who is authorized to transfer to the post of duty, or a new appointee or student trainee assigned to the post of duty.

§ 302-9.101 In what situations may my agency authorize transportation of a POV to my post of duty?

Your agency may authorize transportation when:

(a) At the time of your assignment, conditions warrant such authorization under § 302-9.140;

(b) Conditions that once precluded prior authorization have changed to warrant such authorization under § 302-9.170; or

(c) Subsequent to the time of your assignment, conditions warrant authorization under § 302-9.172 of a replacement POV.

§ 302-9.102 How many POV's may I transport to a post of duty?

You may transport one POV to a post of duty. However, this does not limit the transportation of a replacement POV when authorized under § 302-9.172.

§ 302-9.103 Do I have to ship my POV to my actual post of duty?

Yes, you must ship your POV to your actual post of duty. You may not transport the POV to an alternate location.

§ 302-9.104 What may I do if there is no port or terminal at the point of origin and/or destination?

If there is no port or terminal at the point of origin and/or destination, your agency will pay the entire cost of transporting the POV from your point of origin to your destination. If you prefer, however, you may choose to drive your POV from your point of origin at time of assignment to the nearest embarkation port or terminal, and/or from the debarkation port or terminal nearest your destination to your post of duty at any time. If you choose to drive, you will be reimbursed your one-way mileage cost, at the rate specified in part 301-4 of this title, for driving the POV from your authorized origin to deliver it to the port of embarkation, or from the port of debarkation to the authorized destination. For the segment of travel from the port of embarkation back to your authorized origin after delivering the POV to the port or from your authorized destination to the port of debarkation to pick up the POV, you will be reimbursed your one-way transportation cost. The total cost of round-trip travel, to deliver the POV to the port at the origin or to pick up the POV at the port at your destination, may not exceed the cost of transporting the POV to or from the port involved. You may not be reimbursed a per diem allowance for round-trip travel to and from the port involved.

POV Transportation at Time of Assignment

§ 302-9.140 Under what specific conditions may my agency authorize transportation of a POV to my post of duty upon my assignment to that post of duty?

Your agency may authorize transportation of a POV to your post of duty when:

(a) It has determined in accordance with § 302-9.503 that it is in the interest of the Government for you to have use of your POV at the post of duty;

(b) You have signed a service agreement; and

(c) You meet any specific conditions your agency has established.

§ 302-9.141 What is the “authorized point of origin” when I transport a POV to my post of duty?

Your “authorized point of origin” is as follows:

If you are a | Your “authorized point of origin” is your
(a) Transferee | Old official station.
(b) New appointee or student trainee | Place of actual residence.

§ 302-9.142 What will I be reimbursed if I transport a POV from a point of origin that is different from the authorized point of origin?

If you transport a POV from a point of origin that is different from the authorized point of origin, you will be reimbursed the transportation costs you incur, not to exceed the cost of transporting your POV from your authorized point of origin to your post of duty.

§ 302-9.143 When I am authorized to transport a POV, may I have the manufacturer or the manufacturer's agent transport a new POV from the factory or other shipping point directly to my post of duty?

Yes, when you are authorized to transport a POV, you may have the manufacture or the manufacturer's agent transport a new POV from the factory or other shipping point directly to your post of duty provided:

(a) You purchased the POV new from the manufacturer or manufacturer's agent;

(b) The POV is transported FOB-shipping point, consigned to you and/or a member of your immediate family, or your agent; and

(c) Ownership of the POV is not vested in the manufacturer or the manufacturer's agent during transportation. In this circumstance, you will be reimbursed for the POV transportation costs, not to exceed the cost of transporting the POV from your authorized point of origin to your post of duty.

POV Transportation Subsequent to the Time of Assignment

§ 302-9.170 Under what specific conditions may my agency authorize transportation of a POV to my post of duty subsequent to the time of my assignment to that post?

Your agency may authorize transportation of a POV to your post of duty subsequent to the time of your assignment to that post when:

(a) You do not have a POV at your post of duty;

(b) You have not previously been authorized to transport a POV to that post of duty;

(c) You have not previously transported a POV outside CONUS during your assignment to that post of duty;

(d) Your agency has determined in accordance with § 302-9.503 that it is in the interest of the Government for you to have use of your POV at the post of duty; and

(e) You signed a service agreement at the time you were transferred in the interest of the Government, or assigned if you were a new appointee or student trainee, to your post of duty; and

(f) You meet any specific conditions your agency has established.

§ 302-9.171 If circumstances warrant an authorization to transport a POV to my post of duty after my assignment to the post of duty, must I sign a new service agreement?

No, if circumstances changed after arrival at your new post of duty to warrant authorization to transport a POV, you are not required to sign a new service agreement, provided a service agreement was signed at the time of your assignment to the post of duty. Violation of that service agreement, however, will result in your personal liability for the cost of transporting the POV.

§ 302-9.172 Under what conditions may my agency authorize transportation of a replacement POV to my post of duty?

Your agency may authorize transportation of a replacement POV to your post of duty when:

(a) You require an emergency replacement POV and you meet the following conditions:

(1) You had a POV which was transported to your post of duty at Government expense; and

(2) You require a replacement POV for reasons beyond your control and acceptable to your agency, such as the POV is stolen, or seriously damaged or destroyed, or has deteriorated due to conditions at the post of duty; and

(3) Your agency determines in advance of authorization that a replacement POV is necessary and in the interest of the Government; or

(b) You require a non-emergency replacement POV and you meet the following conditions:

(1) You have a POV which was transported to a post of duty at Government expense;

(2) You have been stationed continuously during a 4-year period at one or more posts of duty; and

(3) Your agency has determined that it is in the Government's interest for you to continue to have a POV at your post of duty.

§ 302-9.173 How many replacement POV's may my agency authorize me to transport to my post of duty at Government expense?

Your agency may authorize one emergency replacement POV within any 4-year period of continuous service. It may authorize one non-emergency replacement POV after every four years of continuous service beginning on the date you first have use of the POV being replaced.

§ 302-9.174 What is the “authorized point of origin” when I transport a POV, including a replacement POV, to my post of duty subsequent to the time of my assignment to that post of duty?

Your agency determines the authorized point of origin within the United States when you transport a POV, including a replacement POV, to your post of duty subsequent to the time of your assignment to that post of duty.

§ 302-9.175 When I am authorized to transport a POV, including a replacement POV, to my post of duty subsequent to the time of my assignment to that post of duty, may I have the manufacturer or the manufacturer's agent transport a new POV from the factory or other shipping point directly to my post of duty?

Yes, you may have the manufacture or manufacture's agent transport a new POV from the factory or other shipping point to your post of duty under the same conditions specified in § 302-9.143.

Subpart C—Return Transportation of a POV From a Post of Duty

§ 302-9.200 When am I eligible for return transportation of a POV from my post of duty?

You are eligible for POV transportation from your post of duty when:

(a) You were transferred to a post of duty in the interest of the Government; and

(b) You have a POV at the post of duty.

§ 302-9.201 In what situations will my agency pay to transport a POV from my post of duty?

Your agency will pay to transport a POV from your post of duty when:

(a) You are transferred back to the official station (including post of duty) from which you transferred to your current post of duty;

(b) You are transferred to a new official station within CONUS;

(c) You are transferred to a new post of duty, where your agency determines that use of a POV at that location is not in the interest of the Government;

(d) You separate from Government service after completion of an agreed period of service at the post of duty where your agency determined the use of a POV to be in the interest of the Government;

(e) You separate from Government service prior to completion of an agreed period of service at the post of duty where your agency determined the use of a POV to be in the interest of the Government, and the separation is for reasons beyond your control and acceptable to your agency; or

(f) Conditions change at your post of duty such that use of the POV no longer is in the best interest of the Government.

§ 302-9.202 When do I become entitled to return transportation of my POV from my post of duty to an authorized destination?

You become entitled to return transportation of your POV from your post of duty to an authorized destination when:

(a) Your agency determined the use of a POV at your post of duty was in the interest of the Government;

(b) You have the POV at your post of duty; and

(c) You have completed your service agreement.

§ 302-9.203 Is there any circumstance under which I may be authorized to transport my POV from a post of duty before completing my service agreement?

Yes, if conditions change at your post of duty such that use of your POV no longer is in the interest of the Government, or if you separate from Government service prior to completion of your service agreement for reasons beyond your control and acceptable to your agency, your agency may authorize return transportation to your authorized destination. When the return transportation is based on changed conditions, you are still required to complete your service agreement. If you do not, you will be required to repay the transportation costs.

§ 302-9.204 What is the “authorized point of origin” when I transport my POV from my post of duty?

The “authorized point of origin” when you transport your POV from your post of duty is the last post of duty to which you were authorized to transport your POV at Government expense.

§ 302-9.205 What is the “authorized destination” of a POV transported under this subpart?

The “authorized destination” of a POV transported under this subpart is illustrated in the following table:

If | The authorized destination of the POV you transport at Government expense is
(a) You are transferred to an Official station within CONUS | Your official station.
(b)(1) You are transferred to another post of duty and use of a POV at the new post is not in the interest of the Government; | Your place of actual residence.
(2) You separate from Government service and are eligible for transportation of your POV from your post of duty; or | Your place of actual residence.
(3) Conditions change at your post of duty such that use of your POV no longer is in the interest of the Government at that post of duty | Your place of actual residence.

§ 302-9.206 What should I do if there is no port or terminal at my authorized point of origin or authorized destination when I transport a POV from my post of duty?

If there is no port or terminal at your authorized point of origin or authorized destination, your agency will pay the entire cost of transporting the POV from your authorized origin to your authorized destination. If you prefer, however, you may choose to drive your POV to the port of embarkation and/or from the port of debarkation. If you choose to drive, you will be reimbursed in the same manner as an employee under § 302-9.104.

§ 302-9.207 What will I be reimbursed if I transport my POV from a point of origin or to a destination that is different from my authorized origin or destination?

You will be reimbursed the transportation costs you actually incur, not to exceed what it would have cost to transport your POV from your authorized origin to the authorized destination.

§ 302-9.208 If I retain my POV at my post of duty after conditions change to make use of the POV no longer in the best interest of the Government, may I transport it at Government expense from the post of duty at a later date?

Yes, your agency will pay the transportation costs not to exceed the cost of transporting it to the authorized destination, provided you otherwise meet all conditions for transporting a POV.

§ 302-9.209 Under what conditions may my agency authorize me to transport from my post of duty a replacement POV purchased at that post of duty?

Your agency may authorize transportation of a replacement POV purchased at a post of duty from the same post of duty only if:

(a) At the time you purchased the replacement POV, you met the conditions in § 302-9.172; and

(b) Prior to purchase of the replacement POV, your agency authorized you to purchase a replacement POV at the post of duty.

Subpart D—Transportation of a POV Within the Continental United States (CONUS)

§ 302-9.300 When am I eligible for transportation of my POV within CONUS at Government expense?

You are eligible for transportation of your POV within CONUS at Government expenses when:

(a) You are an employee who transfers within CONUS in the interest of the Government; or

(b) You are a new appointee or student trainee relocating to your first official station within CONUS.

§ 302-9.301 Under what conditions may my agency authorize transportation of my POV within CONUS?

Your agency will authorize transportation of your POV within CONUS only when:

(a) It has determined that use of your POV to transport you and/or your immediate family from your old official station (or place of actual residence, if you are a new appointee or student trainee) to your new official station would be advantageous to the Government;

(b) Both your old official station (or place of actual residence, if you are a new appointee or student trainee) and your new official station are located within CONUS; and

(c) Your agency further determines that it would be more advantageous and cost effective to the Government to transport your POV to the new official station at Government expense and to pay for transportation of you and/or your immediate family by commercial means than to have you or an immediate family member drive the POV to the new official station.

§ 302-9.302 How many POV's may I transport within CONUS?

You may transport any number of POV's within CONUS under this subpart, provided your agency determines such transportation is advantageous and cost effective to the Government.

§ 302-9.303 If I am authorized to transport my POV within CONUS, where must the transportation originate?

If you are authorized to transport your POV within CONUS, the transportation must originate as illustrated in the following table:

If you are a | Your transportation must originate at your
(a) Transferee | Old official station.
(a) New appointee or Student trainee | Place of actual residence.

§ 302-9.304 If I am authorized to transport my POV within CONUS, what must the destination be?

If you are authorized to transport your POV within CONUS your destination must be your new official station.

Subpart E_Emergency Storage of a POV

§ 302-9.400 When am I eligible for emergency storage of my POV?

You are eligible for emergency storage of your POV when:

(a) Your POV was transported to your post of duty at Government expense; and

(b) The head of your agency determines that your post of duty is within a zone from which your immediate family and/or household goods should be evacuated.

§ 302-9.401 Where may I store my POV if I receive notice to evacuate my immediate family and/or household goods from my post of duty?

If you receive notice to evacuate your immediate family and/or HHG for your post of duty, you may store your POV at a place determined to be reasonable by your agency whether the POV is already located at, or being transported to, your post of duty.

Subpart F—Agency Responsibilities

Note to subpart F: Use of pronouns “we”, “you”, and their variants throughout this subpart refers to the agency.

§ 302-9.500 What means of transportation may we authorize for POV's?

You may authorize:

(a) Commercial means of transportation for POV's if available at reasonable rates and under reasonable conditions; or

(b) Government means of transportation for POV's on a space-available basis.

§ 302-9.501 How should we administer the allowances for transportation and emergency storage of a POV?

To minimize costs and promote an efficient workforce, you should provide an employee use of his/her POV when it mutually benefits the Government and the employee.

§ 302-9.502 What governing policies must we establish for the allowances for transportation and emergency storage of a POV?

You must establish policies governing:

(a) When you will authorize transportation and emergency storage of a POV;

(b) When you will authorize transportation of a replacement POV;

(c) Who will determine if transportation of a POV to or from a post of duty is in the interest of the Government;

(d) Who will determine if conditions have changed at an employee's post of duty to warrant transportation of a POV in the interest of the Government;

(e) Who will determine if transportation of a POV wholly within CONUS is more advantageous and cost effective than having the employee drive the POV to the new official station; and

(f) Who will determine whether to allow emergency storage of an employee's POV, including where to store the POV.

§ 302-9.503 Under what condition may we authorize transportation of a POV to a post of duty?

You may authorize transportation of a POV to a post of duty only when you determine, after consideration of the factors in § 302-9.504, that it is in the interest of the Government for the employee to have use of a POV at the post of duty.

§ 302-9.504 What factors must we consider in deciding whether to authorize transportation of a POV to a post of duty?

When deciding whether to authorize transportation of a POV to a post of duty, you must consider if:

(a) Local conditions at the employee's post of duty warrant use of a POV;

(b) Use of the POV will contribute to the employee's effectiveness on the job;

(c) Use of a POV of the type involved will be suitable under local conditions at the post of duty; and

(d) The cost of transporting the POV to and from the post of duty will be excessive, considering the time the employee has agreed to serve.

§ 302-9.505 What must we consider in determining whether transportation of a POV within CONUS is cost effective?

When determining whether transportation of a POV within CONUS is cost effective, you must consider the:

(a) Cost of traveling by POV;

(b) Cost of transporting the POV;

(c) Cost of travel if the POV is transported;

(d) Productivity benefit you derive from the employee's accelerated arrival at the new official station.

PART 302-10—ALLOWANCES TRANSPORTATION OF MOBILE HOMES AND BOATS USED AS A PRIMARY RESIDENCE

Subpart A—Eligibility and Limitations
Sec.
302-10.1 May I be reimbursed for transporting my mobile home instead of an HHG shipment?
302-10.2 Are there any eligibility requirements?
302-10.3 What is the maximum amount my agency may authorize me to receive for transporting a mobile home?
302-10.4 Are there any geographic limitations for transportation of a mobile home?
302-10.5 May I transport a mobile home over water?
302-10.6 Are the allowances for transporting a mobile home in addition to the allowances for per diem, mileage, and transportation expenses, for me and my immediate family member(s)?
Subpart B—Computation of Distance
302-10.100 What distance will my agency allow for points of origin and destination within CONUS and Alaska?
302-10.101 Must I furnish actual odometer readings on the travel claim?
Subpart C—Computation of Allowances
302-10.200 What costs are allowable when a commercial carrier transports my mobile home overland or over water?
302-10.201 What is the mileage allowance when you transport a mobile home overland by a POV?
302-10.202 Am I entitled to any other allowances when I transport my mobile home by POV?
302-10.203 What are my allowances when a mobile home is transported partly by commercial carrier and partly by POV?
302-10.204 What costs are allowed for preparing a mobile home for shipment?
302-10.205 Are there any costs for preparation that are not allowed?
302-10.206 May my agency assume direct responsibility for the costs of preparing and transporting my mobile home?
302-10.207 Am I responsible for excess or non-allowable charges?
Subpart D—Advance of Fund
302-10.300 May I receive an advance of funds when a commercial carrier transports the mobile home?
302-10.301 May I receive an advance of funds when payment is made directly to the carrier by my agency?
Subpart E—Agency Responsibilities
302-10.400 What policies must we establish for authorizing transportation of a mobile home?
302-10.401 Are the allowances for transporting a mobile home in addition to the allowances for per diem, mileage, and transportation expenses, for an employee and immediate family member(s)?
302-10.402 What costs must we pay a commercial carrier for transporting a mobile home?
302-10.403 What costs must we allow for preparing a mobile home for shipment?

Authority: 5 U.S.C. 5738; 20 U.S.C. 905 (a); E.O. 11609, 36 FR 13747, 3 CFR, 1971-1975 Comp., p. 586.

Subpart A—Eligibility and Limitations

Note to subpart A: Use of pronouns “I”, “you”, and their variants throughout this subpart refers to the employee.

§ 302-10.1 May I be reimbursed for transporting my mobile home instead of an HHG shipment?

Yes, if you are eligible for the transportation of HHG, you will be reimbursed for transporting a mobile home instead of an HHG shipment, not to exceed what the Government would incur for the transportation of your HHG and 90-days temporary storage.

§ 302-10.2 Are there any eligibility requirements?

Yes, to have a mobile home transported at Government expense, you must certify that the mobile home will be used at the new official station as your primary residence and/or the primary residence of your immediate family.

§ 302-10.3 What is the maximum amount my agency may authorize me to receive for transporting a mobile home?

The maximum amount your agency may authorize you to receive for transporting a mobile home shall not exceed the cost of transporting 18,000 pounds of HHG and 90 days of temporary storage.

§ 302-10.4 Are there any geographic limitations for transportation of a mobile home?

Yes, allowances for overland transportation of a mobile home may be made only for transportation within CONUS, within Alaska, and through Canada en route between Alaska and CONUS or through Canada between one CONUS point and another (e.g. between Buffalo, NY and Detroit, MI). Allowances for transportation within limits prescribed may be paid even though the transportation involved originates, terminates, or passes through locations not covered, provided the amount of the allowance shall be computed on the basis of that part of the transportation which is within CONUS, within Alaska, or through Canada en route between Alaska and CONUS or between one CONUS point and another. The cost to transport a mobile home may not exceed the cost of shipping 18,000 pounds of HHG and 90 days of temporary storage.

§ 302-10.5 May I transport a mobile home over water?

Yes, you may transport a mobile home over water when both the points of origin and destination are within CONUS or Alaska.

§ 302-10.6 Are the allowances for transporting a mobile home in addition to the allowances for per diem, mileage, and transportation expenses, for me and my immediate family member(s)?

Yes, allowances for transporting a mobile home (including mileage when towed by you) are in addition to the reimbursement of per diem, mileage, and transportation expenses for you and your immediate family member(s). However, you must consider the fact that the mobile home may be moved at Government expense only if it will be used as your residence at the new official station, and allowances under parts 302-5, 302-6, and 302-11 of this chapter will be paid accordingly.

Subpart B-Computation of Distance

§ 302-10.100 What distance will my agency allow for points of origin and destination within CONUS and Alaska?

Your agency will allow for the distance shown in standard highway mileage guides or agency designated official table of distances or actual miles driven as determined from your odometer readings, between the authorized origin and destination.

§ 302-10.101 Must I furnish actual odometer readings on the travel claim?

No, you do not need to furnish odometer readings on the travel claim but you must indicate the total miles traveled. Any deviation from the distances indicated in standard highway mileage guides or agency official table of distances must be fully explained and acceptable to your agency.

Subpart C-Computation of Allowances

§ 302-10.200 What costs are allowable when a commercial carrier transports my mobile home overland or over water?

Your agency will allow the following costs for use of a commercial carrier transporting your mobile home:

(a) When transporting overland;

(1) The carrier's charge for actual transportation of the mobile home (not to exceed the applicable tariff for such movements approved by an appropriate regulatory body), provided any substantial deviation from standard highway mileage guides or agency official table of distances is explained;

(2) Ferry fares, bridge, road, and tunnel tolls;

(3) Taxes, charges or fees fixed by a State or other government authority for permits to transport mobile homes in or through its jurisdiction;

(4) Carrier's service charges for obtaining necessary permits; and

(5) Charges for a pilot (flag) car or escort services, when required by State or local law.

(b) When transporting over water cost must include, but not limited to the cost of:

(1) Fuel and oil used for propulsion of the boat;

(2) Pilots or navigators in the open water;

(3) A crew;

(4) Charges for harbor pilots;

(5) Docking fees incurred in transit;

(6) Harbor or port fees and similar charges related to entry in and navigation through ports; and

(7) Towing, whether in tow or towing by pushing from behind.

§ 302-10.201 What is the mileage allowance when you transport a mobile home overland by a POV?

The mileage allowance when you transport a mobile home overland by other than commercial means (e.g., towed by a POV) is eleven cents per mile. This is in addition to the mileage allowance prescribed for driving the POV under part 302-4 of this chapter.

§ 302-10.202 Am I entitled to any other allowances when I transport my mobile home by POV?

Yes, you are also entitled to the following allowances when you transport your mobile home by POV:

(a) Payment of mileage for use of a POV to transport yourself and/or immediate family member(s) as provided in § 302-4.30 of this chapter; and

(b) Preparation costs as provided in § 302-10.205.

§ 302-10.203 What are my allowances when a mobile home is transported partly by commercial carrier and partly by POV?

The allowances in §§ 302-10.200 through 302-10.202 apply to the respective portions of transportation by commercial carrier and POV when a mobile home is transported by both.

§ 302-10.204 What costs are allowed for preparing a mobile home for shipment?

Allowable costs for preparing a mobile home for shipment include but are not limited to:

(a) Blocking and unblocking (including anchoring and unanchoring);

(b) Labor costs of removing and installing skirting;

(c) Separating, preparing, and sealing each section for movement;

(d) Reassembling the two halves of a double-wide mobile home;

(e) Travel lift fees;

(f) Rental, installation, removal and transportation of hitches and extra axles with wheels and tires;

(g) Purchasing blocks in lieu of transporting blocks from old official station and cost of replacement blocks broken while mobile home was being transported;

(h) Packing and unpacking of HHG associated with the mobile home;

(i) Disconnecting and connecting utilities;

(j) Installation and removal of towing lights on trailer;

(k) Charges for reasonable extension of existing water and sewer lines; and

(l) Dismantling and assembling a portable room appended to a mobile home.

§ 302-10.205 Are there any costs for preparation that are not allowed?

Yes, costs for preparing a mobile home located outside Alaska or CONUS for movement or the costs for resettling outside Alaska or CONUS are not allowed.

§ 302-10.206 May my agency assume direct responsibility for the costs of preparing and transporting my mobile home?

Yes, your agency may assume direct responsibility for the costs of preparing and transporting your mobile home if it is determined to be in the Government's interest.

§ 302-10.207 Am I responsible for excess or non-allowable charges?

Yes, you are responsible for any excess preparation or transportation or non-allowable charges, such as:

(a) Costs for replacement parts, tires purchases, structural repairs, brake repairs or any other repairs or maintenance performed;

(b) Costs of insurance for valuation of mobile homes above carriers' maximum liabilities, or charges designated in the tariffs as “Special Service;”

(c) Cost of storage; and

(d) Costs of connecting/disconnecting appliances, equipment, and utilities involved in relocation and costs of converting appliances for operation on available utilities.

Subpart D—Advance of Funds

§ 302-10.300 May I receive an advance of funds when a commercial carrier transports the mobile home?

Yes, you may receive an advance of funds when you are responsible for arranging and paying a commercial carrier to transport your mobile home. However, the advance may not exceed the estimated amount allowable.

§ 302-10.301 May I receive an advance of funds when payment is made directly to the carrier by my agency?

No, your agency will not authorize you an advance of funds when it pays the carrier directly.

Subpart E—Agency Responsibilities

Note to subpart E: Use of pronouns “we”, “you”, and their variants throughout this subpart refers to the agency.

§ 302-10.400 What policies must we establish for authorizing transportation of a mobile home?

You must establish policies for authorizing transportation of a mobile home that implements this part including when:

(a) It is considered in the best interest of the Government to assume direct responsibility for preparing and transporting an employee's mobile home;

(b) To authorize an advance of funds for a commercial carrier transporting an employee's mobile home based on constructive or estimated cost when the employee assumes direct responsibility for payment.

§ 302-10.401 Are the allowances for transporting a mobile home in addition to the allowances for per diem, mileage, and transportation expenses, for an employee and immediate family member(s)?

Yes, allowances for transporting a mobile home (including mileage when towed by the employee) are in addition to the allowances for per diem, mileage, and transportation expenses. However, you must consider the fact that the mobile home will be used as the employee's and/or immediate family member(s) primary residence at the new official station, and reduce the allowances under parts 302-5, 302-6, and 302-11 of this chapter.

§ 302-10.402 What costs must we pay a commercial carrier for transporting a mobile home?

The costs you must pay a commercial carrier for transporting a mobile home are prescribed in § 302-10.200.

§ 302-10.403 What costs must we allow for preparing a mobile home for shipment?

The costs you must allow for preparing a mobile home for shipment are prescribed in § 302-10.205.

SUBCHAPTER E—RESIDENCE TRANSACTION ALLOWANCES

PART 302-11—ALLOWANCES FOR EXPENSES INCURRED IN CONNECTION WITH RESIDENCE TRANSACTIONS

Subpart A—General Rules
Sec.
302-11.1 What is the purpose of an allowance for expenses incurred in connection with residence transactions?
302-11.2 Am I eligible to receive an allowance for expenses incurred in connection with residence transactions?
302-11.3 Must I sign a service agreement before receiving residence transaction allowances?
302-11.4 Who is not eligible to receive an allowance for expenses incurred in connection with residence transactions?
302-11.5 To be reimbursed for expenses incurred in my residence transactions, must I occupy the residence at the time I am notified of my transfer?
302-11.6 For which expenses will I be reimbursed if I qualify for a residence transaction expense allowance?
302-11.7 When are expenses for my settlement of an unexpired lease reimbursable?
302-11.8 Must I sell a residence at the old official station to be eligible to purchase a residence at the new official station?
Time Limitations
302-11.21 How long do I have to submit my claim for reimbursement of expenses incurred in connection with my residence transactions?
302-11.22 May the 2-year time limitation be extended by my agency?
302-11.23 When must I request to have my initial time period extended?
Subpart B—Title Requirements
302-11.100 For which residence may I receive reimbursement for under this subpart?
302-11.101 Must the title to the property for which I am requesting an allowance for residence transactions be in my name?
302-11.102 How will the Government determine who holds title to my property?
302-11.103 How will I be reimbursed if I or a member of my immediate family do not hold full title to the property for which I am requesting reimbursement?
302-11.104 When must I and/or a member(s) of my immediate family have acquired title interest in my residence to be eligible for the allowance for expenses incurred in connection with the sale of my residence?
302-11.105 How is it determined if I hold “equitable title interest” in my residence?
302-11.106 What is an accommodation party?
Subpart C—Reimbursable Expenses
302-11.200 What residence transaction expenses will my agency pay?
302-11.201 When may my reimbursement for loan assumption fees or other similar fees exceed the 1 percent as specified in § 302-11.200(f)(2)?
302-11.202 What residence transaction expenses will my agency not pay?
Subpart D—Request For Reimbursement
302-11.300 Is there a limit on how much my agency will reimburse me for residence transactions?
302-11.301 How must I request reimbursement for the expenses I incur for my residence transactions?
302-11.302 What documentation must I submit to my agency to request reimbursement for the sale of a former residence or the purchase of a new one?
302-11.303 Will the Government reimburse me for expenses incurred in connection with my residence transactions that are paid by someone other than me or a member of my immediate family?
302-11.304 Will my agency reimburse me for losses due to market conditions or prices at the old and new official station?
302-11.305 Will I receive reimbursement for any residence transaction expenses incurred prior to being officially notified of my transfer?
302-11.306 How can I know if my expenses are reasonable and will be reimbursed by the Government?
302-11.307 May I receive an advance of funds for my residence transaction expenses?
302-11.308 How much will I receive for reimbursement when I purchase or sell land in excess of what reasonably relates to the residence site?
302-11.309 What residence transaction expense are reimbursable if an employee violates the terms of his/her service agreement?
Settlement of Unexpired Lease
302-11.320 How must I request reimbursement for settlement of an unexpired lease?
302-11.321 How will I be reimbursed when I share a lease with someone else?
Subpart E—Agency Responsibilities
302-11.400 What policies and procedures must we establish?
302-11.401 Under what conditions may we authorize or approve a residence transaction expense allowance?
302-11.402 Who is not eligible to receive residence transaction expense allowances?
302-11.403 What policies must we establish before accepting documentation from an employee for reimbursement of residence transaction expenses?
302-11.404 What controls must we establish for paying allowances for expenses incurred in connection with residence transactions?
302-11.405 Which agency must review and approve the employee's application when the employee transfers between agencies?
302-11.406 How must we administer an employee's claim?
302-11.407 What documentation must we require the employee to submit before paying residence transaction expenses?
Time Limitations
302-11.420 How long can we authorize an extension for completion of the sale and purchase or lease termination transactions?
302-11.421 What must we consider when authorizing an extension of time limitation?
Unexpired Lease
302-11.430 When must we reimburse an employee for expenses incurred due to settlement of an unexpired lease?
302-11.431 How must we require an employee to request reimbursement for expenses of an unexpired lease settlement?
Title Requirements
302-11.440 How must we determine who holds title to property for reimbursement purposes?
302-11.441 How must we determine if an employee holds equitable title interest in his/her property?
Request For Reimbursements
302-11.450 May we advance an employee funds for expenses incurred in connection with residence transactions?
302-11-451 What is the maximum amount that we may reimburse for the sale or purchase of an employee's residence?

Authority: 5 U.S.C. 5738 and 20 U.S.C. 905(c).

Subpart A—General Rules

Note to subpart A: Use of pronouns “I”, “you”, and their variants throughout this subpart refers to the employee, unless otherwise noted.

§ 302-11.1 What is the purpose of an allowance for expenses incurred in connection with residence transactions?

The purpose of an allowance for expenses incurred in connection with residence transaction is to reimburse you when you transfer from an old official station to a new official station for expenses that you incur due to:

(a) The sale of one residence at your old official duty station, and/or the purchase of a residence at your new official duty station; or

(b) The settlement expenses for a lease which has not expired on your residence or mobile home lot which is used as your permanent residence at your old official station.

§ 302-11.2 Am I eligible to receive an allowance for expenses incurred in connection with my residence transactions?

You are eligible to receive an allowance for expenses incurred in connection with your residence transactions under this subpart if you have signed a service agreement as specified in § 302-3, subpart D of this chapter, and you are performing a permanent change of station where:

(a) Your old and new official stations are within the United States; or

(b) You transferred from an official station in the United States to a foreign area, and you are now transferring back to the United States and;

(1) You have completed your service agreement time period for your overseas tour of duty; and

(2) You are assigned to an official station in the United States that is more than 50 miles from your last official station in the United States, unless authorized otherwise in accordance with § 302-2.6 of this chapter.

§ 302-11.3 Must I sign a service agreement before receiving residence transaction allowances?

Yes, you must sign a service agreement before receiving residence transaction allowances.

§ 302-11.4 Who is not eligible to receive an allowance for expenses incurred in connection with residence transactions?

You are not eligible to receive an allowance for expenses incurred in connection with residence transactions under this subpart if you are:

(a) A new appointee; or

(b) An employee assigned under the Government Employees Training Act (5 U.S.C. 4109).

§ 302-11.5 To be reimbursed for expenses incurred in my residence transactions, must I occupy the residence at the time I am notified of my transfer?

Yes, to be reimbursed for expenses incurred in your residence transactions, you must occupy the residence at the time you are notified of your transfer, unless your transfer is from a foreign area to an official station within the United States other than the one you left when you transferred out of the United States, as specified in § 302-11.2(b).

§ 302-11.6 For which expenses will I be reimbursed if I qualify for a residence transaction expense allowance?

If you qualify for a residence transaction expense allowance, you may be reimbursed for the:

(a) Expenses of selling your old residence and purchasing a new residence in the United States; or

(b) Settlement of an unexpired lease at your old official station in the United States from which transferred to another official station in the United States or when assigned to a foreign post of duty; and

(c) Expenses of purchasing a new residence in the United States upon return to the United States upon completion of the foreign tour of duty and the return is to a different official station, and is 50 miles distance from the official station which you transferred from.

§ 302-11.7 When are expenses for my settlement of an unexpired lease reimbursable?

When your unexpired lease (including month to month) is for residence quarters at your old official station, you may be reimbursed for settlement expenses for an unexpired lease, including but not limited to broker's fees for obtaining a sublease or charges for advertising if:

(a) Applicable laws or the terms of the lease provide for payment of settlement expenses; or

(b) Such expenses cannot be avoided by sublease or other arrangement; or

(c) You have not contributed to the expenses by failing to give appropriate lease termination notice promptly after you have definite knowledge of your transfer; or

(d) The broker's fees or advertising charges are not in excess of those customarily charged for comparable services in that locality.

§ 302-11.8 Must I sell a residence at the old official station to be eligible to purchase a residence at the new official station?

No, you do not have to sell the residence at your old official station to be eligible for residence purchase transactions at your new official station.

Time Limitations

§ 302-11.21 How long do I have to submit my claim for reimbursement of expenses incurred in connection with my residence transactions?

Your claim for reimbursement should be submitted to your agency as soon as possible after the transaction occurred. However, the settlement dates for the sale and purchase or lease termination transactions for which reimbursement is requested must occur not later than 2 years after the day you report for duty at your new official station. (See § 302-11.23.)

§ 302-11.22 May the 2-year time limitation be extended by my agency?

Yes, your agency may extend the 2-year limitation for up to two additional years for reason beyond your control and acceptable to the agency.

§ 302-11.23 When must I request to have my initial time period extended?

To have your initial time period extended, you must submit a request to your agency not later than 30 calendar days after the expiration date unless this 30-day period is specifically extended by your agency.

Subpart B—Title Requirements

§ 302-11.100 For which residence may I receive reimbursement for under this subpart?

You may receive reimbursement for the one residence from which you regularly commute to and from work on a daily basis and which was your residence at the time you were officially notified by competent authority to transfer to a new official station.

§ 302-11.101 Must the title to the property for which I am requesting an allowance for residence transactions be in my name?

The title to the property for which you are requesting an allowance for residence transaction must be:

(a) Solely in your name; or

(b) Solely in the name of one or more of your immediate family members; or

(c) Jointly in your name and in the name of one or more of your immediate family members.

§ 302-11.102 How will the Government determine who holds title to my property?

The Government will determine who holds title to your property based on:

(a) Whose name(s) actually appears on your title document (e.g., the deed); or

(b) Who holds equitable title interest in your property as specified in § 302-11.105.

§ 302-11.103 How will I be reimbursed if I or a member of my immediate family do not hold full title to the property for which I am requesting reimbursement?

If you or a member of your immediate family do not hold full title to the property for which you are requesting reimbursement, you will be reimbursed on a pro rata basis to the extent of your actual title interest plus your equitable title interest in the residence.

§ 302-11.104 When must I and/or a member(s) of my immediate family have acquired title interest in my residence to be eligible for the allowance for expenses incurred in connection with the sale of my residence?

To be eligible for the allowance for expenses incurred in connection with the sale of your residence, you and/or a member(s) of your immediate family must have acquired title or equitable title interest in the residence as illustrated in the following table:

Type of transfer | Date
1. Between official stations in the United States | 1. Prior to the date notified of the transfer.
2. Returning from completion of an foreign tour of duty to a different official station in the United States, which is 50 miles distance from the official station from which transferred to the foreign official station | 2. Prior to the date notified that you would be transferred to a different location in the United States, which is 50 miles distance from the official station you transferred from the foreign area.

§ 302-11.105 How is it determined if I hold “equitable title interest” in my residence?

“Equitable title interest” in your residence is determined by your agency if:

(a) The title is held in trust, and:

(1) The property is your residence;

(2) You and/or a member(s) of your immediate family are the only beneficiary(ies) of the trust during either of your lifetimes;

(3) You and/or a member(s) of your immediate family retain the right to distribute the property during your lifetimes;

(4) You and/or a member(s) of your immediate family retain the right to manage the property;

(5) You and/or a member(s) of your immediate family are the only grantor/settlor of the trust, or retain the right to direct distribution of the property upon dissolution of the trust or death; and

(6) You provide your agency with a copy of the trust document; or

(b) The title is held in the name of a financial institution, and:

(1) The property is your residence;

(2) You and/or a member(s) of your immediate family executed a financing agreement (e.g., mortgage) with the financial institution;

(3) State or local law requires that lending parties take title to perfect (i.e., protect) a security interest in the property, or the financial institution requires that it take possession of title as a condition of the financing agreement; and

(4)You provide your agency with a copy of the financing document; or

(c) The title is held both in the names of:

(1) You solely, or jointly with one or more members of your immediate family, or one or more members of your immediate family;

(2) An individual accommodation party as defined in § 302-11.106 who is not a member of your immediate family; and

(3) The conditions apply:

(i) The property is your residence.

(ii) You and/or a member(s) of your immediate family have the right to use the property and to direct conveyance of the property.

(iii) The lender requires signature of the accommodation party on the financing document.

(iv) You and/or a member of your immediate family, are liable for payments under the financing arrangement (e.g., mortgage).

(v) The accommodation party's name is on the title.

(vi) The accommodation party does not have a financial interest in the property unless the employee and/or a members(s) of the immediate family default on the financing arrangement.

(vii) You must provide documentation of the accommodation that is acceptable by your agency; or

(d) The title is held by the seller of the property and the following conditions are met:

(1) The property is your residence;

(2) You and/or member(s) of your immediate family has the right to use the property and to direct conveyance of the property;

(3) You and/or member(s) of your immediate family must have signed a financing agreement with the seller of the property (e.g., a land contract) providing for fixed periodic payments and transfer of title to the employee and/or a member(s) of the immediate family upon completion of the payment schedule; and

(4) You provide your agency with a copy of the financing agreement; or

(e) Another equitable title situation exists where title is held in your name only or jointly with you and one or more members of your immediate family or with you and an individual who is not an immediate family member, and the following conditions are met:

(1) The property is your residence.

(2) You and/or a member(s) of your immediate family has the right to use the property and to direct conveyance of the property.

(3) Only you and/or a member(s) of your immediate family has made payments on the property.

(4) You and/or a member(s) of your immediate family received all proceeds from the sale of the property.

(5) You must provide suitable documentation to your agency that all conditions in paragraphs (e)(1) through (e)(4) of this section are met.

§ 302-11.106 What is an accommodation party?

An accommodation party is an individual who signs an employee's financing agreement (e.g., a mortgage) to lend his/her name (i.e., credit) to the arrangement.

Subpart C—Reimbursable Expenses

§ 302-11.200 What residence transaction expenses will my agency pay?

Provided that they are customarily paid by the seller of a residence at the old official station or by the purchaser of a residence at the new official station, your agency will pay the following expenses:

(a) Your broker's fee or real estate commission that you pay in the sale of your residence at the last official station, not to exceed the rates that are generally charged in the locality of your old official station;

(b) The customary cost for an appraisal;

(c) The costs of newspaper, bulletin board, multiple-listing services, and other advertising for sale of the residence at your old official station that is not included in the broker's fee or the real estate agent's commission;

(d) The cost of a title insurance policy, costs of preparing conveyances, other instruments, and contracts and related notary fees and recording fees; cost of making surveys, preparing drawings or plats when required for legal or financing purposes; and similar expenses incurred for selling your residence to the extent such costs:

(1) Have not been included in other residence transaction fees (i.e., brokers' fees or real estate agent fees);

(2) Do not exceed the charges, for such expenses, that are normally charged in the locality of your residence;

(3) Are usually furnished by the seller;

(e) The costs of searching title, preparing abstracts, and the legal fees for a title opinion to the extent such costs:

(1) Have not been included in other related transaction costs (i.e., broker's fees or real estate agency fees); and

(2) Do not exceed the charges, for such expenses, that are customarily charged in the locality of your residence

(f) The following “other” miscellaneous expenses in connection with the sale and/or purchase of your residence, provided they are normally paid by the seller or the purchaser in the locality of the residence, to the extent that they do not exceed specifically stated limitations, or if not specifically stated, the amounts customarily paid in the locality of the residence:

(1) FHA or VA fees for the loan application;

(2) Loan origination fees and similar charges such as loan assumption fees, loan transfer fees or other similar charges not to exceed 1 percent of the loan amount without itemization of the lender's administrative charges (unless requirements in § 302-11.201 are met), if the charges are assessed in lieu of a loan origination fee and reflects charges for services similar to those covered by a loan origination fee;

(3) Cost of preparing credit reports;

(4) Mortgage and transfer taxes;

(5) State revenue stamps;

(6) Other fees and charges similar in nature to those listed in paragraphs (f)(1) through (f)(5) of this section, unless specifically prohibited in § 302-11.202;

(7) Charge for prepayment of a mortgage or other security instrument in connection with the sale of the residence at the old official station to the extent the terms in the mortgage or other security instrument provide for this charge. This prepayment penalty is also reimbursable when the mortgage or other security instrument does not specifically provide for prepayment, provided this penalty is customarily charged by the lender, but in that case the reimbursement may not exceed 3 months' interest on the loan balance;

(8) Mortgage title insurance policy, paid by you, on a residence you purchased for the protection of, and required by, the lender;

(9) Owner's title insurance policy, provided it is a prerequisite to financing or the transfer of the property; or if the cost of the owner's title insurance policy is inseparable from the cost of other insurance which is a prerequisite;

(10) Expenses in connection with construction of a residence, which are comparable to expenses that are reimbursable in connection with the purchase of an existing residence;

(11) Expenses in connection with environmental testing and property inspection fees when required by Federal, State, or local law; or by the lender as a precondition to sale or purchase; and

(12) Other expenses of sale and purchase made for required services that are customarily paid by the seller of a residence at the old official station or if customarily paid by the purchaser of a residence at the new official station.

§ 302-11.201 When may my reimbursement for loan assumption fees or other similar fees exceed the 1 percent as specified in § 302-11.200(f)(2)?

Reimbursement may exceed 1 percent (as specified in § 302-11.200(f)(2) only when you provide evidence that the higher rate:

(a) Does not include prepaid interest, points, or a mortgage discount; and

(b) Is customarily charged in the locality where the residence is located.

§ 302-11.202 What residence transaction expenses will my agency not pay?

Your agency will not pay:

(a) Any fees that have been inflated or are higher than normally imposed for similar services in the locality;

(b) Broker fees or commissions paid in connection with the purchase of a home at the new official station;

(c) Owner's title insurance policy, “record title” insurance policy, mortgage insurance or insurance against loss or damage of property and optional insurance paid for by you in connection with the purchase of a residence for your protection;

(d) Interest on loans, points, and mortgage discounts;

(e) Property taxes;

(f) Operating or maintenance costs;

(g) Any fee, cost, charge, or expense determined to be part of the finance charge under the Truth in Lending Act, Title I, Pub. L. 90-321, as amended, and Regulation Z issued by the Board of Governors of the Federal Reserve System (12 CFR part 226), unless specifically authorized in § 302-11.200;

(h) Expenses that result from construction of a residence, except as provided in § 302-11.200(e)(10); and

(i) Losses, see § 302-11.304.

Subpart D—Request For Reimbursement

§ 302-11.300 Is there a limit on how much my agency will reimburse me for residence transactions?

Yes, your agency will reimburse you no more than:

(a) Ten percent of the actual sales price for the sale of your residence at the old official station; and

(b) Five percent of the actual purchase price of the residence for the purchase of a residence at the new official station.

§ 302-11.301 How must I request reimbursement for the expenses I incur for my residence transactions?

To request reimbursement for the expenses you incur for your residence transaction, you must:

(a) Send your claim for reimbursement and documentation of expenses to your old official station for review and approval unless otherwise specified by your agency, and

(b) Follow your agency's procedures and submit appropriate voucher(s) along with any claim applications that your agency may require with appropriate documents specified in § 302-11.302.

§ 302-11.302 What documentation must I submit to my agency to request reimbursement for the sale of a former residence or the purchase of a new one?

To request reimbursement for the sale of a former residence or the purchase of a new one, you must submit to your agency:

(a) Copies of your sales agreement when selling a residence;

(b) Your purchase agreement when a purchasing a residence;

(c) Property settlement documents;

(d) Loan closing statements; and

(e) Invoices or receipts for other bills paid.

§ 302-11.303 Will the Government reimburse me for expenses incurred in connection with my residence transactions that are paid by someone other than me or a member of my immediate family?

No, the Government will not reimburse you for expenses incurred in connection with your residence transactions if they are paid by someone other than you or a member of your immediate family.

§ 302-11.304 Will my agency reimburse me for losses due to market conditions or prices at the old and new official station?

No, losses incurred due to market conditions or prices at your old and new duty station are not reimbursable when incurred by you due to:

(a) Failure to sell a residence at the old official station at the price asked, or at its current appraised value, or at its original cost; or

(b) Failure to buy a dwelling at the new official station at a price comparable to the selling price of the residence at the old official station; or

(c) Any losses that are similar in nature to (a) or (b).

§ 302-11.305 Will I receive reimbursement for any residence transaction expenses incurred prior to being officially notified of my transfer?

No, reimbursement of any residence transaction expenses (or settlement of an unexpired lease) that occurs prior to being officially notified (generally in the form a change of station travel authorization) is prohibited.

§ 302-11.306 How can I know if my expenses are reasonable and will be reimbursed by the Government?

You are responsible for the determination of reasonableness for your claimed expenses. To determine if your expenses are reasonable, you should, in coordination with your agency, contact the local real estate association, or, if not available, at least three different realtors in the locality in which your expenses will be incurred and request:

(a) The current schedule of closing costs which applies to the area in which you are buying or selling;

(b) Information concerning local custom and practices with respect to charging of closing costs which relate to either your sale or purchase and whether such costs are customarily paid by the seller or purchaser; and

(c) Information on the local terminology used to describe the costs specified in paragraph (b) of this section.

§ 302-11.307 May I receive an advance of funds for my residence transaction expenses?

No, you may not receive an advance of funds for your residence transaction expenses.

§ 302-11.308 How much will I receive for reimbursement when I purchase or sell land in excess of what reasonably relates to the residence site?

When you purchase or sell land in excess of what reasonably relates to the residence site, your reimbursement will be limited to a pro rata reimbursement of the land reasonably related to the residence site.

§ 302-11.309 What residence transaction expense are reimbursable if an employee violates the terms of his/her service agreement?

If the employee violates his/her service agreement, no residence transaction expenses will be paid, and any amounts paid prior to such violation shall be a debt due the United States until they are paid by the employee.

Settlement of Unexpired Lease

§ 302-11.320 How must I request reimbursement for settlement of an unexpired lease?

To request reimbursement for settlement of an unexpired lease, you must itemize expenses (list all expenses separately) on a travel voucher and submit the voucher to your agency.

§ 302-11.321 How will I be reimbursed when I share a lease with someone else?

When you share a lease with someone else you will be reimbursed on a pro rata basis for that portion of the lease that you are responsible for.

Subpart E—Agency Responsibilities

Note to subpart E: Use of pronouns “we”, “you”, and their variants throughout this subpart refers to the agency.

§ 302-11.400 What policies and procedures must we establish?

You must establish internal policies and procedures to implement this part.

§ 302-11.401 Under what conditions may we authorize or approve a residence transaction expense allowance?

You may authorize or approve a residence transaction expense allowance when an employee is performing a permanent change of station in the interest of the Government and has signed a service agreement (other than a new appointee or an employee assigned under the Government Employees Training Act (5 U.S.C. 4109.); and

(a) The old and new official stations are located in the United States; or

(b) The employee has completed an agreed upon tour of duty overseas and is returning to the United States to an official station that is at least 50 miles away from the employees last official station in the United States; or

(c) When the employee has been permanently assigned to a temporary official station.

§ 302-11.402 Who is not eligible to receive residence transaction expense allowances?

The following are not eligible to receive residence transaction expense allowances:

(a) New appointees; and

(b) Employees assigned under the Government Employee's Training Act (5 U.S.C. 4109).

§ 302-11.403 What policies must we establish before accepting documentation from an employee for reimbursement of residence transaction expenses?

You must establish policies that will define what documentation is acceptable from an employee when requesting reimbursement of residence transaction expenses.

§ 302-11.404 What controls must we establish for paying allowances for expenses incurred in connection with residence transactions?

When paying allowances for expenses incurred in connection with residence transactions, you must:

(a) Determine who will authorize and approve residence transactions expenses on the employee's travel authorization;

(b) Determine who will review applications for reimbursement of residence transaction expenses;

(c) Determine who will authorize extensions beyond the 2-year limitation for completing sales and purchase or lease termination transactions, under §§ 302-11-420 and 302-11.421;

(d) Prescribe a claim application form which meets your internal administrative requirements;

(e) Require employees to submit a travel claim with appropriate documentation to support his/her payment of the expenses claimed, which must include as a minimum;

(1) The sales agreement,

(2) The purchase agreement,

(3) Property settlement documents,

(4) Loan closing statements, and

(5) Invoices or receipts for other bills paid; and

(f) Require employees to submit travel claims to his/her old official station for review and approval of the claim unless agency review and approval functions are performed elsewhere except as provided in § 302-11.405.

§ 302-11.405 Which agency must review and approve the employee's application when the employee transfers between agencies?

The hiring agency in the locality of the employee's old official station must review and approve the employee's application when the employee transfers between agencies, unless the hiring agency does not have an appropriate installation there. In that case, the losing agency at the old official station must review and approve the expenses.

§ 302-11.406 How must we administer an employee's claim?

To administer an employee's claim:

(a) You must:

(1) Review the employee's claim to determine whether the expenses claimed are reasonable in amount and customarily paid by the buyer/seller in the locality where the property is located;

(2) Disallow any portion of the employee's claim that is inflated or are higher than normal for similar services in the locality;

(3) Execute final administrative approval of payment of a claim by an appropriate agency approving official; and

(4) Return disapproved applications to the employee with a memorandum of explanation.

(b) The approving official must determine if:

(1) The aggregate amount of expenses claimed in connection with a sale or purchase of a residence is within the prescribed limitation for either;

(2) All conditions and requirements under which allowances may be paid have been met; and

(3) The expenses themselves are those which are reimbursable.

Note to § 302-11.406: You must not pay the expenses listed in § 302-11.202 or § 302-11.304.

§ 302-11.407 What documentation must we require the employee to submit before paying residence transaction expenses?

Before paying residence transaction expenses, you must require the employee to submit:

(a) A copy of his/her financial documents which prove that only the employee and or a member(s) of the immediate family made payments on the property;

(b) A copy of his/her financial documents which prove that he/she and/or a member(s) of the immediate family received all proceeds from the sale of the property;

(c) Documentation that is acceptable by you in verifying any interest that the employee has in the property; and

(d) Any additional documents that you need to verify payments.

Time Limitations

§ 302-11.420 How long can we authorize an extension for completion of the sale and purchase or lease termination transactions?

You may authorize an additional period of time, not to exceed 2 years, for completion of the sale and purchase or lease termination transactions.

§ 302-11.421 What must we consider when authorizing an extension of time limitation?

When authorizing an extension of time limitation, you must determine that the:

(a) Employee has extenuating circumstances which have prevented him/her from completing his/her sale and purchase or lease termination transactions in the initial authorized time frame of two years; and

(b) Employee's residence transactions are reasonably related to his/her transfer of official station.

Unexpired Lease

§ 302-11.430 When must we reimburse an employee for expenses incurred due to settlement of an unexpired lease?

You must reimburse an employee in lieu of residence transaction expenses when the employee meets the requirements of § 302-11.10 for expenses incurred due to settlement of an unexpired lease.

§ 302-11.431 How must we require an employee to request reimbursement for expenses of an unexpired lease settlement?

You must require that the employee submit an appropriate travel claim requesting reimbursement for expenses of an unexpired lease settlement with:

(a) An itemization of all expenses claimed supported by documentation showing that the employee indeed paid all lease settlement fees; and

(b) A total amount for all expenses claimed.

Title Requirements

§ 302-11.440 How must we determine who holds title to property for reimbursement purposes?

To determine who holds title to property for reimbursement purposes, you must verify:

(a) Whose name(s) actually appears on the title document (e.g., the deed); or

(b) Who holds equitable title interest in the property.

§ 302-11.441 How must we determine if an employee holds equitable title interest in his/her property?

To determine if an employee holds equitable title interest in his/her property, you must follow the guidelines in § 302-11.405.

Request For Reimbursements

§ 302-11.450 May we advance an employee funds for expenses incurred in connection with residence transactions?

No, you may not advance an employee funds for expenses incurred in connection with residence transactions.

§ 302-11.451 What is the maximum amount that we may reimburse for the sale or purchase of an employee's residence?

The maximum amount that you may reimburse for the sale or purchase of an employee's residence is:

(a) Ten percent of the actual sale price for the sale of the employee's residence at the old official station; and

(b) Five percent of the actual purchase price of the residence for the purchase of a residence at the new official station.

PART 302-12—USE OF A RELOCATION SERVICES COMPANY

Subpart A—Employee's Use of a Relocation Services Company
Sec.
302-12.1 Am I eligible to use a relocation services company?
302-12.2 Who determines if I may use a relocation services company?
302-12.3 Under what conditions may I use a relocation services company?
302-12.4 For what relocation services expenses will my agency pay?
302-12.5 If I use a contracted-for relocation service that is a substitute for reimbursable relocation allowance, will I be reimbursed for the relocation allowance as well?
302-12.6 What expenses will my agency pay if I use a relocation services company to ship household goods in excess of the maximum weight allowance?
302-12.7 What expenses will my agency pay if I use a relocation services company to sell or purchase a residence for which I and/or a member(s) of my immediate family do not have full title?
302-12.8 If my agency authorizes me to enter a homesale program, must I accept a buyout offer from the relocation services company?
302-12.9 What are the income tax consequences if I use a relocation services company?
Subpart B—Agency's Use of a Relocation Services Company
302-12.100 What are “relocation services”?
302-12.101 May we enter into a contract with a relocation services company for the company to provide relocation services?
302-12.102 What contracted relocation services may we provide at Government expense?
302-12.103 May we separately contract for each type of relocation service?
302-12.104 What is the purpose of contracting for relocation services?
302-12.105 How must we administer a relocation services contract?
302-12.106 What policies must we establish when offering our employees the services of a relocation services company?
302-12.107 What rules must we follow when contracting for relocation services?
302-12.108 What are the income tax consequences that we must consider when offering relocation services?
302-12.109 What must we consider in deciding whether to use the fixed-fee or cost-reimbursable contracting method?
302-12.110 May we take title to an employee's residence?
302-12.111 Under a homesale program, may we establish a maximum home value above which we will not pay for homesale services?
302-12.112 Under a homesale program, may we pay an employee for losses he/she incurs on the sale of a residence?
302-12.113 Under a homesale program, may we direct the relocation services company to pay an employee more than the fair market value of his/her residence?
302-12.114 May we use a relocation services contract for services which we are contractually bound to obtain under another travel services contract?

Authority: 5 U.S.C. 5738 and 20 U.S.C. 905(c).

Subpart A—Employee's Use of a Relocation Services Company

Note to subpart A: Use of pronouns “I”, “you”, and their variants throughout this subpart refers to the employee.

§ 302-12.1 Am I eligible to use a relocation services company?

Yes, if you are an employee who is authorized to transfer and such transfer includes residence transaction.

§ 302-12.2 Who determines if I may use a relocation services company?

Your agency must determine if you may use a relocation services company.

§ 302-12.3 Under what conditions may I use a relocation services company?

You may use a relocation services company if you:

(a) Meet all conditions required for you to be eligible for an allowance contained in this chapter for which a service provided by the relocation services company would serve as a substitute, and you are authorized to use a specific relocation service provided by the company as a substitute;

(b) Have signed a service agreement; and

(c) Meet any specific conditions your agency has established.

§ 302-12.4 For what relocation services expenses will my agency pay?

Your agency will pay the relocation services company's fees/expenses for the services you are authorized to use. If your agency pays the relocation services company for actual expenses the company incurs on your behalf, payment to the company is limited to what you would have received under the direct reimbursement provisions of this chapter.

§ 302-12.5 If I use a contracted-for relocation service that is a substitute for reimbursable relocation allowance, will I be reimbursed for the relocation allowance as well?

No, if you use a contracted-for relocation service that is a substitute for reimbursable relocation allowance, you will not be reimbursed for the relocation as well.

§ 302-12.6 What expenses will my agency pay if I use a relocation services company to ship household goods in excess of the maximum weight allowance?

If you use a relocation services company to ship HHG in excess of the maximum weight allowance, your agency will pay the portion of the fee attributable to 18,000 pounds net weight. You must pay the rest.

§ 302-12.7 What expenses will my agency pay if I use a relocation services company to sell or purchase a residence for which I and/or a member(s) of my immediate family do not have full title?

If you use a relocation services company to sell or purchase a residence for which you and/or a member(s) of your immediate family do not have full title, your agency will pay the portion of the relocation services company's fee attributable to your pro rata share of the residence, in accordance with § 302-11.103 of this chapter. You must pay any portion of the fee attributable to other than your pro rata share of the residence.

§ 302-12.8 If my agency authorizes me to enter a homesale program, must I accept a buyout offer from the relocation services company?

No, if your agency authorizes you to enter a homesale program, your agency must give you the option to accept or reject an offer from the relocation services company.

§ 302-12.9 What are the income tax consequences if I use a relocation services company?

You may incur income taxes on relocation services provided by a relocation services company and paid for by your agency. Section 82 of the Internal Revenue Code states there shall be included in gross income (as compensation for services) any amount received or accrued, directly or indirectly, by an individual as a payment for or reimbursement of expenses of moving from one residence to another residence which is attributable to employment. You will receive a relocation income tax (RIT) allowance if your agency determines that such expenses are taxable. The Government does not assume responsibility for payment of your taxes, however, and you may wish to consult a tax professional on income tax reporting.

Subpart B—Agency's Use of a Relocation Services Company

Note to subpart B: Use of pronouns “we”, “you”, and their variants throughout this subpart refers to the agency.

§ 302-12.100 What are “relocation services”?

“Relocation services” are services provided by a private company under a contract with an agency to assist a transferred employee in relocating to the new official station. Examples include homesale programs, home marketing assistance, home finding assistance, and property management services.

§ 302-12.101 May we enter into a contract with a relocation services company for the company to provide relocation services?

Yes, you may enter into a contract with a relocation services company for the company to provide relocation services.

§ 302-12.102 What contracted relocation services may we provide at Government expense?

You may pay for contracted relocation services that are substitutes for reimbursable relocation allowances authorized throughout this chapter. For example, you may pay for homesale services as a substitute for residence sale expenses, or household goods management services as a substitute for transportation of household goods.

§ 302-12.103 May we separately contract for each type of relocation service?

Yes, you may separately contract for each type of relocation service or you may combine several types of relocation services in a single contract.

§ 302-12.104 What is the purpose of contracting for relocation services?

The purpose of contracting for relocation services is to improve the treatment of employees who are directed to relocate to facilitate the retention of a well-qualified workforce.

§ 302-12.105 How must we administer a relocation services contract?

You must balance the positive effects that availability of relocation services has on employee mobility and morale with any increased costs your agency may experience as a result of providing relocation services.

§ 302-12.106 What policies must we establish when offering our employees the services of a relocation services company?

When offering your employees the services of a relocation services company, you must establish policies governing:

(a) The conditions under which you will authorize an employee to use a relocation services company;

(b) Which employees you will allow to use a relocation services company;

(c) What relocation services you will offer an employee; and

(d) Who will determine in each case if an employee may use a relocation services company and what services will be offered.

§ 302-12.107 What rules must we follow when contracting for relocation services?

You must follow the rules contained in the Federal Acquisition Regulations (FAR) (48 CFR) and/or other procurement regulations applicable to your agency.

§ 302-12.108 What are the income tax consequences that we must consider when offering relocation services?

Amounts you pay to a relocation services company on behalf of an employee may be taxable to the employee. In some cases, such as certain homesale programs, the amounts may not be taxable. You must determine the taxability of such payments, and pay a relocation income tax (RIT) allowance in accordance with part 302-17 of this chapter on payments you determine to be taxable to the employee. You may contact the: Assistant Chief Counsel (Income Tax & Accounting), Internal Revenue Service, 1111 Constitution Avenue, NW., Room 5501, Washington, DC 20224, for information on the income tax consequences of payments you make to a relocation services company.

§ 302-12.109 What must we consider in deciding whether to use the fixed-fee or cost-reimbursable contracting method?

You must consider the following factors in deciding whether to use the fixed-fee or cost-reimbursable contracting method:

(a) Risk of alternative methods. Under a fixed fee contract, the relocation services company bears all risks not expressly contained in the contract. Under a cost-reimbursable contract, you must assume some or all risks and, therefore, must assume some management responsibilities under the contract as well. For example, under a fixed fee homesale program you are not directly liable for losses incurred if a residence does not sell immediately, while under a cost-reimbursable homesale program you assume some or all risks of selling the residence.

(b) Cost of alternative methods. Under the fixed fee method of contracting, the fee includes a cost component for risks assumed by the relocation services company. Under the cost-reimbursable method of contracting, you are directly responsible for some or all of the costs associated with management of the contract. In deciding whether to use cost-reimbursable contracting you, therefore, must consider the cost of resources you would require (including personnel costs) to manage a cost-reimbursable relocation services contract.

(c) Effect on the obligation of funds. You must obligate funds for a relocation in the fiscal year in which the purchase order is awarded under the contract. Under the fixed fee contracting method, the amount of the relocation services fee is fixed and you have a basis for determining the amount of funds to obligate. Under the cost-reimbursable contracting method, you must obligate funds based on an estimate of the costs that will be incurred. When opting for cost-reimbursable contracting you, therefore, should establish a reliable method of computing fund obligation estimates.

§ 302-12.110 May we take title to an employee's residence?

No, you may not take title to an employee's residence except as specifically provided by statute. The statutes which form the basis for the provisions of this part do not provide such authority.

§ 302-12.111 Under a homesale program, may we establish a maximum home value above which we will not pay for homesale services?

Yes, if a home exceeding the maximum value above which you will not pay is sold under your homesale program, the employee will be responsible for any additional costs. You must establish a maximum amount commensurate with your agency's experience. You may consider, among other factors, budgetary constraints, the value range of homes in areas where you have offices, and the value range of homes previously entered in your program.

§ 302-12.112 Under a homesale program, may we pay an employee for losses he/she incurs on the sale of a residence?

No, under a home sale program, you may not pay an employee for losses he/she incurs on the sale of a residence, but this does not preclude you reimbursing a relocation service's company for losses incurred while the contractor holds the property.

§ 302-12.113 Under a homesale program, may we direct the relocation services company to pay an employee more than the fair market value of his/her residence?

No, under a homesale program, you may not direct the relocation services company to pay an employee more than the fair market value (as determined by the residence appraisal process) of his/her home.

§ 302-12.114 May we use a relocation services contract for services which we are contractually bound to obtain under another travel services contract?

No, you may not use a relocation services contract to which you are contractually bound to obtain the services of another relocation service provider or to circumvent the travel and transportation expense payment system contract if you are a user of that contract.

PART 302-14—HOME MARKETING INCENTIVE PAYMENTS

Subpart A—Payment of Incentive to the Employee
Sec.
302-14.1 What is a “homesale program?
302-14.2 What is the purpose of a home marketing incentive payment?
302-14.3 Am I eligible to receive a home marketing incentive payment?
302-14.4 Must my agency pay me a home marketing incentive?
302-14.5 Under what circumstances will I receive a home marketing incentive payment?
302-14.6 How much may my agency pay me for a home marketing incentive?
302-14.7 Are there tax consequences when I receive a home marketing incentive payment?
Subpart B—Agency Responsibilities
302-14.100 How should we administer our home marketing incentive program?
302-14.101 What policies must we establish to govern our home marketing incentive payment program?
302-14.102 What factors should we consider in determining whether to establish a home marketing incentive payment program?
302-14.103 What factors should we consider in determining the amount of a home marketing incentive payment?

Authority: 5 U.S.C. 5756.

Subpart A—Payment of Incentive to the Employee

Note to subpart A: Use of pronouns “I”, “you”, and their variants throughout this subpart refers to the employee.

§ 302-14.1 What is a “homesale program'?

A “homesale program” is a program offered by an agency through a contractual arrangement with a relocation services company. The relocation services company purchases a transferred employee's residence at fair market (appraised) value and then independently markets and sells the residence.

§ 302-14.2 What is the purpose of a home marketing incentive payment?

The purpose of a home marketing incentive payment is to reduce the Government's relocation costs by encouraging transferred employees to participate in their employing agency's homesale program to independently and aggressively market, and find a bona fide buyer for their residence. This significantly reduces the fees/expenses their agencies must pay to relocation services companies and effectively lowers the cost of such programs.

§ 302-14.3 Am I eligible to receive a home marketing incentive payment?

Yes, you are eligible to receive a home marketing incentive payment if you are an employee who is authorized to transfer and you otherwise meet requirements for sale of your residence at Government expense.

§ 302-14.4 Must my agency pay me a home marketing incentive?

No, your agency determines when it is in the Government's interest to offer you a home marketing incentive.

§ 302-14.5 Under what circumstances will I receive a home marketing incentive payment?

You will receive a home marketing incentive payment when:

(a) You enter your residence in your agency's homesale program;

(b) You independently and aggressively market your residence;

(c) You find a bona fide buyer for your residence as a result of your independent marketing efforts;

(d) You transfer the residence to the relocation services company;

(e) Your agency pays a reduced fee/expenses to the relocation services company as a result of your independent marketing efforts;

(f) You meet any additional conditions your agency has established, including but not limited to, mandatory marketing periods, list price guidelines, closing requirements, and residence value caps; and

(g) Your agency has established a home marketing incentive program.

§ 302-14.6 How much may my agency pay me for a home marketing incentive?

Your agency will determine the amount of your home marketing incentive payment. The incentive payment, however, may not exceed the lesser of:

(a) Five percent of the price the relocation services company paid when it purchased the residence from you; or

(b) The savings your agency realized from the reduced fee/expenses it paid as a result of you finding a bona fide buyer.

§ 302-14.7 Are there tax consequences when I receive a home marketing incentive payment?

Yes, the home marketing incentive payment is considered income. Consequently, you will be taxed, and your agency will withhold income and employment taxes, on the home marketing incentive payment. You will not, however, receive a withholding tax allowance (WTA) to offset the withholding on your home marketing incentive payment, nor will you receive a relocation income tax (RIT) allowance payment for substantially all of your Federal, state and local income taxes on the incentive payment.

Subpart B—Agency Responsibilities

Note to subpart B: Use of pronouns “we”, “you”, and their variants throughout this subpart refers to the agency.

§ 302-14.100 How should we administer our home marketing incentive payment program?

Your goal in using an incentive payment program is to reduce your overall relocation costs. You must not make a home marketing incentive payment that exceeds the savings you realize from the reduced fees/expenses you pay the relocation services company.

§ 302-14.101 What policies must we establish to govern our home marketing incentive payment program?

You must establish policies to govern:

(a) The conditions under which you will authorize a home marketing incentive payment for an employee;

(b) The amount of the home marketing incentive payment(s) you will offer (or) the method you will use to compute your home marketing incentive payments); and

(c) Who will determine in each case whether a home marketing incentive payment is authorized.

§ 302-14.102 What factors should we consider in determining whether to establish a home marketing incentive payment program?

In determining whether to establish a home marketing incentive payment program, you should consider:

(a) Whether the program will increase the percentage of residences sold for which employees find a bona fide buyer. You should establish a benchmark for the percentage of residences for which you expect employees to find a bona fide buyer resulting in lower homesale costs to you. If your historical percentage of employee-generated sales is below your benchmark, a home marketing incentive payment program may benefit you; and

(b) The expected net savings from a home marketing incentive payment program.

§ 302-14.103 What factors should we consider in determining the amount of a home marketing incentive payment?

In determining the amount of a home marketing incentive payment, you should consider the:

(a) Amount of savings from reduced fee/expenses paid to the relocation services company. The home marketing incentive payment program is intended to reduce your relocation costs. The amount of each home marketing incentive payment you make, therefore, must not exceed the savings you realize from the reduced fee you pay to the relocation services company; and

(b) Employee's efforts in marketing the residence. The purpose of a home marketing incentive payment program is to encourage a transferred employee who participates in a homesale program to independently and aggressively market his/her residence and find a bona fide buyer.

PART 302-15—ALLOWANCE FOR PROPERTY MANAGEMENT SERVICES

Subpart A—General Rules for the Employee

Sec.

302-15.1 What are property management services?

302-15.2 What are the purposes of the allowance for property management services?

302-15.3 Am I eligible for payment for property management services under this part?

302-15.4 Who is not eligible for payment for property management services?

302-15.5 Is my agency required to authorize payment for property management services?

302-15.6 Under what circumstances may my agency authorize payment under this part?

302-15.7 For what property may my agency authorize payment under this part?

302-15.8 When my agency authorizes payment for me under this part, am I obligated to use such services, or may I elect instead to sell my residence at Government expense?

302-15.9 Must I repay property management expenses my agency paid under this part if I elect to sell my former residence in the United States at Government expense when I am transferred from my current foreign post of duty to an official station in the United States other than the one I left?

302-15.10 How long may my agency pay under this part?

302-15.11 If my agency authorized, and I elected to receive, payment for property management expenses, may I later elect to sell my residence at Government expense?

302-15.12 If my agency is paying for property management services under this part and my service agreement expires, what must I do to ensure that payment for property management services continues?

302-15.13 What are the income tax consequences when my agency pays for my property management services?

Subpart B—Agency Responsibilities

302-15.70 What governing policies must we establish for the allowance for property management services?

Authority: 5 U.S.C. 5738; 20 U.S.C. 905(a); E.O. 11609, 36 FR 13747, 3 CFR, 1971-1975 Comp., p. 586.

Subpart A—General Rules For The Employee

Note to subpart A: Use of pronouns “I”, “you”, and their variants throughout this subpart refers to the employee.

§ 302-15.1 What are property management services?

“Property management services” are programs provided by private companies for a fee, which help an employee to manage his/her residence at the old official station as a rental property. These services typically include, but are not limited to, obtaining a tenant, negotiating the lease, inspecting the property regularly, managing repairs and maintenance, enforcing lease terms, collecting the rent, paying the mortgage and other carrying expenses from rental proceeds and/or funds of the employee, and accounting for the transactions and providing periodic reports to the employee.

§ 302-15.2 What are the purposes of the allowance for property management services?

The purpose of the allowance for property management services is reduce overall Government relocation costs when used instead of sale of the employee's residence at Government expense. When authorized in connection with an employee's transfer to a foreign area post of duty, relieve the employee of the costs of maintaining a home in the United States while stationed at a foreign area post of duty.

§ 302-15.3 Am I eligible for payment for property management services under this part?

Yes, you are eligbile for payment for property management services when:

(a) You transfer in the interest of the Government; and

(b) You and/or a member(s) of your immediate family hold(s) title to a residence which you are eligible to sell at Government expense under part 302-11 or part 302-12 of this chapter.

§ 302-15.4 Who is not eligible for payment for property management services?

New appointees, employees assigned under the Government Employees Training Act (5 U.S.C. 4109), and employees transferring wholly outside the United States are not eligible for payment for property management services. However, relocations wholly outside the United States do not affect previously authorized property management services as long as the employee continues to meet the requirements of § 302-15.6 and any other conditions established by the agency.

§ 302-15.5 Is my agency required to authorize payment for property management services?

No, your agency is not required to authorize payment for property management services. However, your agency determines:

(a) When you meet the conditions set forth in § 302-15.3;

(b) When to authorize payment for these services; and

(c) What procedures you must follow when it authorizes such payment.

§ 302-15.6 Under what circumstances may my agency authorize payment under this part?

(a) For a relocation to an official station in the United States, your agency may authorize payment under this part when:

(1) You are being returned from a foreign area post of duty to a different official station than the one from which you were transferred for your foreign tour of duty;

(2) Your agency has determined that property management services is more advantageous and cost effective for the Government than having to sell your residence;

(3) You have signed a service agreements; and

(4) You meet any additional conditions that your agency has established.

(b) For relocations to official stations outside the United States, your agency will authorize payment under this part when you meet conditions set forth in paragraphs (a)(3) and (4) of this section.

§ 302-15.7 For what property may my agency authorize payment under this part?

Under this part, payment may be authorized only for your residence at the last official station in the United States from which you transferred.

§ 302-15.8 When my agency authorizes payment for me under this part, am I obligated to use such services, or may I elect instead to sell my residence at Government expense?

You are not obligated to use your authorized property management services allowance. You have the option of choosing to sell your residence at Government expense or to use the property management services allowance.

§ 302-15.9 Must I repay property management expenses my agency paid under this part if I elect to sell my former residence in the United States at Government expense when I am transferred from my current foreign post of duty to an official station in the United States other than the one I left?

No, you are not required to repay any property management expenses paid by your agency if you elect to sell your former residence in the United States when transferred from your post of duty to an official station in the United States. The authority for your agency to pay for property management services under this part when you are transferred to a foreign post of duty arises from your transfer to the foreign post of duty. It is separate from, and in addition to, the authority to sell your residence at Government expense when you are transferred to an official station in the United States other than the official station from which you were transferred to the foreign post of duty.

§ 302-15.10 How long may my agency pay under this part?

Your agency may pay:

(a) For transfers within the United States for a period not to exceed 2 years from your effective date of transfer, with up to a 2-year extension, under the same conditions required in § 302-11.21 of this chapter; or

(b) From the time you transfer to a foreign area post of duty until you:

(1) Transfer back to an official station in the United States; or

(2) Complete a service agreement at your post of duty and remain there, but do not sign a new service agreement; or

(3) Separate from Government service.

§ 302-15.11 If my agency authorized, and I elected to receive, payment for property management expenses, may I later elect to sell my residence at Government expense?

Yes, you may change your selection from receiving property management expenses to selling your residence at Government expense provided:

(a) Your agency allows you to change your election of payment from property management expenses to the sale of your residence at Government expense; and

(b) Payment for sale of your residence at Government expense is offset in accordance with your agency's policy established under § 302-15.70(d).

§ 302-15.12 If my agency is paying for property management services under this part, and my service agreement expires, what must I do to ensure that payment for property management services continues?

You must sign a new service agreement (see § 302-2.13 of this chapter) to continue to this benefit.

§ 302-15.13 What are the income tax consequences when my agency pays for my property management services?

When your agency pays for your property management services, you will be taxed on the amount of expenses your agency pays for property management services whether it reimburses you directly or whether it pays a relocation service company to manage your residence. Your agency must pay you a relocation income tax (RIT) allowance for the additional Federal, State and local income taxes you incur on property management expenses it reimburses you or pays on your behalf.

Note to § 302-15.13: You may wish to consult with a tax advisor to determine whether you will incur any additional tax liability, unrelated to your agency's payment of your property management expenses, as a result of maintaining your residence as a rental property.

Subpart B—Agency Responsibilities

Note to subpart B: Use of pronouns “we”, “you”, and their variants throughout this subpart refers to the agency.

§ 302-15.70 What governing policies must we establish for the allowance for property management services?

You must establish policies and procedures governing:

(a) When you will authorize payment for property management services for an employee who transfers in the interest of the Government;

(b) Who will determine, for relocations to official stations in the United States, whether payment for property management services is more advantageous and cost effective than sale of an employee's residence at Government expense;

(c) If and when you will allow an employee who was offered and accepted payment for property management services to change his/her mind and elect instead to sell his/her residence at Government expense in accordance with paragraph (d) of this section; and

(d) How you will offset expenses you have paid for property management services against payable expenses for sale of the employee's residence when an eligible employee who elected payment for property management services later changes his/her mind and elects instead to sell his/her residence at Government expense.

SUBCHAPTER F—MISCELLANEOUS ALLOWANCES

PART 302-16—ALLOWANCE FOR MISCELLANEOUS EXPENSES

Subpart A—General
Sec.
302-16.1 What are miscellaneous expenses?
302-16.2 What is the purpose of the miscellaneous expenses allowance (MEA)?
302-16.3 Who is and is not eligible for a MEA?
302-16.4 Must my agency authorize payment of a MEA?
Subpart B—Employee's Allowance for Miscellaneous Expenses
302-16.100 How will I receive the MEA?
302-16.101 May I receive an advance of funds for MEA?
302-16.102 What amount may my agency reimburse me for miscellaneous expenses?
302-16.103 May I claim an amount in excess of that prescribed in § 302-16.102?
302-16.104 Must I document my miscellaneous expenses to receive reimbursement?
302-16.105 What standard of care must I use in incurring miscellaneous expenses?
Subpart C—Agency Responsibilities
302-16.200 What governing policies must we establish for MEA?
302-16.201 How should we administer the authorization and payment of miscellaneous expenses?
302-16.202 Are there any restrictions to the types of costs we may cover?
302-16.203 What are examples of types of costs not covered by the MEA?

Authority: 5 U.S.C. 5738; 20 U.S.C. 905(a); E.O. 11609, 36 FR 13747, 3 CFR, 1971-1975 Comp., p. 586.

Subpart A—General

Note to subpart A: Use of pronouns “I”, “you”, and their variants throughout this subpart refers to the employee, unless otherwise noted.

§ 302-16.1 What are miscellaneous expenses?

(a) Miscellaneous expenses are costs associated with:

(1) Discontinuing your residence at your old official station, and/or

(2) Establishing a residence at your new official station.

(b) Expenses allowable under paragraphs(a)(1) or (a)(2) of this section include, but are not limited to the following:

General expenses | Fees/deposits | Losses
Appliances | For disconnecting/connecting appliances, equipment, utilities (except for mobile homes see § 302-10.20), conversion of appliances for operation on available utilities
Rugs, draperies, and curtains | For cutting and fitting such items, moved from one residence quarters to another
Utilities (See § 302-10.20 for mobile homes) | Deposits or fees not offset by eventual refunds
Medical, dental, and food locker contracts |  | Forfeiture losses not transferable or refundable.
Private Institutional care contracts (such as that provided for handicapped or invalid dependents only) |  | Forfeiture losses not transferable or refundable.
Privately-owned automobiles | Registration, Driver's license, and use taxes imposed when bringing into certain jurisdictions
Transportations of pets | Only costs associated with dogs and cats are included. Other animals (horses, fish, birds, various rodents, etc.) are excluded because of their size, exotic nature, or restrictions on shipping, host country restrictions and special handling difficulties. Costs are limited to transportation and handling costs, required to meet the more stringent rules of air carriers, not included are inoculations, examinations, boarding quarantine or other costs in the moving process

§ 302-16.2 What is the purpose of the miscellaneous expenses allowance (MEA)?

The miscellaneous expenses allowance (MEA) is to help defray some of the costs incurred due to relocating. The MEA is related to expenses that are common to living quarters, furnishings, household appliances, and to other general types of costs inherent in relocation of a place of residence. (See part 302-10 of this chapter for specific costs normally associated with relocation of a mobile home dwelling that are covered under transportation expenses.)

§ 302-16.3 Who is and is not eligible for a MEA?

See the following table for eligibility of MEA:

Employees eligible for MEA | Employees not eligible for MEA
(a) Your agency authorized/approved a relocation or a TCS; and | (a) A new appointee.
(b) You discontinued and established a residence in connection with your relocation or TCS; and | (b) Authorized SES “last move home” benefits,
(c) You meet the applicable eligibility conditions in part 302-1 of this chapter; and | (c) Assigned under the Government Employees Training Act (5 U.S.C. 4109), or
(d) You signed the required service agreement in part 302-1 of this chapter | (d) Returning from an overseas assignment for separation from Government service.

§ 302-16.4 Must my agency authorize payment of a MEA?

Yes, if you meet the applicable eligibility conditions in § 302-16.3, your agency must authorize payment of a MEA.

Subpart B—Employee's Allowance for Miscellaneous Expenses

§ 302-16.100 How will I receive the MEA?

You will be reimbursed your MEA in accordance with your agency's internal travel policy.

§ 302-16.101 May I receive an advance of funds for MEA?

No, your agency must not authorize an advance of funds for MEA.

§ 302-16.102 What amount may my agency reimburse me for miscellaneous expenses?

The following amounts will be paid for miscellaneous expenses without support or documentation of expenses:

(a) Either $500 or the equivalent of one week's basic gross pay, whichever is the lesser amount, if you have no immediate family relocating with you; or

(b) $1,000 or the equivalent of two weeks' basic gross pay, whichever is the lesser amount, if you have immediate family members relocating with you.

§ 302-16.103 May I claim an amount in excess of that prescribed in § 302-16.102?

Yes, you may claim an amount in excess of that prescribed in § 302-16.12 if authorized by your agency; and

(a) Supported by acceptable statements of fact, paid bills or other acceptable evidence justifying the amounts claimed; and

(b) The aggregate amount does not exceed your basic gross pay (at the time you reported for duty, at your new official station) for:

(1) One week if you are relocating without an immediate family; or

(2) Two weeks if you are relocating with an immediate family.

Note to § 302-16.103: The amount authorized cannot exceed the maximum rate of grade GS-13 provided in 5 U.S.C. 5332 at the time you reported for duty at your new official station.

§ 302-16.104 Must I document my miscellaneous expenses to receive reimbursement?

You must show documentation of your miscellaneous expenses only when an amount exceeds that prescribed in § 302-16.101.

§ 302-16.105 What standard of care must I use in incurring miscellaneous expenses?

You must exercise the same care in incurring expenses that a prudent person would exercise if relocating at personal expense.

Subpart C—Agency Responsibilities

Note to subpart C: Use of pronouns “we”, “you”, and their variants throughout this subpart refers to the agency.

§ 302-16.200 What governing policies must we establish for MEA?

For MEAs, you must establish policies and procedures governing:

(a) Who will determine whether payment for an amount in excess of the flat MEA is appropriate; and

(b) How you will pay a MEA in accordance with §§ 302-16.3 and 302-16.4.

§ 302-16.201 How should we administer the authorization and payment of miscellaneous expenses?

You should limit payment of miscellaneous expenses to only those expenses that are necessary.

§ 302-16.202 Are there any restrictions to the types of costs we may cover?

Yes, a MEA cannot be used to reimburse:

(a) Costs or expenses incurred which exceed maximums provided by statute or in this subtitle;

(b) Costs or expenses incurred but which are disallowed elsewhere in this subtitle;

(c) Costs reimbursed under other provisions of law or regulations;

(d) Costs or expenses incurred for reasons of personal taste or preference and not required because of the move;

(e) Losses covered by insurance;

(f) Fines or other penalties imposed upon the employee or members of his/her immediate family;

(g) Judgements, court costs, and similar expenses growing out of civil actions; or

(h) Any other expenses brought about by circumstances, factors, or actions in which the move to a new duty station was not the proximate cause.

§ 302-16.203 What are examples of types of costs not covered by the MEA?

Examples of costs which are not reimbursable from this allowance are:

(a) Losses in selling or buying real and personal property and cost related to such transactions;

(b) Cost of additional insurance on household goods while in transit to the new official station or cost of loss or damage to such property;

(c) Additional costs of moving household goods caused by exceeding the maximum weight limitation;

(d) Costs of newly acquired items, such as the purchase or installation cost of new rugs or draperies;

(e) Higher income, real estate, sales, or other taxes as the result of establishing residence in the new locality;

(f) Fines imposed for traffic infractions while en route to the new official station locality;

(g) Accident insurance premiums or liability costs incurred in connection with travel to the new official station locality, or any other liability imposed upon the employee for uninsured damages caused by accidents for which he/she or a member of his/her immediate family is held responsible;

(h) Losses as the result of sale or disposal of items of personal property not considered convenient or practicable to move;

(i) Damage or loss of clothing, luggage, or other personal effects while traveling to the new official station locality;

(j) Subsistence, transportation, or mileage expenses in excess of the amounts reimbursed as per diem or other allowances under this regulation;

(k) Medical expenses due to illness or injuries while en route to the new official station or while living in temporary quarters at Government expense under the provisions of this chapter; or

(l) Costs incurred in connections with structural alterations (remodeling or modernizing of living quarters, garages or other buildings to accommodate privately-owned automobiles, appliances or equipment; or the cost of replacing or repairing worn-out or defective appliances, or equipment shipped to the new location).

PART 302-17—RELOCATION INCOME TAX (RIT) ALLOWANCE

Sec.
302-17.1 Authority.
302-17.2 Coverage.
302-17.3 Types of moving expenses or allowances covered and general limitations.
302-17.4 Exclusions from coverage.
302-17.5 Definitions and discussion of terms.
302-17.6 Procedures in general.
302-17.7 Procedures for determining the WTA in Year 1.
302-17.8 Rules and procedures for determining the RIT allowance in Year 2.
302-17.9 Responsibilities.
302-17.10 Claims for payment and supporting documentation and verification.
302-17.11 Violation of service agreement.
302-17.12 Advance of funds.
302-17.13 Source of references.
Appendix A to Part 302-17—Federal Tax Tables for RIT Allowance
Appendix B to Part 302-17—State Tax Tables for RIT Allowance
Appendix C to Part 302-17—Federal Tax Tables for RIT Allowance—Year 2
Appendix D to Part 302-17—Puerto Rico Tax Tables for RIT Allowance

Authority: 5 U.S.C. 5738; 20 U.S.C. 905(a); E.O. 11609, 36 FR 13747, 3 CFR, 1971-1975 Comp., p. 586.

§ 302-17.1 Authority.

Payment of a relocation income tax (RIT) allowance is authorized to reimburse eligible transferred employees for substantially all of the additional Federal, State, and local income taxes incurred by the employee, or by the employee and spouse if a joint tax return is filed, as a result of certain travel and transportation expense and relocation allowances which are furnished in kind, or for which reimbursement or an allowance is provided by the Government. Payment of the RIT allowance also is authorized for income taxes paid to the Commonwealth of Puerto Rico, the Commonwealth of the Northern Mariana Islands, and the U.S. possessions in accordance with a decision of the Comptroller General of the United States (67 Comp. Gen. 135 (1987)). The RIT allowance shall be calculated and paid as provided in this part.

§ 302-17.2 Coverage.

(a) Eligible employees. Payment of a RIT allowance is authorized for employees transferred on or after November 14, 1983, in the interest of the Government from one official station to another for permanent duty. The effective date of an employee's transfer is the date the employee reports for duty at the new official station as provided in part 300.3 of this title.

(b) Individuals not covered. The provisions of this part are not applicable to the following individuals or employees:

(1) New appointees;

(2) Employees assigned under the Government Employees Training Act (see 5 U.S.C. 4109); or

(3) Employees returning from overseas assignments for the purpose of separation.

§ 302-17.3 Types of moving expenses or allowances covered and general limitations.

The RIT allowance is limited by law as to the types of moving expenses that can be covered. The law authorizes reimbursement of additional income taxes resulting from certain moving expenses furnished in kind or for which reimbursement or an allowance is provided to the transferred employee by the Government. However, such moving expenses are covered by the RIT allowance only to the extent that they are actually paid or incurred, and are not allowable as a moving expense deduction for tax purposes. The types of expenses or allowances listed in paragraphs (a) through (i) of this section, are covered by the RIT allowance within the limitations discussed.

(a) En route travel. Travel (including per diem) and transportation expenses of the transferred employee and immediate family for en route travel from the old official station to the new official station. (See part 302-4 of this chapter.)

(b) Household goods shipment. Transportation (including temporary storage) expenses for movement of household goods from the old official station to the new official station. (See part 302-7 of this chapter.)

(c) Extended storage expenses. Allowable expenses for extended storage of household goods belonging to an employee transferred on or after November 14, 1983, through October 11, 1984, to an isolated location in the continental United States. (See part 302-8, of this chapter extended storage expenses are not covered by the RIT allowance for transfers on or after October 12, 1984.) (See § 302-17.4(c) of this chapter.)

(d) Mobile home movement. Expenses for the movement of a mobile home for use as a residence when movement is authorized instead of shipment and temporary storage of household goods. (See part 302-10 of this chapter.)

(e) Househunting trip. Travel (including per diem) and transportation expenses of the employee and spouse for one round trip to the new official station to seek permanent residence quarters. (See part 302-5 of this chapter.)

(f) Temporary quarters. Subsistence expenses of the employee and immediate family during occupancy of temporary quarters. (See part 302-6 of this chapter.)

(g) Real estate expenses. Allowable expenses for the sale of the residence (or expenses of settlement of an unexpired lease) at the old official station and for purchase of a home at the new official station for which reimbursement is received by the employee. (See part 302-11 of this chapter.)

(h) Miscellaneous expense allowance. A miscellaneous expense allowance for the purpose of defraying certain expenses associated with discontinuing a residence at one location and establishing a residence at the new location in connection with an authorized or approved permanent change of station. (See part 302-16 of this chapter.)

(i) Relocation services. Payments, or portions thereof, made to a relocation service company for services provided to a transferred employee (see part 302-12 of this chapter), subject to the conditions stated in this paragraph and within the general limitations of this section applicable to other covered expenses.

(1) For employees transferred on or after November 14, 1983, through October 11, 1984. The amount of a broker's fee or real estate commission, or other real estate sales transaction expenses which normally are reimbursable to the employee under § 302-11.200 of this chapter, but have been paid by a relocation service company incident to an assigned sale from the employee, provided that such payments constitute income to the employee. For the purposes of this regulation, an assigned sale occurs when an employee obtains a binding agreement for the sale of his/her residence and assigns the inherent rights and obligations of that agreement to a relocation company that is providing services under contract with the employing agency. For example, if the employee incurs an obligation to pay a specified broker's fee or real estate commission under the terms of the sales agreement, this obligation along with the sales agreement is assigned to the relocation company and may, upon payment of the obligation by the relocation company, constitute income to the employee. (See § 302-12.7 of this chapter entitled “Income tax consequences of using relocation companies.”)

(2) For employees transferred on or after October 12, 1984. Expenses paid by a relocation company providing relocation services to the transferred employee pursuant to a contract with the employing agency to the extent such payments constitute income to the employee. (See § 302-12.7 of this chapter.)

Note: See reference shown in parentheses for reimbursement provisions for each allowance listed in paragraphs (a) through (i) of this section. See section 217 of the Internal Revenue Code (IRC) and Internal Revenue Service (IRS) Publication 521 entitled “Moving Expenses” and appropriate State and local tax authority publications for additional information on the taxability of moving expense reimbursements and the allowable tax deductions for moving expenses.

§ 302-17.4 Exclusions from coverage.

The provisions of this part are not applicable to the following:

(a) Any tax liability that may result from payments by the Government to relocation companies on behalf of employees transferred on or after November 14, 1983, through October 11, 1984, other than the payments for those expenses specified in § 302-17.3(i)(1).

(b) Any tax liability incurred for local income taxes other than city income tax as a result of moving expense reimbursements for employees transferred on or after November 14, 1983, through October 11, 1984. (See definition in § 302-17.5(b).)

(c) Any tax liability resulting from reimbursed expenses for any extended storage of household goods except as specifically provided for in § 302-17.3(c).

(d) Any tax liability resulting from paid or reimbursed expenses for shipment of a privately owned automobile.

(e) Any tax liability resulting from an excess of reimbursed amounts over the actual expense paid or incurred. For instance, if an employee's reimbursement for the movement of household goods is based on the commuted rate schedule and his/her actual moving expenses are less than the reimbursement, the tax liability resulting from the difference is not covered by the RIT allowance. (See § 302-17.8(c)(2)(i).)

(f) Any tax liability resulting from an employee's decision not to deduct moving expenses for which a tax deduction is allowable under the Internal Revenue Code or appropriate State and local tax codes. (See §§ 302-17.8(b)(1) and 302-17.8(c)(2).)

(g) Any tax liability resulting from the payment of recruitment, retention, or relocation bonuses authorized by the Office of Personnel Management pursuant to 5 U.S.C. 5753 and 5754, or any other provisions which allow relocation payments that are not reimbursements for travel, transportation, and other expenses incurred in relocation.

§ 302-17.5 Definitions and discussion of terms.

For purposes of this part, the following definitions will apply:

(a) State income tax. A tax, imposed by a State tax authority, that is deductible for Federal income tax purposes as a State income tax under section 164(a)(3) of the IRC. “State” means any one of the several States of the United States and the District of Columbia.

(b) Local income tax. A tax, imposed by a recognized city or county tax authority, that is deductible for Federal income tax purposes as a local (city or county) income tax under section 164(a)(3) of the IRC; except, that for employees transferred on or after November 14, 1983, through October 11, 1984, local income tax shall be construed to mean only city income tax. For purposes of this regulation:

(1) City means any unit of general local government which is classified as a municipality by the Bureau of the Census, or which is a town or township that in the determination of the Secretary of the Treasury possesses powers and performs functions comparable to those associated with municipalities, is closely settled, and contains within its boundaries no incorporated places as defined by the Bureau of the Census (31 CFR 215.2(b)(1)).

(2) County means any unit of local general government which is classified as a county by the Bureau of the Census (31 CFR 215.2(e)).

(c) Covered moving expense reimbursements or covered reimbursements. As used herein, these terms include those moving expenses listed in § 302-17.3 as being covered by the RIT allowance and which may be furnished in kind, or for which reimbursement or an allowance is provided by the Government.

(d) Covered taxable reimbursements. Covered moving expense reimbursements minus the tax deductions allowable under the IRC and IRS regulations for moving expenses. (See determination in § 302-17.8(c).)

(e) Year 1 or reimbursement year. The calendar year in which reimbursement or payment for moving expenses is made to, or for, the employee under the provisions of this part. All or part of these reimbursements (see § 302-17.6) are reported to the IRS as income (wages, salary, or other compensation) to the employee for that tax year under the provisions of the IRC and IRS regulations, and are subject to Federal tax withholding. The withholding tax allowance (WTA) (see paragraph (f)(1) of this section) is calculated in Year 1, to cover the employee's Federal tax withholding obligations each time covered moving expense reimbursements are made that result in a Federal tax withholding obligation. For purposes of this part, an advance of funds for any of the covered moving expenses is not considered to be a reimbursement or a payment until the travel voucher settlement for such expenses takes place. If an employee's reimbursement for moving expenses is spread over more than one year, he/she will have more than one Year 1.

(f) Year 2. The calendar year in which a claim for the RIT allowance is paid.

(1) Generally, Year 2 will be the calendar year immediately following Year 1 and in which the employee files a tax return reflecting his/her tax liability for income received in Year 1. However, there may be instances where the employee's claims submission and/or payment of the RIT allowance is delayed beyond the calendar year immediately following Year 1. (Year 1 will always be the calendar year that reimbursements are received; see paragraph (e) of this section.) Year 2 will be the calendar year in which the RIT allowance is actually paid.

(2) The RIT allowance is calculated in Year 2 and paid to cover the additional tax liability (resulting from moving expense reimbursements received in Year 1) not covered by the WTA paid in Year 1. If an employee's covered taxable reimbursements are spread over more than one year, he/she will have more than one Year 2.

(g) Federal withholding tax rate (FWTR). The tax rate applied to incremental income to determine the amount to be withheld for Federal income tax from salary or other compensation such as moving expense reimbursements. Because moving expense reimbursements constitute supplemental wages for Federal income tax purposes, the 20 percent flat rate of withholding is generally applicable to such reimbursements. (See § 302-17.7(c).) Agencies should refer to the Treasury Financial Manual, TFM 3-5000, and applicable IRS regulations for complete and up-to-date information on this subject.

(h) Earned income. For purposes of the RIT allowance, “earned income” shall include only the gross compensation (salary, wages, or other compensation such as reimbursement for moving expenses and the related WTA (see paragraph (n) of this section) and any RIT allowance (see paragraph (m) of this section) paid for moving expense reimbursement in a prior year) that is reported as income on IRS Form W-2 for the employee (employee and spouse, if filing jointly), and if applicable, the net earnings (or loss) for self-employment income shown on Schedule SE of the IRS Form 1040. Earned income may be from more than one source. (See § 302-17.8(d).)

(i) Marginal tax rate (MTR). The tax rate (for example, 33 percent) applicable to a specific increment of income. The Federal, Puerto Rico, and State marginal tax rates to be used in calculating the RIT allowance are provided in appendices A through D of this part. (See § 302-17.8(e)(3) for instructions on local marginal tax rate determinations.)

(j) Combined marginal tax rate (CMTR). A single rate determined by combining the applicable marginal tax rates for Federal (or Puerto Rico, when applicable), State, and local income taxes, using formulas provided in § 302-17.8(e)(5).

(k) Gross-up. Payment for the estimated additional income tax liability incurred by an employee as a result of reimbursements or payments by the Government for the covered moving expenses listed in § 302-17.3.

(l) Gross-up formulas. The formulas used to determine the amount of the gross-up for the WTA and the RIT allowance. The gross-up formulas used herein compensate the employee for the initial tax, the tax on tax, etc. Note that the WTA gross-up formula in § 302-17.7(d) is different than the RIT gross-up formula prescribed in § 302-17.8(f).

(m) RIT allowance. The amount of payment computed and paid in Year 2 to cover substantially all of the estimated additional tax liability incurred as a result of the covered moving expense reimbursements received in Year 1.

(n) Withholding tax allowance (WTA). The withholding tax allowance (WTA), paid in Year 1, covers the employee's Federal income tax withholding liability on covered taxable reimbursements received in Year 1. The amount is computed by applying the withholding gross-up formula prescribed in § 302-17.7(d) (using the Federal withholding tax rate) each time that a Federal withholding obligation is incurred on covered moving expense reimbursements received in Year 1. Grossing-up the Federal withholding amount protects the employee from using part of his/her moving expense reimbursement to pay Federal withholding taxes. (See § 302-17.7.)

(o) State gross-up. Payment for the estimated additional State income tax liability incurred by an employee as a result of reimbursements or payments by the Government for the covered moving expenses listed in § 302-17.3 that are deductible for Federal income tax but not for State income tax purposes.

(p) State gross-up formula. The formula prescribed in § 302-17.8(f)(3) to be used in determining the amount to be included in the RIT allowance to compensate an employee for the additional State income tax incurred in States that do not allow the deduction of moving expenses.

§ 302-17.6 Procedures in general.

(a) This regulation sets forth procedures for the computation and payment of the RIT allowance and defines agency and employee responsibilities. This part does not require changes to those internal fiscal procedures established by the individual agencies pursuant to IRS regulations, or the Treasury Financial Manual, provided that the intent of the statute authorizing the RIT allowance and this part are not disturbed.

(b) The total amount reimbursed or paid to the employee, or on his/her behalf, for travel, transportation, and other relocation expenses and allowances is includable in the employee's gross income pursuant to the IRC and certain State or local government tax codes. Some moving expenses for which reimbursements are received may be deducted from income by the employee as moving expense deductions, subject to certain limitations prescribed by the IRS or pertinent State or local tax authorities. Reimbursements for nondeductible moving expenses are subject to income tax. (See IRS Publication 521 entitled “Moving Expenses” and the appropriate State and local tax codes for detailed information.)

(c) Usually, if the employee is reimbursed for nondeductible moving expenses, the amount of these reimbursements is subject to withholding of Federal income tax in accordance with IRS regulations at the time of reimbursement. Under existing fiscal procedures, the amount of the employee's withholding obligation is usually deducted either from reimbursements for the moving expenses at the time of reimbursement or from the employee's salary. (See Treasury Financial Manual.)

(d) Payment of a WTA established herein will offset deductions for the Federal income tax withholding on moving expense reimbursements, and on the WTA itself, from the employee's moving expense reimbursements or from salary.

(e) The total amount of the RIT allowance can be computed after the end of Year 1 as soon as the earned income level, income tax filing status, total covered taxable reimbursements, and the applicable marginal tax rates can be determined. Employee claims for the RIT allowance should be submitted in accordance with this part and the employing agency's procedures.

(f) Procedures are prescribed in §§ 302-17.7 and 302-17.8 for computation and payment of the WTA and the RIT allowance. These procedures are built on existing fiscal procedures and IRS regulations regarding reporting of employee income from reimbursements and withholding of taxes on supplemental wages.

§ 302-17.7 Procedures for determining the WTA in Year 1.

(a) General rules. The WTA is designed to cover only the employee's withholding tax obligation for Federal income taxes on income resulting from covered moving expense reimbursements. (See definition in § 302-17.5(c).) Other withholding tax obligations, if any, such as for social security taxes or for State and/or local income taxes on income resulting from moving expense reimbursements shall not be included in the calculation of the WTA payment. The amount of the WTA is equal to the Federal income tax withholding obligation incurred by the employee on covered moving expense reimbursements (which are not offset by deductible moving expenses) and on the WTA itself. Each time covered moving expense reimbursements are paid to or on behalf of the employee, the WTA shall be calculated, accounted for, and reported as provided in paragraphs (b) through (g) of this section.

(b) Determination of amount of reimbursement subject to withholding. Under IRS regulations, income resulting from reimbursements for nondeductible moving expenses is subject to withholding of Federal income taxes. (See IRS Publication 521, “Moving Expenses.”) There are some moving expenses which may be reimbursed but are not covered taxable reimbursements (see definition in § 302-17.5(d)) for purposes of the WTA and RIT allowance calculations, such as extended storage of household goods. (See exclusions in § 302-17.4.) Therefore, the actual amount of the covered taxable reimbursements may be different than the amount of nondeductible moving expenses subject to Federal income tax withholding. The difference in these amounts should not be substantial; therefore, the amount of nondeductible moving expenses subject to Federal income tax withholding, as determined by the agency pursuant to IRS regulations, may be used in calculating the WTA. (Note that the RIT calculation procedure in § 302-17.8 requires determination of covered taxable reimbursements.)

(c) Determination of Federal withholding tax rate (FWTR). Moving expense reimbursements constitute supplemental wages for Federal income tax purposes. Therefore, an agency must withhold at the withholding rate applicable to supplemental wages. Currently, the supplemental wages withholding rate is 28 percent. The supplemental wages withholding rate should be used in calculating the WTA unless under an agency's withholding procedures a different withholding rate is used pursuant to IRS tax regulations. In such cases, the applicable withholding rate shall be substituted for the supplemental wages withholding rate in the calculation shown in paragraph (d) of this section.

(d) Calculation of the WTA. The WTA is calculated by substituting the amounts determined in paragraphs (b) and (c) of this section into the following WTA gross-up formula:

Formula:

Where:

Y = WTA

X = FWTR (generally, 28 percent)

N = nondeductible moving expenses/covered taxable reimbursements

Example:

If:

X = 28 percent

N = $20,000

Then:

Y = .3889 ($20,000)

Y = $7778.00

(e) WTA payment and employee agreement for repayment. (1) The WTA may be calculated several times within Year 1 if reimbursements for moving expenses are made on more than one travel voucher. Each time an employee is reimbursed for moving expenses which are subject to Federal tax withholding in accordance with the IRS regulations, the WTA will be calculated and paid unless the employee fails to comply with the requirements in paragraph (e)(2) of this section.

(2) The employee shall be required to agree in writing to repay any excess amount paid to him/her in Year 1 (see §§ 302-17.8(f)(5) and 302-17.9(b)(3)), and submit the required certified tax information and claim for his/her RIT allowance within a reasonable length of time (as determined by the agency) after the close of Year 1. Failure of the employee to comply with this requirement will preclude the agency's payment of the WTA. The entire WTA will be considered an excess payment if the RIT allowance claim is not submitted in a timely manner to settle the RIT allowance account.

(f) Determination of employee's withholding tax on WTA. Since the amount of the WTA is considered income to the employee, it is subject to the same tax withholding requirements as all other moving expense reimbursements. (See Treasury Financial Manual, Section 4080, Moving Expense Reimbursements, for withholding requirements.)

(g) End of year reporting. At the end of the year, agencies generally are required to issue IRS Form(s) W-2 for each employee showing total gross compensation (including moving expense reimbursements) and the applicable amount of Federal taxes withheld. For tax reporting purposes, the WTA is to be treated as a moving expense reimbursement. The total amount of the employee's WTA's paid during the year as well as the amount of moving expense reimbursements should be included as income on the employee's Form W-2. The Federal tax withholding amount applicable to the moving expense reimbursements and the WTA should also be included on the employee's Form W-2. The amount of the WTA's also will be furnished to the employee along with the amount of moving expense reimbursements on IRS Form 4782 or another itemized listing provided for the employee's use in preparing his/her tax return (see IRS regulations for further guidance) and in claiming the RIT allowance as provided in § 302-17.8.

§ 302-17.8 Rules and procedures for determining the RIT allowance in Year 2.

(a) Summary/overview of procedures. The RIT allowance will be calculated and claimed in Year 2. This can be accomplished as soon as the employee can determine earned income (as defined herein), income tax filing status, covered taxable reimbursements for Year 1, and the applicable marginal tax rates. The RIT allowance is then calculated using the gross-up formula under procedures prescribed herein. Since the RIT allowance is considered income, appropriate withholding taxes on the RIT allowance are deducted and the balance constitutes the net payment to the employee. Rules, procedures, and the prescribed tax tables for these calculations are provided in paragraphs (b) through (g) of this section, and in appendices A, B, and C of this part.

(b) General rules and assumptions. (1) The procedures prescribed herein for calculations and payment of the RIT allowance are based on certain assumptions jointly developed by GSA and IRS, and tax tables developed by IRS. This approach avoids a potentially controversial and administratively burdensome procedure requiring the employee to furnish extensive documentation, such as certified copies of actual tax returns and reconstructed returns, in support of a claim for a RIT allowance payment. Specifically, the following assumptions have been made:

(i) The employee will claim allowable moving expense deductions for the same tax year in which the corresponding moving expense reimbursements are included in income;

(ii) Changes to the IRC, applicable to the 1987 and subsequent tax years, require that allowable moving expense deductions must be taken as an itemized deduction from gross income rather than as an adjustment to gross income as in previous tax years. It is assumed that employees will receive the benefit of allowable moving expense deductions to offset income either by itemizing their moving expense deductions or through the increased standard deductions.

(iii) Prior to the Tax Reform Act of 1986, it was assumed that the employee's (and spouse's, if a joint return is filed) earned income, filing status, and CMTR determined for Year 1 (and used in determining the RIT allowance in Year 2) would remain the same or would not be substantially different in the second and subsequent tax years. However, the Tax Reform Act of 1986 substantially changed the Federal tax structure making it necessary to compute a separate CMTR for Year 1 and for Year 2. (See paragraph (e) of this section.) The formula for calculating the RIT allowance to be paid in 1988 and subsequent years is shown in paragraph (f) of this section. It is assumed that within the accuracy of the calculation, the State and local tax rates for Year 1 and Year 2 will remain the same or will not be substantially different. Therefore, the State and local tax rates for Year 1 shall be used in calculating the CMTR for Year 2.

(2) The prescribed procedures, which yield an estimate of an employee's additional tax liability due to moving expense reimbursements, are to be used uniformly. They are not to be adjusted to accommodate an employee's unique circumstance which may differ from the assumed circumstances stated in paragraph (b)(1) of this section.

(3) An adjustment of the RIT allowance paid in Year 2 for the covered taxable reimbursements received in Year 1 is required if the tax information certified to on the RIT allowance claim is different than that shown on the actual Federal tax return filed with IRS for Year 1 or changed for any reason after filing of the tax return, so as to affect the CMTR's used in the RIT allowance calculation. (See § 302-17.10 for claims procedures.)

(c) Determination of covered taxable reimbursements. (1) Generally, the amount of the covered taxable reimbursements is the difference between (i) the amount of covered moving expense reimbursements for the allowances listed in § 302-17.3 that was included in the employee's income in Year 1, and (ii) the maximum amount of allowable moving expenses that may be claimed as a moving expense deduction by the employee on his/her Federal tax return under IRS tax regulations to offset the income resulting from moving expense reimbursements for Year 1. The covered taxable reimbursements will be determined as if the employee had itemized and deducted all allowable moving expense deductions. (See assumption made in paragraph (b)(1)(ii) of this section.) If the employee is precluded from claiming moving expense deductions because he/she does not meet IRS requirements for the distance test, then the amount of covered taxable reimbursements is the same as the amount of covered moving expense reimbursements. (See § 302-17.5(d).)

(2) For purposes of calculating the RIT allowance, the following special rules apply to the determination of moving expense deductions to offset moving expense reimbursements reported as income:

(i) The total amount of reimbursement (which was reported as income) for the expenses of en route travel for the employee and family (see § 302-17.3(a)) and transportation (including up to 30 days temporary storage) of household goods (see § 302-17.3(b)) to the new official station shall be used as a moving expense deduction. (See also § 302-17.4(e) and (f).)

(ii) The total amount of reimbursement for a househunting trip, temporary quarters (up to 30 days at new station) and real estate transaction expenses (see § 302-17.3(e), (f), (g), and (i)), up to the maximum allowable deduction under IRS tax regulations, shall be used as a moving expense deduction. For example, an employee and spouse filing a joint return and residing in the same household at the end of the tax year may deduct up to $3,000 for these expenses. (No more than $1,500 of the $3,000 may be claimed for a househunting trip and temporary quarters expenses combined.) If the employee was reimbursed $1,350 for a househunting trip and temporary quarters expenses and $9,000 for real estate expenses, the moving expense deductions would be $1,350 for the househunting trip and temporary quarters expenses and $1,650 for real estate expenses. If the employee's reimbursement was $1,850 for the househunting trip and temporary quarters expenses and $9,000 for real estate expenses, the moving expense deductions would be $1,500 for the househunting trip and temporary quarters expenses and $1,500 for real estate expenses. If the employee had no reimbursement for a househunting trip and temporary quarters, the full $3,000 would be applied to the $9,000 reimbursement for real estate expenses. (See IRS Publication 521, “Moving Expenses,” for these and other maximums which vary by situation and filing status.)

(3) Procedures and examples are provided herein as if all moving expense reimbursements are received in one year with all moving expense deductions applied in that same year to arrive at the covered taxable reimbursements. However, when reimbursements span more than one year, the amount of covered taxable reimbursements must be determined separately for each reimbursement year (Year 1). The maximum moving expense deductions apply to the entire move. Under IRS tax regulations, the employee has some discretion as to when he/she claims these deductions (e.g., in the year of the move when the expense was paid or in the year of reimbursement, if these actions do not occur in the same year). However, for purposes of the RIT allowance procedures, the moving expense deductions will be applied in the year that the corresponding reimbursement is made. For example, if an employee incurred and was reimbursed $1,000 for a househunting trip and temporary quarters in 1989 and an additional $1,000 for temporary quarters in 1990, this employee, according to his/her particular situation and tax filing status, may deduct $1,500 of these expenses in moving expense deductions. In calculating the RIT allowance for 1989, $1,000 of the $1,500 deduction is used to offset the $1,000 reimbursement in 1989 resulting in zero covered taxable reimbursements for the househunting trip and temporary quarters for 1989. The remaining $500 (balance of the $1,500 not used in determining covered taxable reimbursements for 1989) will be used to offset the $1,000 temporary quarters reimbursement in 1990 (second Year 1), leaving $500 of the temporary quarters reimbursement as a covered taxable reimbursement for 1990.

(4) Although the WTA amount is included in income (see § 302-17.7), it shall not be included in the amount of covered taxable reimbursements. Under the procedures and formulas established herein, the proper amount of the RIT allowance is calculated using the RIT gross-up formula with the WTA and any prior RIT allowance payments excluded from covered taxable reimbursements.

(5) Agencies are cautioned that there may be moving expenses reimbursed to the employee that are not covered by the RIT allowance. (See exclusions in § 302-17.4; also see discussion in § 302-17.7 regarding covered taxable reimbursements versus nondeductible expenses.)

(d) Determination of income level and filing status. In order to determine the CMTR's needed to calculate the RIT allowance, the employee must determine the appropriate amount of earned income (as prescribed herein) that was or will be reported on his/her Federal tax return for the tax year in which the covered taxable reimbursements were received (Year 1). Such amount will also include the spouse's earned income if a joint filing status is claimed. For purposes of this regulation, appropriate earned income shall include only the amount of gross compensation reported on IRS Form(s) W-2, and, if applicable, the net earnings (or loss) from self-employment income as shown on Schedule SE of IRS Form 1040. (See § 302-17.5(h).) (Note that moving expense reimbursements including the WTA amounts and any RIT allowance paid for a prior Year 1 are to be included in earned income and should be shown as income on the Form W-2; if they are not, other appropriate documentation shall be furnished by the agency.) (See § 302-17.7(g).) The amount of earned income as determined under this paragraph and the tax filing status (for example, from lines 1 through 5 on the 1987 IRS Form 1040) shall be contained in a certified statement on, or attached to, the voucher claiming the RIT allowance. (See § 302-17.10.) If a joint filing status is claimed and the spouse's earned income is included, the spouse must sign the certified statement. If the spouse does not sign the statement, earned income will include only the employee's earned income and the RIT allowance will be calculated on that basis. This condition will not apply if an employee is allowed, under IRS rules, to file a joint return as a surviving spouse.

(e) Determination of the CMTR's. The gross-up formula used to calculate the RIT allowance in paragraph (f) of this section, requires the use of two CMTR's—one for Year 1 in which reimbursements were received and the other for Year 2 in which the RIT allowance is paid. CMTR's are single tax rates calculated to represent the Federal, State, and/or local income tax rates applicable to the earned income determined for Year 1. (See paragraph (d) of this section.) The CMTR's will be determined as follows:

(1) Federal marginal tax rates. The Federal marginal tax rates for Year 1 and Year 2 are determined by using the income level and filing status determined under paragraph (d) of this section and contained in the certified statement by the employee (or employee and spouse) on the RIT allowance claim, and applying the prescribed Federal tax tables contained in appendices A and C of this part. For example, if the income level for the 1989 tax year (Year 1) was $84,100 for a married employee filing a Federal joint return, the Federal marginal tax rate would be 33 percent for Year 1 (1989) (see appendix A of this part) and 28 percent for Year 2 (1990) (see appendix C of this part). These rates would be used regardless of how much of the $84,100 was attributable to reimbursement for the employee's relocation expenses. (Note that these marginal rates are different from the withholding tax rate used for the WTA.) If the employee incurs only Federal income tax (i.e., there are no State or local taxes), the Federal marginal tax rates determined from appendices A and C of this part are the CMTR's to be used in the RIT gross-up formula provided in § 302-17.8(f). In such cases, the provisions of paragraphs (e)(2) and (3) of this section, do not apply.

(2) State marginal tax rate. (i) If the employee incurs an additional State income tax (see definition in § 302-17.5(a)) liability as a result of moving expense reimbursements, the appropriate State tax table in appendix B of this part is to be used to determine the applicable State marginal tax rate that will be substituted into the formula for determining the CMTR for both Year 1 and Year 2. The appropriate State tax table will be the one that corresponds to the tax year in which the reimbursements are paid to the employee (Year 1). The income level determined in paragraph (d) of this section for Federal taxes shall be used to identify the appropriate income bracket in the State tax table. The applicable State marginal tax rate is obtained from the selected income bracket column for the State where the employee is required to pay State income tax on moving expense reimbursements. The tax rates shown in the table apply to all employees regardless of their filing status, except where a separate rate is shown for a single filing status.

(ii) The lowest income bracket shown in the State tax tables in appendix B of this part is $20,000-$24,999. In cases where the employee's (employee's and spouse's, if filing jointly) earned income as determined under paragraph (d) of this section is less than this income bracket, an appropriate State marginal tax rate shall be established by the employing agency from the applicable State tax code or regulations issued pursuant thereto. Such State marginal tax rate shall be representative of the earned income level in question but in no case more than the marginal tax rate established in appendix B of this part for the $20,000-$24,999 income bracket for the particular State in which an additional tax obligation has been incurred.

(iii) The prescribed State marginal tax rates generally are expressed as a percent of taxable income. However, if the applicable State marginal tax rate is stated as a percentage of the Federal income tax liability, the State tax rate must be converted to a percent of taxable income to be used in the CMTR formulas in paragraph (e)(5) of this section. This is accomplished by multiplying the applicable Federal tax rate for Year 1 by the applicable State tax rate. For example, if the Federal tax rate is 33 percent for Year 1 and the State tax rate is 25 percent of the Federal income tax liability, the State tax rate stated as a percent of taxable income would be 8.25 percent. The State tax rate thus determined for Year 1 will be used in determining the CMTR for both Year 1 and Year 2.

(iv) An employee may incur a State income tax liability on moving expense reimbursements in more than one State at the same or different marginal tax rates (i.e., double taxation). For example, an employee may incur taxes on moving expense reimbursements in one State because of residency in that State, and in another State because that particular State taxes income earned within its jurisdiction irrespective of whether the employee is a resident. In such cases, a single State marginal tax rate must be determined for use in the CMTR formulas in paragraph (e)(5) of this section. The general rules in paragraph (e)(2)(iv) (A) through (C) of this section apply in determining the applicable single State marginal tax rate in such cases.

(A) If two or more States impose an income tax on an employee's moving expense reimbursement, but no two States tax the same portion of the reimbursement, then the reimbursement is not subject to double taxation. In this situation, the average of the applicable State marginal tax rates, as determined under paragraphs (e)(2) (i) through (iii) of this section, shall be treated as being imposed on the entire reimbursement, and shall be used in the CMTR formula.

(B) If two or more States impose an income tax on the moving expense reimbursement, and more than one State taxes the same portion of the reimbursement, but those States allow an adjustment or credit for income taxes paid to the other State(s), then the reimbursement is not subject to double taxation. In this situation, the highest of the applicable State marginal tax rates, as determined under paragraphs (e)(2) (i) through (iii) of this section, shall be used in the CMTR formula.

(C) If two or more States impose an income tax on the moving expense reimbursement, and more than one State taxes the same portion of the reimbursement without allowing an adjustment or credit for income taxes paid to the other, then the reimbursement is subject to double taxation. In this situation, the sum of the applicable State marginal tax rates, as determined under paragraphs (e)(2) (i) through (iii) of this section, shall be used in the CMTR formula.

(3) Local marginal tax rate. Because of the impracticality of establishing a single marginal tax rate table for local income taxes that could be applied uniformly on a nationwide basis, appropriate local marginal tax rates shall be determined as provided in paragraphs (e)(3)(i) through (iii) of this section.

(i) If the employee incurs an additional local income tax (see definition § 302-17.5(b)) liability as a result of moving expense reimbursements, he/she shall certify to such fact when claiming the RIT allowance (see certification statement in § 302-17.10) by specifying the name of the locality imposing the income tax and the applicable marginal tax rate determined from the actual marginal tax rate table or schedule prescribed by the taxing locality. The marginal tax rate shall be the one applicable to the taxable income portion of the amount of earned income determined under paragraph (d) of this section for the employee (and spouse, if filing jointly). The same tax rate shall be used in calculating the CMTR for both Year 1 and Year 2. The employing agency shall establish procedures to determine whether the employee-certified local marginal tax rate is appropriate for the employee's income level and filing status and approve its use in the CMTR formulas. (See also § 302-17.10(b)(2).)

(ii) If the local marginal tax rate is stated as a percentage of Federal or State income tax liability, such rate must be converted to a percent of taxable income for use in the CMTR formulas. This is accomplished by multiplying the applicable Federal or State tax rate for Year 1 as determined in paragraph (e) (1) or (2) of this section by the applicable local tax rate. For example, if the State tax rate for Year 1 is 6 percent and the local tax rate is 50 percent of State income tax liability, the local tax rate stated as a percentage of taxable income would be 3 percent. The local tax rate thus determined for Year 1 will be used in determining the CMTR for both Year 1 and Year 2.

(iii) The situations described in paragraph (e)(2)(iv) of this section with respect to State income taxes may also be encountered with local income taxes. If such situations do occur, the rules prescribed for determining the single State marginal tax rate shall also be applied to determine the single local marginal tax rate for use in the CMTR formulas.

(4) Marginal tax rates for the Commonwealth of Puerto Rico, the Commonwealth of the Northern Mariana Islands, and the U.S. possessions—(i) The Commonwealth of Puerto Rico. A Federal employee who is relocated to or from a point, or between points, in the Commonwealth of Puerto Rico may be subject to income tax on the employee's salary (including moving expense reimbursements) by both the U.S. Government and the government of Puerto Rico. However, under the current law of Puerto Rico, such employee receives a credit on his/her Puerto Rico income tax for the amount of taxes paid to the United States. The rules in paragraphs (e)(4)(i)(A) through (C) apply in determining the marginal tax rate applicable for transfers to, from, or between points in Puerto Rico.

(A) The applicable Puerto Rico marginal tax rate shall be determined by using the income level determined in paragraph (d) of this section for Federal taxes and the employee's filing status. The Puerto Rico marginal tax rate for Year 1 will be used in computing the CMTR for both Year 1 and Year 2. The Puerto Rico tax tables are contained in appendix D of this part.

(B) If the applicable Puerto Rico marginal tax rate is higher than the applicable Federal marginal tax rate, then the total amount of taxes paid by the employee to both jurisdictions is equal to the employee's total income tax liability to the Commonwealth of Puerto Rico before any credit is given for taxes paid to the United States. The Federal marginal tax rate, therefore, is of no consequence and will be disregarded. In such cases, the formula in paragraph (e)(5)(iii) of this section will be used to compute the CMTR. The CMTR formula shall include only the Puerto Rico marginal tax rate, the State marginal tax rate as determined under paragraph (e)(2) of this section (when applicable), and the local marginal tax rate as determined under paragraph (e)(3) of this section. For purposes of applying the Puerto Rico CMTR formula in paragraph (e)(5)(iii) of this section, the State marginal tax rate will be applicable if both Puerto Rico and one or more of the States impose an income tax on the moving expense reimbursement, and more than one of these entities taxes the same portion of the reimbursement without allowing an adjustment or credit for income taxes paid to the other. In this situation, the S component of the CMTR formula will be the applicable State marginal tax rate as determined under paragraph (e)(2) of this section.

(C) If the applicable Puerto Rico marginal tax rate is equal to or lower than the applicable Federal marginal tax rate, then the total amount of taxes paid by the employee to both jurisdictions is equal to the employee's total Federal income tax liability. The Puerto Rico marginal tax rate, therefore, is of no consequence in such cases and will be disregarded. The CMTR will be computed using the formula in paragraphs (e)(5) (i) and (ii) of this section. This formula will include the Federal marginal tax rate as determined under paragraph (e)(1) of this section, the State marginal tax rate as determined under paragraph (e)(2) of this section (when applicable), and the local marginal tax rate as determined under paragraph (e)(3) of this section. The State marginal tax rate will be applicable if one or more States impose tax on the moving expense reimbursement.

(ii) The Commonwealth of the Northern Mariana Islands and the U.S. possessions. A Federal employee who is relocated to or from a point, or between points, in the Commonwealth of the Northern Mariana Islands or the U.S. possessions (Guam, American Samoa, and the U.S. Virgin Islands) is subject to both Federal income tax and income tax assessed by the Commonwealth of the Northern Mariana Islands or the U.S. possession, as applicable. However, the income tax system and rates for the Commonwealth of the Northern Mariana Islands and for the U.S. possessions are identical to the U.S. Federal income tax system and rates. This constitutes a “mirror tax” system. A tax credit or exclusion is provided by one of the taxing jurisdictions (either the U.S., the Commonwealth of the Northern Mariana Islands, or the U.S. possession, as appropriate) to prevent double taxation. The marginal tax rate for the Commonwealth of the Northern Mariana Islands or the U.S. possession, therefore, is of no consequence since it is identical to the Federal marginal income tax rate and is completely offset by a corresponding credit or exclusion. Thus, the Commonwealth's or the possession's tax rate will not be factored into the CMTR formula. The CMTR will be computed as provided in paragraphs (e)(5) (i) and (ii) based solely on the Federal marginal tax rate; when applicable, the State(s) marginal tax rate; and the local marginal tax rate.

(5) Calculation of the CMTR's. As stated above, the gross-up formula for calculating the RIT allowance requires the use of two CMTR's. However, the required CMTR's cannot be calculated by merely adding the Federal, State, and local marginal tax rates together because of the deductibility of State and local income taxes from income for Federal income tax purposes. The State tax tables prescribed in appendix B of this part are designed to use the same income amount as that determined for the Federal taxes, which reflects, among other things, State and local tax deductions. The formulas prescribed below for calculating the CMTR's are designed to adjust the State and local tax rates to compensate for their deductibility from income for Federal tax purposes.

(i) Calculation of the CMTR for Year 1. The following formula shall be used to calculate the CMTR for Year 1.

CMTR Formula: X = F + (1−F)S + (1−F)L

Where:

X = CMTR for Year 1

F = Federal tax rate for Year 1

S = State tax rate for Year 1

L = local tax rate for Year 1

(A) Federal, State, and local taxes incurred. If the employee incurs Federal, State, and local income taxes on moving expense reimbursements, the CMTR formula may be solved as follows:

Example:

If:

F = 33 percent of income

S = 6 percent of income

L = 3 percent of income

Then:

X = .33 + (1.00−.33).06 + (1.00−.33).03

X = .3903

(B) Federal and State income taxes only. If the employee incurs tax liability on moving expense reimbursements for Federal and State income taxes but none for local income tax, the value of “L” is zero and the CMTR formula may be solved as follows:

Example:

If:

F = 33 percent of income

S = 6 percent of income

L = Zero

Then:

X = .33 + (1.00−.33).06

X = .3702

(C) Federal and local income taxes only. If the employee incurs a tax liability on moving expense reimbursements for Federal and local income taxes but none for State income tax, the value of “S” is zero and the CMTR formula may be solved as follows:

Example:

If:

F = 33 percent of income

S = Zero

L = 3 percent of income

Then:

X = .33 + (1.00−.33).03

X = .3501

(ii) Calculation of the CMTR for Year 2. The calculation of the CMTR for Year 2 is the same as described for Year 1, except that the Federal tax rate for Year 2 is used in place of the Federal tax rate for Year 1. State and local tax rates remain the same as for Year 1. The following formula shall be used to determine the CMTR for Year 2:

CMTR Formula: W = F + (1−F)S + (1−F)L

Where:

W = CMTR for Year 2 F

F = Federal tax rate for Year 2

S = State tax rate for Year 1

L = local tax rate for Year 1

(iii) Calculation of CMTR's for Puerto Rico. The following formula shall be used to calculate the CMTR for transfers to, from, or between points in Puerto Rico. (This formula is different from the formulas provided in paragraphs (e)(5) (i) and (ii) of this section since the Federal marginal tax rate is disregarded.)

CMTR Formula: X = P + S + L

Where:

X = CMTR for Year 1 and Year 2

P = Puerto Rico tax rate for Year 1

S = State tax rate for Year 1, when applicable (See § 302-17.8(e)(4)(i)(B).)

L = Local tax rate for Year 1

(f) Determination of the RIT allowance. The RIT allowance to cover the tax liability on additional income resulting from the covered taxable reimbursements received in Year 1 is calculated in Year 2 as provided below:

(1) The RIT allowance is calculated by substituting the amount of covered taxable reimbursements for Year 1, the CMTR's for Year 1 and Year 2, and the total amount of the WTA's paid in Year 1 into the gross-up formula as follows:

Formula:

Where:

Z = RIT allowance payable in Year 2

X = CMTR for Year 1

W = CMTR for Year 2

R = covered taxable reimbursements

Y = total WTA's paid in Year 1

Example:

If:

X = .3903

W = .3448

R = $21,800

Y = $5,450

Then:

Z = .5957($21,800)-09.9306($5,450)

Z = $12,986.26-09$5,071.77

Z = $7,914.49

(2) There may be instances when a WTA was not paid in Year 1 at the time moving expense reimbursements were made. In cases where there is no WTA to be deducted, the value of “Y” is zero and the formula stated in paragraph (f)(1) of this section, for calculating the amount of the RIT allowance (Z) due the employee in Year 2 may be solved as shown in the following example:

Example:

If:

X = .3903

W = .3448

R = $21,800

Y = Zero

Then:

Z = .5957 ($21,800)

Z = $12,986.26

(3) Certain States do not allow the deduction of all or part of the covered moving expenses that are deductible for Federal income tax purposes. The State gross-up to cover the additional State income tax liability resulting from the covered moving expense reimbursements received in Year 1 that are deductible for Federal income tax purposes but not for State income tax purposes is calculated in Year 2 as follows:

(i) The State gross-up is calculated by substituting the amount of covered moving expense reimbursements that are deductible for Federal income tax purposes but not for State income tax purposes, the Federal tax rate for Year 1, the State tax rate for Year 1, and the combined marginal tax rate for Year 2 into the State gross-up formula as follows:

Formula:

Where:

A = State gross-up

F = Federal tax rate for Year 1

S = State tax rate for Year 1

W = CMTR for Year 2

N = covered moving expense reimbursements that are deductible for Federal income tax purposes but not for State income tax purposes

Example:

If:

F = .33

S = .06

W = .3448

N = $9,250

Then:

A = .0614 ($9,250)

A = $567.95

(ii) Add the State gross-up to the RIT allowance as calculated using the formula in paragraph (f)(1) of this section. The result is the RIT allowance adjusted for those States that do not allow moving expense deductions. Example:

RIT allowance payable in Year | $7,914.49
Plus adjustment factor | +567.95
Total | $8,482.44

(4) If the amount of the RIT allowance is greater than zero, it is payable to the employee on the travel voucher as a relocation or moving expense allowance. The RIT allowance amount is included in the employee's gross income for Year 2 and, therefore, subject to appropriate withholding taxes. (See net payment to employee in paragraph (g) of this section.) The RIT allowance amount will be reported on IRS Form W-2 for Year 2 (including applicable income tax withholding amounts) and on IRS Form 4782 for the employee's information.

(5) If the calculation of the RIT allowance results in a negative amount, the employee is obligated to repay this amount as a debt due the Government. (See §§ 302-17.7(e)(2) and 302-17.9(b).)

(6) Any changes to the employee's income level or filing status for Year 1 that would affect the marginal tax rates (Federal, State, or local) used in calculating the RIT allowance must be reported to the agency by the employee as provided in § 302-17.9(b)(2). (See also § 302-17.10 for certified statement regarding these changes.)

(g) Determination of the net payment due employee in Year 2. Since the amount of the RIT allowance is income to the employee in Year 2, it is subject to the same tax withholding requirements as all other moving expense reimbursements. Agencies should determine the appropriate amounts for withholding taxes under their internal tax withholding procedures. The amount of withholding taxes is deducted from the RIT allowance to arrive at the net payment to the employee.

§ 302-17.9 Responsibilities.

(a) Agency. Finance offices will calculate the amount of the gross-up for the WTA in Year 1 in accordance with procedures outlined herein and credit this amount to the employee at the time of reimbursement as provided in § 302-17.7(e). The WTA will be reflected on the employee's Form W-2 for Year 1. The RIT allowance may be calculated in Year 2 either by the employee or by the agency finance office based on information provided by the employee on the voucher, as directed by the agency's implementing policies and procedures. In addition, agencies shall prescribe appropriate and necessary implementing procedures as provided elsewhere in this part.

(b) Employee. (1) The employee is required to submit a claim for the RIT allowance and to file the tax information for Year 1 specified in § 302-17.10 with his/her agency in Year 2, regardless of whether any additional reimbursement for the RIT allowance is owed the employee. (See § 302-17.7(e) for employee agreement.)

(2) If any action occurs (i.e., amended tax return, tax audit, etc.) that would change the information provided in Year 2 by the employee to his/her agency for use in calculating the RIT allowance due the employee for Year 1 taxes, this information must be provided by the employee to his/her agency under procedures prescribed by the agency. (See § 302-17.10.)

(3) If the calculation of the RIT allowance results in a negative amount, the employee is obligated to repay this amount as a debt due the Government. (See §§ 302-17.7(e)(2) and 302-17.8(f)(5).)

§ 302-17.10 Claims for payment and supporting documentation and verification.

(a) Claims forms. Claims for payment of the RIT allowance shall be submitted by the employee in Year 2 on SF 1012 (Travel Voucher) or other authorized travel voucher form. When claiming payment for the RIT allowance, the employee shall furnish and certify to certain tax information that has been or will be shown on his/her actually prepared tax returns. The spouse must also sign statement if joint filing status is claimed and spouse's income is included on statement. This information shall be contained in a certified statement on, or attached to, the SF 1012 reading essentially as follows:

Certified Statement

I certify that the following information, which is to be used in calculating the RIT allowance to which I am entitled, has been (or will be) shown on the income tax returns filed (or to be filed) by me (or by my spouse and me) with the applicable Federal, State, and local (specify which) tax authorities for the 19__tax year.

—Gross compensation as shown on attached IRS Form(s) W-2 and, if applicable, net earnings (or loss) from self-employment income shown on attached Schedule SE (Form 1040):

| Form(s) W-2 | Schedule SE
Employee | $ | $
Spouse (if filing jointly) | $ | $
Total (Both columns) |  | $

—Filing status: ______ (Specify one of the filing status items that was (or will be) claimed on IRS Form 1040.)

—Marginal tax rates from appendices A, B, and C of 41 CFR part 302-17 and local tax tables derived under procedures prescribed in 41 CFR part 302-17:

Federal for Year 1

Federal for Year 2

State (specify which):

Local (specify which):

The above information is true and accurate to the best of my knowledge. I (we) agree to notify the appropriate agency official of any changes to the above (i.e., from amended tax returns, tax audit, etc.) so that appropriate adjustments to the RIT allowance can be made. The required supporting documents are attached. Additional documentation will be furnished if requested.

I (we) further agree that if the 12-month service agreement required by 41 CFR 302-2.13 is violated, the total amount of the RIT allowance will become a debt due the United States Government and will be repaid according to agency procedures.

Employee's signature

Date

Spouse's signature (if filing jointly)¹

Date

¹ If a joint filing status is claimed and spouse's income is included, the spouse must sign the statement. If the spouse does not sign the document, earned income will include only the employee's earned income as provided in 41 CFR 302-17.8(d). This condition will not apply if an employee is allowed, under IRS rules, to file a joint return as a surviving spouse.

(b) Supporting documentation/verification. The claim for the RIT allowance shall be supported by documentation attached to the voucher and by verification of State and local tax obligations as provided below:

(1) Copies of the appropriate IRS Forms W-2 and, if applicable, the completed IRS Schedule SE (Form 1040) shall be attached to the voucher to substantiate the income amounts shown in the certified statement. Employee (and spouse, if filing jointly) must agree to provide additional documentation to verify income amounts, filing status, and State and local income tax obligations if requested by the agency.

(2) In order to determine or verify whether a particular State or local tax authority imposes a tax on moving expense reimbursements, it is incumbent upon the appropriate agency officials to become familiar with the State and local tax laws that affect their transferring employees. In cases where the taxability of moving expense reimbursements is not clear, an agency may pay a RIT allowance which reflects only those State and local tax obligations that are clearly imposed under State and local tax law. Once the questionable State or local tax obligations are resolved, agencies may recompute the RIT allowance and make appropriate payment adjustments.

(c) Fraudulent claims. A claim against the United States is forfeited if the claimant defrauds or attempts to defraud the Government in connection therewith (28 U.S.C. 2514). In addition, there are two criminal provisions under which severe penalties may be imposed on an employee who knowingly presents a false, fictitious, or fraudulent claim against the United States (18 U.S.C. 287 and 1001). The employee's claim for payment of the RIT allowance shall accurately reflect the facts involved in every instance so that any violation of these provisions will be avoided.

§ 302-17.11 Violation of service agreement.

In the event the employee violates the terms of the service agreement required under § 302-2.13, no part of the RIT allowance or the WTA will be paid, and any amounts paid prior to such violation shall be a debt due the United States until they are repaid by the employee.

§ 302-17.12 Advance of funds.

No advance of funds is authorized in connection with the allowance provided in this part.

§ 302-17.13 Source references.

The following references or publications have been used as source material for this part.

(a) Internal Revenue Code (IRC), section 164(a)(3) (26 U.S.C. 164(a)(3)) pertaining to the deductibility of State and local income taxes, and section 217 (26 U.S.C. 217), pertaining to moving expenses.

(b) Internal Revenue Service Publication 521, “Moving Expenses.”

(c) Internal Revenue Service, Circular E, “Employer's Tax Guide.”

(d) Department of the Treasury Financial Manual, TFM 3-5000.

(e) 31 CFR 215.2 (5 U.S.C. 5516, 5517, and 5520).

Appendix A to Part 302-17—Federal Tax Tables for RIT Allowance

Federal Marginal Tax Rates by Earned Income Level and Filing Status—Tax Year 2000
[The following table is to be used to determine the Federal marginal tax rate for Year 1 for computation of the RIT allowance as prescribed in § 302-11.8(e)(1). This table is to be used for employees whose Year 1 occurred during calendar year 2000.]
Marginal tax rate (percent) | Single taxpayer: Over | Single taxpayer: But not over | Heads of household: Over | Heads of household: But not over | Married filing jointly/qualifying widows and widowers: Over | Married filing jointly/qualifying widows and widowers: But not over | Married filing separately: Over | Married filing separately: But not over
15 | $7,417 | $34,638 | $13,375 | $49,734 | $17,421 | $63,297 | $8,603 | $31,342
28 | 34,638 | 75,764 | 49,734 | 113,413 | 63,297 | 131,334 | 31,342 | 63,448
31 | 75,764 | 148,990 | 113,413 | 180,742 | 131,334 | 189,826 | 63,448 | 99,219
36 | 148,990 | 306,111 | 180,742 | 326,450 | 189,826 | 315,957 | 99,219 | 170,524
39.6 | 306,111 |  | 326,450 |  | 315,957 |  | 170,524 |

Appendix B to Part 302-17—State Tax Tables for RIT Allowance

State Marginal Tax Rates by Earned Income Level—Tax Year 2000
[The following table is to be used to determine the State marginal tax rates for calculation of the RIT allowance as prescribed in § 302-11.8(e)(2). This table is to be used for employees who received covered taxable reimbursements during calendar year 2000.]
Marginal tax rates (stated in percents) for the earned income amounts specified in each column 1, 2: State (or district) | Marginal tax rates (stated in percents) for the earned income amounts specified in each column 1, 2: $20,000-$24,999 | Marginal tax rates (stated in percents) for the earned income amounts specified in each column 1, 2: $25,000-$49,999 | Marginal tax rates (stated in percents) for the earned income amounts specified in each column 1, 2: $50,000-$74,999 | Marginal tax rates (stated in percents) for the earned income amounts specified in each column 1, 2: $75,000 and over
Alabama | 5 | 5 | 5 | 5
Alaska | 0 | 0 | 0 | 0
Arizona | 2.87 | 3.2 | 3.74 | 5.04
Arkansas | 4.5 | 7 | 7 | 7
If single status ³ | 6 | 7 | 7 | 7
California | 2 | 4 | 8 | 9.3
If single status ³ | 4 | 8 | 8 | 9.3
Colorado | 4.75 | 4.75 | 4.75 | 4.75
Connecticut | 4.5 | 4.5 | 4.5 | 4.5
Delaware | 5.2 | 5.95 | 6.4 | 6.4
District of Columbia | 8 | 9.5 | 9.5 | 9.5
Florida | 0 | 0 | 0 | 0
Georgia | 6 | 6 | 6 | 6
Hawaii | 7.2 | 8.2 | 8.75 | 8.75
If single status ³ | 8.2 | 8.75 | 8.75 | 8.75
Idaho | 7.8 | 8.2 | 8.2 | 8.2
Illinois | 3 | 3 | 3 | 3
Indiana | 3.4 | 3.4 | 3.4 | 3.4
Iowa | 6.48 | 7.92 | 8.98 | 8.98
If single status ³ | 6.8 | 7.92 | 8.98 | 8.98
Kansas | 3.5 | 6.25 | 6.25 | 6.45
If single status ³ | 6.25 | 6.45 | 6.45 | 6.45
Kentucky | 6 | 6 | 6 | 6
Louisiana | 2 | 4 | 4 | 6
If single status ³ | 4 | 4 | 6 | 6
Maine | 4.5 | 7 | 8.5 | 8.5
If single status ³ | 7 | 8.5 | 8.5 | 8.5
Maryland | 4.85 | 4.85 | 4.85 | 4.85
Massachusetts | 5.95 | 5.95 | 5.95 | 5.95
Michigan | 4.4 | 4.4 | 4.4 | 4.4
Minnesota | 5.5 | 7.25 | 7.25 | 8
If single status ³ | 7.25 | 7.25 | 8 | 8
Mississippi | 5 | 5 | 5 | 5
Missouri | 6 | 6 | 6 | 6
Montana | 9 | 10 | 11 | 11
Nebraska | 3.65 | 5.24 | 6.99 | 6.99
If single status ³ | 5.24 | 6.99 | 6.99 | 6.99
Nevada | 0 | 0 | 0 | 0
New Hampshire | 0 | 0 | 0 | 0
New Jersey | 1.4 | 1.75 | 2.45 | 6.37
If single status ³ | 1.4 | 3.5 | 5.525 | 6.37
New Mexico | 3.2 | 6 | 7.1 | 8.2
If single status ³ | 6 | 7.1 | 7.9 | 8.2
New York | 4 | 5.25 | 6.85 | 6.85
If single status ³ | 5.25 | 6.85 | 6.85 | 6.85
North Carolina | 6 | 7 | 7 | 7.75
North Dakota | 6.67 | 9.33 | 12 | 12
If single status ³ | 8 | 10.67 | 12 | 12
Ohio | 3.580 | 4.295 | 5.012 | 7.228
Oklahoma | 5 | 6.75 | 6.75 | 6.75
If single status ³ | 6.75 | 6.75 | 6.75 | 6.75
Oregon | 9 | 9 | 9 | 9
Pennsylvania | 2.8 | 2.8 | 2.8 | 2.8
Rhode Island ⁴ | 26.5 | 26.5 | 26.5 | 26.5
South Carolina | 7 | 7 | 7 | 7
South Dakota | 0 | 0 | 0 | 0
Tennessee | 0 | 0 | 0 | 0
Texas | 0 | 0 | 0 | 0
Utah | 7 | 7 | 7 | 7
Vermont ⁵ | 25 | 25 | 25 | 25
Virginia | 5 | 5.75 | 5.75 | 5.75
Washington | 0 | 0 | 0 | 0
West Virginia | 4 | 4.5 | 6 | 6.5
Wisconsin | 6.37 | 6.77 | 6.77 | 6.77
Wyoming | 0 | 0 | 0 | 0
¹ Earned income amounts that fall between the income brackets shown in this table (e.g., $24,999.45, $49,999.75) should be rounded to the nearest dollar to determine the marginal tax rate to be used in calculating the RIT allowance.
² If the earned income amount is less than the lowest income bracket shown in this table, the employing agency shall establish an appropriate marginal tax rate as provided in § 302-11.8(e)(2)(ii).
³ This rate applies only to those individuals certifying that they will file under a single status within the States where they will pay income taxes. All other taxpayers, regardless of filing status, will use the other rate shown.
⁴ The income tax rate for Rhode Island is 26.5 percent of Federal income tax liability for all employees. Rates shown as a percent of Federal income tax liability must be converted to a percent of income as provided in § 302-11.8(e)(2)(iii).
⁵ The income tax rate for Vermont is 25 percent of Federal income tax liability for all employees. Rates shown as a percent of Federal income tax liability must be converted to a percent of income as provided in § 302-11.8(e)(2)(iii).

Appendix C to Part 302-17_Federal Tables for RIT Allowance_Year 2

Federal Marginal Tax Rates by Earned Income Level and Filing Status—Tax Year 2001
[The following table is to be used to determine the Federal marginal tax rate for Year 2 for computation of the RIT allowance as prescribed in § 302-11.8(e)(1). This table is to be used for employees whose Year 1 occurred during calendar years 1991, 1992, 1993, 1994, 1995, 1996, 1997, 1998, 1999 or 2000.]
Marginal tax rate (percent) | Single taxpayer: Over | Single taxpayer: But not over | Heads of households: Over | Heads of households: But not over | Married Filing jointly/qulifying widows & widowers: Over | Married Filing jointly/qulifying widows & widowers: But not over | Married filing separately: Over | Married filing separately: But not over
15 | $7,582 | $35,363 | $13,905 | $51,016 | $18,061 | $65,011 | $8,742 | $32,028
28 | 35,363 | 77,472 | 51,016 | 116,612 | 65,011 | 133,818 | 32,028 | 65,470
31 | 77,472 | 154,524 | 116,612 | 180,660 | 133,818 | 193,566 | 65,470 | 99,363
36 | 154,524 | 317,548 | 180,660 | 324,522 | 193,566 | 323,455 | 99,363 | 169,100
39.6 | 317,548 |  | 324,522 |  | 323,455 |  | 169,100 |

Appendix D to Part 302-17_Puerto Rico Tax Tables for RIT Allowance

Puerto Rico Marginal Tax Rates by Earned Income Level—Tax Year 1998
[The following table is to be used to determine the Puerto Rico marginal tax rate for computation of the RIT allowance as prescribed in § 302-11.8(e)(4)(i).]
Marginal tax rate (percent) | Single filing status: Over | Single filing status: But not over | Any other filing status: Over | Any other filing status: But not over
12 |  |  |  | $25,000
18 |  | $25,000 |  |
31 | $25,000 | 50,000 | $25,000 | 50,000
33 | 50,000 |  | 50,000 |

Dated: October 30, 2001.
Stephen A. Perry,
Administrator of General Services.

[FR Doc. 01-27764 Filed 11-19-01; 8:45 am]

BILLING CODE 6820-34-P